DEPARTMENT OF STATE

[Public Notice: 9351]

Office of the Chief of Protocol; Gifts to Federal Employees From Foreign Government Sources Reported to Employing Agencies in Calendar Year 2014

The Department of State submits the following comprehensive listing of the statements which, as required by law, federal employees filed with their employing agencies during calendar year 2014 concerning gifts received from foreign government sources. The compilation includes reports of both tangible gifts and gifts of travel or travel expenses of more than minimal value, as defined by the statute. Also included are gifts received in previous years including one gift in 1985, one gift in 1995, one gift in 1997, one gift in 2001, two gifts in 2009, one gift in 2010, six gifts in 2011, five gifts in 2012, forty-nine gifts in 2013, and one gift with an unknown date. These latter gifts are being reported in 2014 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: November 12, 2015.
Patrick F. Kennedy,
Under Secretary for Management, Department of State.

AGENCY: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Barack Obama, President of the United States | Six boxes of dates. Twelve bottles of wine. Rec'd—12/20/2013. Est. Value—$509.94. Disposition—Perishable items handled pursuant to United States Secret Service policy | His Excellency Abdallah Baali, Ambassador of the People's Democratic Republic of Algeria to the United States | Non-acceptance would cause embarrassment to donor and U.S. Government.
The Honorable Barack Obama, President of the United States | Gold and silver men's wristwatch with leather band. Rec'd—1/14/2014. Est. Value—$18,240.00. Disposition—National Archives and Records Administration | Abdullah bin Abdulaziz Al-Saud, Custodian of the Two Holy Mosques, King of the Kingdom of Saudi Arabia | Non-acceptance would cause embarrassment to donor and U.S. Government.
The Honorable Barack Obama, President of the United States | Metallic gold-tone vase with red gemstones. Rec'd—1/22/2014. Est. Value—$430.00. Disposition—National Archives and Records Administration | His Excellency Usama Al-Nujaifi, Speaker of the Council of Representatives of the Republic of Iraq | Non-acceptance would cause embarrassment to donor and U.S. Government.
The Honorable Barack Obama, President of the United States | Mahogany sculpture, title: Le Negre Marron depicting a man drinking from a water jug. Rec'd—2/6/2014. Est. Value—$500.00. Disposition—National Archives and Records Administration | His Excellency Michel Joseph Martelly, President of the Republic of Haiti | Non-acceptance would cause embarrassment to donor and U.S. Government.
The Honorable Barack Obama, President of the United States | Green fountain pen with gold floral accents with an ink cartridge. Rec'd—2/7/2014. Est. Value—$1,614.00. Disposition—National Archives and Records Administration | His Excellency Fumio Kishida, Minister of Foreign Affairs of Japan | Non-acceptance would cause embarrassment to donor and U.S. Government.
The Honorable Barack Obama, President of the United States | Three bottles of wine. Special-edition six-book set, title: Memoires du Generale Lafayette. Rec'd—2/9/2014. Est. Value—$2,906.00. Disposition—National Archives and Records Administration. Wine handled pursuant to United States Secret Service Policy | His Excellency François Hollande, President of the French Republic | Non-acceptance would cause embarrassment to donor and U.S. Government.
The Honorable Barack Obama, President of the United States | Book, title: Haciendas of the State of Mexico. Photo album of the North American Leaders' Summit (NALS). Framed and signed photograph of President Obama, the President of the United Mexican States, and the Prime Minister of Canada at NALS. One kilogram pure silver coin engraved with image of Frida Kahlo. Silver cufflinks with the Great Seal of the United States. 1′ x 2′ wool rug in an American Flag pattern. Sculpture of brightly colored flowers, animals, and people attached to clay base. Rec'd—2/19/2014. Est. Value—$3,290.00. Disposition—National Archives and Records Administration | His Excellency Enrique Peña Nieto, President of the United Mexican States | Non-acceptance would cause embarrassment to donor and U.S. Government.
The Honorable Barack Obama, President of the United States | Framed black and white photograph of the first American consulate in Jerusalem circa 1888. Rec'd—3/3/2014. Est. Value—$440.00. Disposition—National Archives and Records Administration | His Excellency Benjamin Netanyahu, Prime Minister of the State of Israel | Non-acceptance would cause embarrassment to donor and U.S. Government.
The Honorable Barack Obama, President of the United States | Bottle of cognac. Rec'd—3/3/2014. Est. Value—$615.00. Disposition—Perishable items handled pursuant to United States Secret Service policy | His Excellency Iurie Leancă, Prime Minister of the Republic of Moldova | Non-acceptance would cause embarrassment to donor and U.S. Government.
The Honorable Barack Obama, President of the United States | Scalloped rim crystal bowl in the shape of Ireland's Croagh Patrick Peak. DVD, title: Sustainability Starts Here. Book, title: My Irish Table. Silverware knife. Rec'd—3/13/2014. Est. Value—$1,512.00. Disposition—National Archives and Records Administration | His Excellency Enda Kenny, TD, Prime Minister of Ireland | Non-acceptance would cause embarrassment to donor and U.S. Government.
The Honorable Barack Obama, President of the United States | Framed metallic disc plaque decorated with beads and stones. Framed tile art featuring red, purple, yellow, and white flowers on green vines. Rec'd—3/16/2014. Est. Value—$625.00. Disposition—National Archives and Records Adminsitration | His Excellency Dr. Mahmoud Abbas, President of the Palestinian Authority | Non-acceptance would cause embarrassment to donor and U.S. Government.
The Honorable Barack Obama, President of the United States | Two white tulip vases. Blue and white double gourd vase. Rec'd—3/24/2014. Est. Value—$730.00. Disposition—National Archives and Records Administration | His Excellency Mark Rutte, Prime Minister and Minister of General Affairs of the Netherlands | Non-acceptance would cause embarrassment to donor and U.S. Government.
The Honorable Barack Obama, President of the United States | Silver box inscribed with the signature of President Giorgio Napolitano. Speech by President Giorgio Napolitano, title: Messaggio Al Parlamento. Rec'd—3/27/2014. Est. Value—$985.00. Disposition—National Archives and Records Administration | His Excellency Giorgio Napolitano, President of the Italian Republic | Non-acceptance would cause embarrassment to donor and U.S. Government.
The Honorable Barack Obama, President of the United States | 6″ cast bronze medal depicting vines on ceramic stoneware with a Roman travertine finish. 8″ cast bronze medal depicting the Angel of Solidarity and Peace. Book, title: Miserando Atque Eligando. Rec'd—3/27/2014. Est. Value—$1,015.00. Disposition—National Archives and Records Administration | His Holiness Pope Francis, Holy See | Non-acceptance would cause embarrassment to donor and U.S. Government.
The Honorable Barack Obama, President of the United States | 29″ x 21″ folio of lithographs, title: Fontane Del Vaticano. Leather-bound book, title: Annuario Pontificio 2014. Rec'd—3/27/2014. Est. Value—$1,707.00. Disposition—National Archives and Records Adminstration | His Eminence Cardinal Pietro Parolin, Secretary of State of the Holy See | Non-acceptance would cause embarrassment to donor and U.S. Government.
The Honorable Barack Obama, President of the United States | 48″ gold-plated brass replica of the Makkah Clock Tower on marble base. Rec'd—3/28/2014. Est. Value—$57,000.00. Disposition—National Archives and Records Administration | Abdullah bin Abdulaziz Al-Saud, Custodian of the Two Holy Mosques, King of the Kingdom of Saudi Arabia | Non-acceptance would cause embarrassment to donor and U.S. Government.
The Honorable Barack Obama, President of the United States | White gold men's wristwatch with leather band. Rec'd—4/15/2014. Est. Value—$67,000.00. Disposition—National Archives and Records Administration | Abdullah bin Abdulaziz Al-Saud, Custodian of the Two Holy Mosques, King of the Kingdom of Saudi Arabia | Non-acceptance would cause embarrassment to donor and U.S. Government.
The Honorable Barack Obama, President of the United States | Flower pot painted with scene of dark gray mountain terrain. Signed framed photograph of the Emperor and Empress of Japan. Rec'd—4/24/2014. Est. Value—$2,540.00. Disposition—National Archives and Records Administration. Sake handled pursuant to United States Secret Service policy | Their Majesties the Emperor and Empress of Japan | Non-acceptance would cause embarrassment to donor and U.S. Government.
The Honorable Barack Obama, President of the United States | Painting on paper in colored powder and gold, title: “Harmonious and Peaceful World” depicting the sun, moon, and five mountain peaks representing the king. Rec'd—4/25/2014. Est. Value—$2,200.00. Disposition—National Archives and Records Administration | Her Excellency Park Geun-hye, President of the Republic of Korea | Non-acceptance would cause embarrassment to donor and U.S. Government.
The Honorable Barack Obama, President of the United States | Three coin set, one silver with the face of the King, one silver with the face of the Queen, and one gold with the King and Queen together. Signed and framed photograph of the King and Queen of Malaysia. 10″ plate with images of the King and Queen of Malaysia. Book, title: The Return. 20″ sword with steel blade and grip of polished wood carved in the shape of water fowl, held in a sheath of gold and silver with encrusted gemstones. Rec'd—4/26/2014. Est. Value—$8,117.00. Disposition—National Achives and Records Administration | His Majesty Sultan Badlishah Almu'tasimu Billahi Muhibbuddin Tunaku Ahaj Abdul Halim Mu'adzam Shah Ibni Almarhum, Yang di-Pertuan Agong XIV of Malaysia | Non-acceptance would cause embarrassment to donor and U.S. Government.
The Honorable Barack Obama, President of the United States | Framed portrait of President Obama woven in songket fabric. Stamp collection in a metal-covered book including stamps to commemorate President Obama's visit to Malaysia. Six booklets about Islam. Book, title: Ziarah Masjid di Malaysia. Rec'd—4/27/2014. Est. Value—$810.00. Disposition—National Archives and Records Administration | YAB Dato' Sri Mohd Najib, Prime Minister of Malaysia | Non-acceptance would cause embarrassment to donor and U.S. Government.
The Honorable Barack Obama, President of the United States | Bronze-tone covered photo album containing photographs of President Obama's visit to Malaysia. Silk batik fabric in silver, blue, and teal. Book, title: Malacanan Palace. Rec'd—4/28/2014. Est. Value—$441.75. Disposition—National Archives and Records Administration | YB Encik Khairy Jamaluddin Abu Bakar, Minister of Youth and Sports of Malaysia | Non-acceptance would cause embarrassment to donor and U.S. Government.
The Honorable Barack Obama, President of the United States | 37″ x 37″ black, white, and gray toned painting, title: Boliche depicting a table and four chairs on a tiled floor, plus drinkware. Cable-knit tan wool shawl with brown leather and suede accents. 25″ x 35″ print on canvas featuring pastoral scene of men with swords looking off into the distance. Rec'd—5/12/2014. Est. Value—$1,681.00. Disposition—National Archives and Records Administration | His Excellency José Mujica Cordano, President of the Oriental Republic of Uruguay | Non-acceptance would cause embarrassment to donor and U.S. Government.
The Honorable Barack Obama, President of the United States | Three bottles of wine. Rec'd—6/5/2014. Est. Value—$537.00. Disposition—Perishable items handled pursuant to United States Secret Service policy | His Excellency François Hollande, President of the French Republic | Non-acceptance would cause embarrassment to donor and U.S. Government.
The Honorable Barack Obama, President of the United States | 24″ x 36″ framed and matted photograph of Winston Churchill and Dwight Eisenhower reviewing American paratroopers and a two-page facsimile telegram from Prime Minister Churchill to President Truman. Rec'd—6/6/2014. Est. Value—$440.00. Disposition—National Archives and Records Administration | The Right Honorable David Cameron, MP, Prime Minister of the United Kingdom of Great Britain and Northern Ireland | Non-acceptance would cause embarrassment to donor and U.S. Government.
The Honorable Barack Obama, President of the United States | 9.5′ white and blue longboard with friendship flags and the Presidential Seal. Black leather boots. Rec'd—6/11/2014. Est. Value—$2,371.21. Disposition—National Archives and Records Administration | The Honorable Tony Abbott, MP, Prime Minister of Australia | Non-acceptance would cause embarrassment to donor and U.S. Government.
The Honorable Barack Obama, President of the United States | 72″ x 32″ painting on canvas of four people in a beach setting listening to a guitar player. Autographed book, title: Kiki Lima. Rec'd—8/4/2014. Est. Value—$1,055.87. Disposition—National Archives and Records Administration | His Excellency Jorge Carlos Fonseca, President of the Republic of Cabo Verde | Non-acceptance would cause embarrassment to donor and U.S. Government.
The Honorable Barack Obama, President of the United States | Framed painting, title: Le Joueur de Cara depicting a man playing a stringed instrument and singing composed in multiple colors and patterns. Bronze staff simulating woven thread set on a six-inch piece of tapered wood. Rec'd—8/4/2014. Est. Value—$1,035.00. Disposition—National Archives and Records Administration | His Excellency Daniel Kablan Duncan, Prime Minister of the Republic of Côte d'Ivoire | Non-acceptance would cause embarrassment to donor and U.S. Government.
The Honorable Barack Obama, President of the United States | Lacquer-ware box with mother of pearl design. Rec'd—8/5/2014. Est. Value—$490.00. Disposition—National Archives and Records Administration | His Excellency Ahn Ho-Young, Ambassador of the Republic of Korea to the United States | Non-acceptance would cause embarrassment to donor and U.S. Government.
The Honorable Barack Obama, President of the United States | Chess set of a mirrored board and silver pieces with felt bottoms. Rec'd—8/6/2014. Est. Value—$445.00. Disposition—National Archives and Records Administration | His Majesty Mswati III, King of the Kingdom of Swaziland | Non-acceptance would cause embarrassment to donor and U.S. Government.
The Honorable Barack Obama, President of the United States | 16″ brass and copper statue of a man playing stringed instrument. 37″ x 30″ framed copper relief of a family village scene. Rec'd—8/7/2014. Est. Value—$880.00. Disposition—National Archives and Records Administration | His Excellency Blaise Compaoré, President of Burkina Faso | Non-acceptance would cause embarrassment to donor and U.S. Government.
The Honorable Barack Obama, President of the United States | 8′ x 4′ carpet with multi-colored stripes, patterns, camels, and white fringe. 20.5″ silver circular platter engraved with building and text “Interim Government of Libya”. Rec'd—8/7/2014. Est. Value—$600.00. Disposition—National Archives and Records Administration | His Excellency Abdalla Alteni, Prime Minister of the State of Libya | Non-acceptance would cause embarrassment to donor and U.S. Government.
The Honorable Barack Obama, President of the United States | 39″ x 39″ two panel painting of abstract human figures and symbols in earth tones and white. Three pieces of traditional clothing, one piece gray, black, and white, one piece blue and yellow, and one piece red and gold. Rec'd—8/7/2014. Est. Value—$1,940.00. Disposition—National Archives and Records Administration | His Excellency Faure Gnassingbé, President of the Republic of Togo | Non-acceptance would cause embarrassment to donor and U.S. Government.
The Honorable Barack Obama, President of the United States | 34″ x 26″ framed black and white painting, comprised of abstract forms of faces and nature. Rec'd—8/8/2014. Est. Value—$550.00. Disposition—National Archives and Records Administration | His Excellency Joseph Kabila Kabange, President of the Democratic Republic of the Congo | Non-acceptance would cause embarrassment to donor and U.S. Government.
The Honorable Barack Obama, President of the United States | Book, title: Goodluck Jonathan—Champion for Women. Two framed and matted pencil drawings of President Obama, one as a Senator and one as President. 40″ x 14″ relief art, title: Ijaw Fisherman with bronze paint. Rec'd—8/8/2014. Est. Value—$630.00. Disposition—National Archives and Records Administration | His Excellency Dr. Goodluck Jonathan, President of the Federal Republic of Nigeria | Non-acceptance would cause embarrassment to donor and U.S. Government.
The Honorable Barack Obama, President of the United States | 31″ x 31″ yellow and orange painting with a metal rod attached to top with spear heads on each end. 56″ Kora stringed instrument. Rec'd—8/12/2014. Est. Value—$1,380.00. Disposition—National Archives and Records Administration | His Excellency Alhaji Dr. Yahya A.J.J. Jammeh, President of the Republic of The Gambia | Non-acceptance would cause embarrassment to donor and U.S. Government.
The Honorable Barack Obama, President of the United States | Ceremonial dagger decorated with detailed silver work and coral stones. Rec'd—8/21/2014. Est. Value—$885.00. Disposition—National Archives and Records Administration | His Excellency Abdelmalek Sellal, Prime Minister of the People's Democratic Republic of Algeria | Non-acceptance would cause embarrassment to donor and U.S. Government.
The Honorable Barack Obama, President of the United States | 19.5″ x 21″ photograph, title: Waterway Weaves 2 printed on glass showing a map of the Republic of Estonia outlined in blue over a textured surface. Rec'd—9/2-3/2014. Est. Value—$885.00. Disposition—National Archives and Records Administration | His Excellency Toomas Hendrick Ilves, President of the Republic of Estonia | Non-acceptance would cause embarrassment to donor and U.S. Government.
The Honorable Barack Obama, President of the United States | Limited-edition print, title: Celtic Approach. Cufflinks of the Celtic Manor Resort. 9″ x 14″ x 14″ basket of woven wood. Book, title: “Collected Poems 1934-1953” by Dylan Thomas. Package of sea salt. 8″ x 6″ fabric personal journal. Computer USB accessory. 88″ x 68″ blanket with red and black peony pattern. Four coasters, black with four gray symbols. Rec'd—9/5/2014. Est. Value—$736.31. Disposition—National Archives and Records Administration. Perishable items handled pursuant to United States Secret Service policy | The Government of the United Kingdom of Great Britain and Northern Ireland | Non-acceptance would cause embarrassment to donor and U.S. Government.
The Honorable Barack Obama, President of the United States | Olive green ceramic vase with a crisscross floral pattern and matching lid set on a varnished brown wooden stand. Rec'd—9/22/2014. Est. Value—$450.00. Disposition—National Archives and Records Administration | His Excellency Zhang Gaoli, Executive Vice Premier of the People's Republic of China | Non-acceptance would cause embarrassment to donor and U.S. Government.
The Honorable Barack Obama, President of the United States | Octagonal box of polished silver featuring a floral pattern and the Emblem of Brunei Darussalam set on a pedestal under glass. Rec'd—9/25/2015 Est. Value—$1,400.00. Disposition—National Archives and Records Administration | His Majesty Sultan Haji Hassanal Bolkiah Mu'izzaddin Waddaulah ibni Al-Marhum Sultan Haji Omar Ali Saifuddien Sa'adul Khairi Waddien, Sultan and Yang Di-Pertuan of Brunei Darussalam | Non-acceptance would cause embarrassment to donor and U.S. Government.
The Honorable Barack Obama, President of the United States | Porcelain vase with a blue and white floral pattern set on a dark brown wooden base. CD collection, title: Elegant Sound of China. Rec'd—10/7/2014. Est. Value—$565.58. Disposition—National Archives and Records Administration | His Excellency Wang Yi, Minister of Foreign Affairs of the People's Republic of China | Non-acceptance would cause embarrassment to donor and U.S. Government.
The Honorable Barack Obama, President of the United States | Two 34″ x 34″ x 17″ half tables, painted black and gold, with images of pheasants in a natural setting. 49″ x 61″ framed painting in black, white, and gray of a mountain scene and small structures. Commemorative stamp set mounted on eight screen panels, wrapped in silk-floss sheets, and held in a dark wooden case. 83″ x 83″ x 150″ cloisonne pot themed “Peace Across Four Seas,” set on a wood base. Navy blue silk robe with fuchsia lining and floral embroidery inscribed with the APEC logo and includes pockets and a belt. Painting on a scroll depicting scenes of Beijing past and present set on a stand. Two tablet computers, each with case. Red and white cloisonne style fountain pen and signing pen. Black leather computer bag stamped with APEC logo. Teal and black silk jacket with simulated inner jacket and four buttons. Maroon and black silk jacket with simulated inner jacket and four buttons. Cream color silk Nehru shirt. Rec'd—11/7/2014. Est. Value—$8,105.96. Disposition—National Archives and Records Administration | His Excellency Xi Jinping, President of the People's Republic of China | Non-acceptance would cause embarrassment to donor and U.S. Government.
The Honorable Barack Obama, President of the United States | Black velvet flip flop sandals. Infinity scarf with burgundy, gray, and white stripes. Infinity scarf with silver and light blue stripes. Two white dress shirts with pocket. Off-white tunic with long sleeves, pockets, and knotted straps in front. Black tunic with long sleeves, pockets, and knotted straps in front. Two-toned blue cashmere shawl with teal embroidery. Dress shirt in shades of purple silk. Teal dress shirt with fuchsia embroidery striping. Rec'd—11/8/2014. Est. Value—$2,168.00. Disposition—National Archives and Records Administration | Government of the Republic of Union of Myanmar | Non-acceptance would cause embarrassment to donor and U.S. Government.
The Honorable Barack Obama, President of the United States | 30″ x 40″ painting on fiber board, facsimile of a mural in Myinkaba Kubyauk-gyi Temple. 29″ x 35″ framed painting of the head and shoulders of President Obama, wearing a suit and gazing upward. 12″ x 8″ model of a Burmese harp made of silver. Brown leatherette briefcase with zippered top, stamped “Myanmar 2014.” Book, title: Bamar Snacks Volumes 1 and 2. Booklet, title: ASEAN Summit Leaders. Book, title: Friendly Myanmar. 2014 calendar. Black ballpoint pen. Silver-tone keychain. Business card case. Notebook. Fountain pen with white gold and snowflake emblem. Rec'd—11/9/2014. Est. Value—$2,925.00. Disposition—National Archives and Records Administration | His Excellency U Thein Sein, President of the Republic of Union of Myanmar | Non-acceptance would cause embarrassment to donor and U.S. Government.
The Honorable Barack Obama, President of the United States | 3″ x 6.5″ x 4.5″ silver box with hinged lid depicting a royal figure surrounded by five attendants. Rec'd—11/14/2014. Est. Value—$465.00. Disposition—National Archives and Records Administration | Daw Aung San Suu Kyi, Chair of the National League for Democracy and Chairperson of the Phithu Hluttaw Committee for Rule of Law and Tranquility of the Republic of the Union of Myanmar | Non-acceptance would cause embarrassment to donor and U.S. Government.
The Honorable Barack Obama, President of the United States | 27″ x 30″ framed photograph of former Czech President Vaclav Havel. Rec'd—11/18/2014. Est. Value—$650.00. Disposition—National Archives and Records Administration | His Excellency Bohuslav Sobotka, Prime Minister of the Czech Republic | Non-acceptance would cause embarrassment to donor and U.S. Government.
The Honorable Barack Obama, President of the United States | Silver bowl set on a wooden pedestal. White pashmina scarf with pink and purple flowers. Rec'd—11/19/2014. Est. Value—$495.00. Disposition—National Archives and Records Administration | General Raheel Sharif, Chief of Army Staff of the Islamic Republic of Pakistan | Non-acceptance would cause embarrassment to donor and U.S. Government.
The Honorable Barack Obama, President of the United States | Three 4″ 5″ and 6″ in diameter nesting bowls of clear glass crystal shaped like a spinning top. Four 4″ height x 3″ in diameter rocks glasses shaped like a spinning top. 10″ x 10″ x 15″ cheese tray made of walnut. Book, title: In Color, by Ansel Adams. Book, title: People You'd Like to Know. Book, title: Unlikely Heroes. Automatic tea infuser in penguin shape with timer. Chess set of wooden board and pieces. Twelve scented votive candles. Botanic candle of Saffron de Bois. Scented oil diffuser. 24″ x 15″ x 10″ deep purple snakeskin design storage trunk with silver-tone fastener and handles. Rec'd—12/1/2014. Est. Value—$1,277.89. Disposition—National Archives and Records Administration | His Majesty Sultan Haji Hassanal Bolkiah Mu'izzaddin Waddaulah ibni Al-Marhum Sultan Haji Omar Ali Saifuddien Sa'adul Khairi Waddien, Sultan and Yang Di-Pertuan of Brunei Darussalam | Non-acceptance would cause embarrassment to donor and U.S. Government.
The Honorable Barack Obama, President of the United States | 13″ wood box decorated with mosaic pattern of gray and beige tiles and gold-tone crown. Rec'd—12/4/2014. Est. Value—$490.00. Disposition—National Archives and Records Administration | His Majesty Abdullah II ibn Al Hussein, King of the Hashemite Kingdom of Jordan | Non-acceptance would cause embarrassment to donor and U.S. Government.
The Honorable Barack Obama, President of the United States | Framed, matted, and signed photographic portrait of Prince William. Rec'd—12/8/2014. Est. Value—$888.00. Disposition—National Archives and Records Administration | His Royal Highness Prince William, Duke of Cambridge | Non-acceptance would cause embarrassment to donor and U.S. Government.
The Honorable Barack Obama, President of the United States | Two 20″ x 15.5″ and 18″ x 30″ wooden trays coated with green and white resin in a floral pattern. Rec'd—12/22/2014. Est. Value—$1,205.00. Disposition—National Archives and Records Administration | His Majesty Sultan Haji Hassanal Bolkiah Mu'izzaddin Waddaulah ibni Al-Marhum Sultan Haji Omar Ali Saifuddien Sa'adul Khairi Waddien, Sultan and Yang Di-Pertuan of Brunei Darussalam | Non-acceptance would cause embarrassment to donor and U.S. Government.
The Honorable Barack Obama, President of the United States | Box of dates. Twelve bottles of wine. Rec'd—12/23/2014. Est. Value—$475.78. Disposition—National Archives and Records Administration | His Excellency Abdelaziz Bouteflika, President of the People's Democratic Republic of Algeria | Non-acceptance would cause embarrassment to donor and U.S. Government.
The Honorable Barack Obama, President of the United States, and Mrs. Michelle Obama | 6″ amber glass sculpture of a fish splashing out of water. Rec'd—10/6/2013. Est. Value—$590.00. Disposition—National Archives and Records Administration | Mr. Vincent Siew, Leader's Representative to APEC of Chinese Taipei (Taiwan) | Non-acceptance would cause embarrassment to donor and U.S. Government.
The Honorable Barack Obama, President of the United States, and Mrs. Michelle Obama | Gold pin in the shape of a bull's head with three eyes made of gemstones. 8′ black scarf with gold thread embroidery. Gold tie pin with rectangular sapphire gem. Rec'd—8/4/2014. Est. Value—$696.00. Disposition—National Archives and Records Administration | His Excellency Hery Rajaonarimapianina, President of the Republic of Madagascar | Non-acceptance would cause embarrassment to donor and U.S. Government.
The Honorable Barack Obama, President of the United States, and Mrs. Michelle Obama | Two 14″ x 18″ paintings of a beach scene in vivid color. Rec'd—8/4/2014. Est. Value—$900.00. Disposition—National Archives and Records Administration | The Right Honorable Dr. Navinchandra Ramgoolam, GCSK, FRCP, Prime Minister of the Republic of Mauritius | Non-acceptance would cause embarrassment to donor and U.S. Government.
The Honorable Barack Obama, President of the United States, and Mrs. Michelle Obama | Two 10″ x 5″ x 3″ boxes of carved wood, one with red velvet lining, one with purple velvet lining. Various whole spices and oils. Black scarf with white and golden printed design. Framed painting of the islands of the Union of Comoros with individual cities and a wooden fish attached. Rec'd—8/4/2014. Est. Value—$475.00. Disposition—National Archives and Records Administration. Perishable items handled pursuant to United States Secret Service policy | His Excellency Ikililou Dhoinine, President of the Union of the Comoros | Non-acceptance would cause embarrassment to donor and U.S. Government.
The Honorable Barack Obama, President of the United States, and Mrs. Michelle Obama | Two chiwara (male and female) mounted on patterned black fabric background. Two black masks mounted on painting of tan and orange landscape and black fabric. Rec'd—8/9/2014. Est. Value—$515.00. Disposition—National Archives and Records Administration | His Excellency Ibrahim Boubacar Keïta, President of the Republic of Mali | Non-acceptance would cause embarrassment to donor and U.S. Government.
The Honorable Barack Obama, President of the United States, and Mrs. Michelle Obama | Wood statue of a man and woman dancing in jewel-ornamented formal wear. Wood statue with gold inlay and metal decoration. Rec'd—9/23/2014. Est. Value—$750.00. Disposition—National Archives and Records Administration | His Excellency Ollanta Humala Tasso, President of the Republic of Peru | Non-acceptance would cause embarrassment to donor and U.S. Government.
The Honorable Barack Obama, President of the United States, and Mrs. Michelle Obama | Digital recordings, titles: “Visit of Reverend Martin Luther King to India,” “Visit of Mrs. Coretta Scott King to Accept Jawaharlal Nehru Award for International Understanding to Reverend Martin Luther King (Posthumously) for the Year 1966 in January, 1969,” and “The Spirit of Mahatma Gandhi.” Pink-red tablecloth, fabric with flower designs. Sheer tan tablecloth fabric with gold thread embroidery border. Book, title: Srimad Bhagavad Gita. Special-edition book, title: Bhagavad Gita According to Gandhi. Golden fabric bag covered in floral white lace, closed by triangular flap with a gold and diamond pendant at the point. Short tan kurta with golden thread trim and concealed buttons. Tan vest with golden thread trim and concealed buttons. Tan pants with drawstring. 10″ x 12″ framed photograph of Dr. Martin Luther King, Jr. setting flowers at Mahatma Gandhi's Memorial at Rajghat in 1959. 24″ x 32″ framed Rogan Art painting, mostly red with green and golden detail, featuring a central spiral object. 24″ x 32″ framed Rogan Art painting; mostly green with golden detail, featuring a central object resembling a peacock. Purple dress with small gems and multi-colored embroidery of peacocks, flowers, and vines, sleeveless. Blue mid-length dress with sleeves with red and golden embroidery and gems in stripe and leaf pattern. Cream colored pashmina shawl with light orange and green stitching. Cream colored pashmina shawl with light gray stitching. Tan tunic with gray thread embroidery around the collar, sleeves, and bottom. Tan pants with drawstring. Rec'd—9/29/2014. Est. Value—$7,385.93. Disposition—National Archives and Records Administration | His Excellency Narendra Modi, Prime Minister of the Republic of India | Non-acceptance would cause embarrassment to donor and U.S. Government.
The Honorable Barack Obama, President of the United States, and Mrs. Michelle Obama | 6″ x 4″ x 5″ limited-edition sculpture with 3,000 pieces of amber lead crystal, title: “Harmonious Beauty”. Rec'd—11/9/2014. Est. Value—$470.00. Disposition—National Archives and Records Administration | Mr. Vincent Siew, Leader's Representative to APEC of Chinese Taipei (Taiwan) | Non-acceptance would cause embarrassment to donor and U.S. Government.
Mrs. Michelle Obama, First Lady of the United States | Diamond and emerald jewelry set including necklace, earrings, ring, and bracelet. Rec'd—1/14/2014. Est. Value—$560,000.00. Disposition—National Archives and Records Administration | Abdullah bin Abdulaziz Al-Saud, Custodian of the Two Holy Mosques, King of the Kingdom of Saudi Arabia | Non-acceptance would cause embarrassment to donor and U.S. Government.
Mrs. Michelle Obama, First Lady of the United States | Six-tier vase of multi-colored crystal. Rec'd—2/9/2014. Est. Value—$4,900.00. Disposition—National Archives and Records Administration. Wine handled pursuant to United States Secret Service Policy | His Excellency François Hollande, President of the French Republic | Non-acceptance would cause embarrassment to donor and U.S. Government.
Mrs. Michelle Obama, First Lady of the United States | Purple and orange silk shawl with embroidered clouds and waves. Purple and orange silk purse with embroidered clouds and waves. Set of audio and video recordings of Madame Peng Liyuan performing folk songs. Book, title A Dream of Red Mansions, by Sun Wen of the Qing Dynasty. Rec'd—3/21/2014. Est. Value—$1,287.99. Disposition—National Archives and Records Administration | Mrs. Peng Liyuan, First Lady of the People's Republic of China | Non-acceptance would cause embarrassment to donor and U.S. Government.
Mrs. Michelle Obama, First Lady of the United States | Diamond and pearl jewelry set including necklace, earrings, ring, and bracelet. Rec'd—4/15/2014. Est. Value—$570,000.00. Disposition—National Archives and Records Administration | Abdullah bin Abdulaziz Al-Saud, Custodian of the Two Holy Mosques, King of the Kingdom of Saudi Arabia | Non-acceptance would cause embarrassment to donor and U.S. Government.
Mrs. Michelle Obama, First Lady of the United States | Three-tier silver tiffin carrier with rubies. Silver colored wrap with green, orange, and blue detail. Rec'd—4/26/2014. Est. Value—$2,115.00. Disposition—National Archives and Records Administration | Her Majesty Tuanku Sultanah Hajah Haminah binti Hamidun, Raja Permaisuri Agong of Malaysia | Non-acceptance would cause embarrassment to donor and U.S. Government.
Mrs. Michelle Obama, First Lady of the United States | Black silk dress with pink and white pattern. Gray-black dress with white and beige pattern and gemstones. Black kaftan with colorful sequins. Pink-red songket fabric. Rec'd—4/27/2014. Est. Value—$650.00. Disposition—National Archives and Records Administration | Datin Seri Hajah Rosmah binti Mansor, First Lady of Malaysia | Non-acceptance would cause embarrassment to donor and U.S. Government.
Mrs. Michelle Obama, First Lady of the United States | Necklace made of silver with lapis beads. Book, title: Chile. Rec'd—6/29/2014. Est. Value—$478.00. Disposition—National Archives and Records Administration | Her Excellency Michelle Bachelet, President of the Republic of Chile | Non-acceptance would cause embarrassment to donor and U.S. Government.
Mrs. Michelle Obama, First Lady of the United States | Embroidered black, red, pink, and tan bag with leather bottom. Rec'd—7/24/2014. Est. Value—$620.00. Disposition—National Archives and Records Administration | His Excellency Otto Pérez Molina, President of the Republic of Guatemala | Non-acceptance would cause embarrassment to donor and U.S. Government.
Mrs. Michelle Obama, First Lady of the United States | Apple carved from light-colored wood. Brown, white, and gray scarf. Book, title: Visions of Africa: KOTA. Book, title: A Vision for Gabon. Rec'd—8/5/2014. Est. Value—$664.95. Disposition—National Archives and Records Administration | Mrs. Sylvia Bongo Ondimba, First Lady of the Gabonese Republic | Non-acceptance would cause embarrassment to donor and U.S. Government.
Mrs. Michelle Obama, First Lady of the United States | 11″ bowl on pedestal made of recycled glass, decorated with heads of a rhino, elephant, hippo, and water buffalo with a 6″ pedestal in the shape of a hippo. Two customized glass mugs with silver jaguar-shaped handles. Clear glass and metal drink ware set consisting of 8.5″ ice bucket with jaguar heads applied over glass knob handles, six 9.25″ goblets, each featuring silver-tone head of an animal, and set of six bottle stoppers of blown glass in the shape of an animal. Small silver round jewelry box with golden seal of the Kingdom of Swaziland on lid. Rec'd—8/6/2014. Est. Value—$2,761.00. Disposition—National Archives and Records Administration | His Majesty Mswati III, King of the Kingdom of Swaziland | Non-acceptance would cause embarrassment to donor and U.S. Government.
Mrs. Michelle Obama, First Lady of the United States | Cream color fabric table linen set including 24 napkins with embroidery of plants and animals and two tablecloths with embroidery matching the napkins. Beige rug with black and red pattern. Rec'd—8/7/2014. Est. Value—$980.00. Disposition—National Archives and Records Administration | His Excellency Blaise Compaoré, President of Burkina Faso | Non-acceptance would cause embarrassment to donor and U.S. Government.
Mrs. Michelle Obama, First Lady of the United States | Kente cloth, two pieces woven with multi-colored pattern. Book, title: The Humanitarian, The Philanthropist. Rec'd—8/7/2014. Est. Value—$540.00. Disposition—National Archives and Records Administration | Mrs. Lordina Mahama, First Lady of the Republic of Ghana | Non-acceptance would cause embarrassment to donor and U.S. Government.
Mrs. Michelle Obama, First Lady of the United States | Dining linen set including eight napkins and one tablecloth, white with patterns of leaves or flowers and gray and golden stitching. Rec'd—8/7/2014. Est. Value—$440.00. Disposition—National Archives and Records Administration | Mrs. Marième Faye Sall, First Lady of the Republic of Senegal | Non-acceptance would cause embarrassment to donor and U.S. Government.
Mrs. Michelle Obama, First Lady of the United States | Gold pin in the shape of a flower. Woven rug with black and tan pattern. Rec'd—8/9/2014. Est. Value—$605.00. Disposition—National Archives and Records Administration | Mrs. Keïta Aminata Maïga, First Lady of the Republic of Mali | Non-acceptance would cause embarrassment to donor and U.S. Government.
Mrs. Michelle Obama, First Lady of the United States | 35″ x 35″ mostly red and black painting with a metal rod attached to the top with spear heads on each end. 56″ Kora stringed instrument. Rec'd—8/12/2014. Est. Value—$1,830.00. Disposition—National Archives and Records Administration | His Excellency Alhaji Dr. Yahya A.J.J. Jammeh, President of the Republic of The Gambia | Non-acceptance would cause embarrassment to donor and U.S. Government.
Mrs. Michelle Obama, First Lady of the United States | Jewelry set made of gold with emeralds and diamonds including a bracelet, ring, and two earrings. Rec'd—9/25/2014. Est. Value—$27,300.00. Disposition—National Archives and Records Administration | Her Majesty Raja Isteri Pengiran Anak Hajah Saleha of Brunei Darussalam | Non-acceptance would cause embarrassment to donor and U.S. Government.
Mrs. Michelle Obama, First Lady of the United States | Gilded copper Tombak urn with an etched floral pattern. Rec'd—9/30/2014. Est. Value—$504.20. Disposition—National Archives and Records Administration | Mrs. Emine Erdoğan, First Lady of the Republic of Turkey | Non-acceptance would cause embarrassment to donor and U.S. Government.
Mrs. Michelle Obama, First Lady of the United States | 5″ x 4.5″ gold filigree handbag lined with white cloth. Gold brooch in the shape of rose petals and leaves. 13.5″ x 13.5″ white silk cloth embroidered with one golden rose and other golden flowers. Purple and tan shawl embroidered with botanical designs from the Qing Dynasty. 12″ x 11″ serving tray on four legs with two handles made of mostly gold with silver adornment on top resting on a flat, oval wooden serving tray on four short legs. Brown and tan leather briefcase with APEC logo lined with purple satin and closed by two gold-tone clasps. Scroll of tan cloth with corresponding Chinese and English script. Rec'd—11/11/2014. Est. Value—$5,420.00. Disposition—National Archives and Records Administration | Mrs. Peng Liyuan, First Lady of the People's Republic of China | Non-acceptance would cause embarrassment to donor and U.S. Government.
Mrs. Michelle Obama, First Lady of the United States | 13mm in diameter champagne pearl mounted to six-petal rosette backing with gold leaves and diamonds surrounding a pink stone. 13.8mm in diameter white pearl mounted to silver-tone parachute pendant with diamonds. Silver purse in coffer shape with curved handle. Rec'd—11/13/2013. Est. Value—$26,220.00. Disposition—National Archives and Records Administration | His Excellency U Thein Sein, President of the Republic of the Union of Myanmar | Non-acceptance would cause embarrassment to donor and U.S. Government.
First Family | 22″ x 10″ sculpture carved in pink Qingtian stone of 16 galloping horses set on dark wooden base. 6″ x 10″ x 10″ jewelry box made of rosewood with phoenix and peony design. Rec'd—3/21/2014. Est. Value—$3,225.00. Disposition—National Archives and Records Administration | Mrs. Peng Liyuan, First Lady of the People's Republic of China | Non-acceptance would cause embarrassment to donor and U.S. Government.
First Family | 10″ model palm tree made of silver and gold set on a green marble base. Kalakas Agarwood with diffuser. Two bottles of perfume named for the King of the Kingdom of Saudi Arabia. Four bottles of perfume. Black and red robe with white trim and intricate beading along the neckline and down the front. Brown and blue paisley robe, with satin purple lining and tassels. Pink-purple sleeveless satin blouse. Pink-purple satin pants. Dark gray sleeveless robe. Robe of sheer white fabric with a beaded flower pattern and pink-purple trim. Orange sheer fabric floor-length cape. Blue fabric Muumuu with multi-colored detail. Pink-purple Muumuu and golden sheer fabric. Purple fabric cape with dot and floral pattern. Gray fabric cape with red lining and green, red, and silver detail. Dark blue velvet floor-length gown. Red and blue velvet robe with red and white beaded tassels. Cream and golden fabric robe. Taupe fabric robe with golden clusters. Crimson and golden fabric robe. Four storage boxes, two decorated with red and golden foil undercut Lucite and two decorated with green and golden foil undercut Lucite. Rec'd—11/19/2014. Est. Value—$39,915.00. Disposition—National Archives and Records Administration. Perfume handled pursuant to the United States Secret Service policy | His Royal Highness Prince Miteb bin Abdullah bin Abdulaziz Al-Saud, Minister of the National Guard of the Kingdom of Saudi Arabia | Non-acceptance would cause embarrassment to donor and U.S. Government.
First Family Children | Diamond and emerald jewelry set including earrings, necklace, ring, brooch, and wristwatch. Diamond and ruby jewelry set including earrings, necklace, ring, brooch, and wristwatch. Rec'd—1/14/2014. Est. Value—$80,000.00. Disposition—National Archives and Records Administration | Abdullah bin Abdulaziz Al-Saud, Custodian of the Two Holy Mosques, King of the Kingdom of Saudi Arabia | Non-acceptance would cause embarrassment to donor and U.S. Government.
First Family Children | Four clothing sets of knit gloves, felted hat, and scarf in dark gray, light gray, purple, and magenta. Rec'd—6/19/2014. Est. Value—$801.36. Disposition—National Archives and Records Administration | The Right Honorable John Key, MP, Prime Minister of New Zealand | Non-acceptance would cause embarrassment to donor and U.S. Government.
White House Staff Member Jane Rhee | 12″ Khanjar knife and sheath with detailed silverwork. Metal plate engraved with the image of the Sultan Qaboos Grand Mosque. Rec'd—3/1/2013. Est. Value—$1,400.00. Disposition—Transferred to General Services Administration | Mr. Salem al-Ismaily, Special Envoy for the Sultanate of Oman | Non-acceptance would cause embarrassment to donor and U.S. Government.
White House Staff Member Puneet Talwar | Two 14″ and 12″ Khanjar knives with sheath and detailed silver work. Metal plate engraved with the image of the Muscat gate, Oman, and the Coastal Road. Rec'd—3/3/2013. Est. Value—$960.00. Disposition—Transferred to General Services Administration | Mr. Salem al-Ismaily, Special Envoy for the Sultanate of Oman | Non-acceptance would cause embarrassment to donor and U.S. Government.
White House Staff Member Puneet Talwar | 14″ Khanjar knife, sheath, and belt with detailed silver work. Framed photograph of President Obama in the Oval Office. Wood chess and backgammon board in a leather case. Silver bracelet with green stone. Rec'd—3/3/2013. Est. Value—$7,890.00. Disposition—Transferred to General Services Administration | His Majesty Sultan Qaboos bin Said al Said, Sultan of Oman | Non-acceptance would cause embarrassment to donor and U.S. Government.
White House Staff Member Caroline Atkinson | Two-piece rolling computer case business set. Leather tablet computer case with pen and notepad. Crystal icon of Sydney's Opera House containing an ingot cut from the outer wall of the opera house. Rec'd—12/12/2013. Est. Value—$753.16. Disposition—Transferred to General Services Administration | Dr. Heather Smith, PSM, Deputy Secretary and G20 Sherpa, Department of the Prime Minister and Cabinet of Australia | Non-acceptance would cause embarrassment to donor and U.S. Government.
White House Staff Member Colin Willett | Necklace of cultured pearls with silver clasp. Rec'd—12/19/2013. Est. Value—$1,600.00. Disposition—Transferred to General Services Administration | His Excellency Nguyen Quoc Cuong, Ambassador of the Socialist Republic of Vietnam to the United States | Non-acceptance would cause embarrassment to donor and U.S. Government.
White House Staff Member Prem Kumar | Silver wristwatch with leather band. Rec'd—1/5/2014. Est. Value—$19,628.00. Disposition—Transferred to General Services Administration | Abdullah bin Abdulaziz Al-Saud, Custodian of the Two Holy Mosques, King of the Kingdom of Saudi Arabia | Non-acceptance would cause embarrassment to donor and U.S. Government.
White House Staff Member Dr. Susan Rice | Fountain pen, green with gold floral accents, includes ink cartridge. Rec'd—2/7/2014. Est. Value—$1,614.40. Disposition—Transferred to General Services Administration | His Excellency Fumio Kishida, Minister of Foreign Affairs of Japan | Non-acceptance would cause embarrassment to donor and U.S. Government.
White House Staff Member Caroline Coscia | Black and silver wristwatch with leather band. Rec'd—3/28/2014. Est. Value—$1,900.00. Disposition—Transferred to General Services Administration | Abdullah bin Abdulaziz Al-Saud, Custodian of the Two Holy Mosques, King of the Kingdom of Saudi Arabia | Non-acceptance would cause embarrassment to donor and U.S. Government.
White House Staff Member Dr. Susan Rice | White gold wristwatch with link bracelet. Rec'd—3/28/2014. Est. Value—$5,370.00. Disposition—Transferred to General Services Administration | Abdullah bin Abdulaziz Al-Saud, Custodian of the Two Holy Mosques, King of the Kingdom of Saudi Arabia | Non-acceptance would cause embarrassment to donor and U.S. Government.
White House Staff Member Rob Malley | White gold wristwatch with link bracelet. Rec'd—3/28/2014. Est. Value—$8,170.00. Disposition—Transferred to General Services Administration | Abdullah bin Abdulaziz Al-Saud, Custodian of the Two Holy Mosques, King of the Kingdom of Saudi Arabia | Non-acceptance would cause embarrassment to donor and U.S. Government.
White House Staff Member Philip Gordon | White gold wristwatch with link bracelet. Rec'd—3/28/2014. Est. Value—$8,170.00. Disposition—Transferred to General Services Administration | Abdullah bin Abdulaziz Al-Saud, Custodian of the Two Holy Mosques, King of the Kingdom of Saudi Arabia | Non-acceptance would cause embarrassment to donor and U.S. Government.
White House Staff Member Ben Rhodes | White gold wristwatch with link bracelet. Rec'd—3/28/2014. Est. Value—$8,170.00. Disposition—Transferred to General Services Administration | Abdullah bin Abdulaziz Al-Saud, Custodian of the Two Holy Mosques, King of the Kingdom of Saudi Arabia | Non-acceptance would cause embarrassment to donor and U.S. Government.
White House Staff Member Lisa Monaco | Gold medal display, title: “The Golden Medal of the 50th Anniversary of 26 September and 14 October.” Ceremonial Jambiyyah dagger. Silver jewelry set including a necklace, bracelet, and earrings. Rec'd—3/30/2014. Est. Value—$1,075.00. Disposition—Transferred to General Services Administration | His Excellency Abd Rabbuh Mansur Hadi, President of the Republic of Yemen | Non-acceptance would cause embarrassment to donor and U.S. Government.
White House Staff Member Gayle Smith | 77″ x 50″ blue silk Persian carpet with light-colored flowers. Model ship of gold-tone metal. Rec'd—5/14/2014. Est. Value—$5,125.00. Disposition—Transferred to General Services Administration | His Excellency Dr. Ali Bin Fetais Al-Marri, Attorney General of the State of Qatar | Non-acceptance would cause embarrassment to donor and U.S. Government.
White House Staff Member Dr. Susan Rice | 41″ x 29″ framed painting of African savannah scene featuring elephants, zebras, water buffalo, a watering hole, trees, and a mountain range in the background. Rec'd—8/9/2014. Est. Value—$800.00. Disposition—Transferred to General Services Administration | The Honorable Amina Mohamed, Cabinet Secretary for Foreign Affairs and International Trade of the Republic of Kenya | Non-acceptance would cause embarrassment to donor and U.S. Government.
White House Staff Member Dr. Susan Rice | Red ceramic vase with floral pattern set on wooden base. Rec'd—9/7/2014. Est. Value—$480.00. Disposition—Transferred to General Services Administration | His Excellency Yang Jiechi, State Councilor of the People's Republic of China | Non-acceptance would cause embarrassment to donor and U.S. Government.
White House Staff Member Dr. Susan Rice | Black vinyl briefcase with zippered pockets. 2014 calendar for ASEAN Summit. Silver-tone ballpoint pen. Black ballpoint pen with Myanmar emblem. Business card case. Black keychain. USB thumb drive. Notebook with tan leather case. Rec'd—11/11/2014. Est. Value—$496.00. Disposition—Transferred to General Services Administration | His Excellency U Thein Sein, President of the Republic of the Union of Myanmar | Non-acceptance would cause embarrassment to donor and U.S. Government.
White House Staff Member Lisa Monaco | 12″ polished silver shallow bowl with images of Saudi Arabia around a wide brim and a seal of the Kingdom of Saudi Arabia in the center. Rec'd—12/10/2014. Est. Value—$3,780.00. Disposition—Transferred to General Services Administration | His Highness Muhammed bin Nayef bin Abdulaziz Al-Saud, Minister of Interior of the Kingdom of Saudi Arabia | Non-acceptance would cause embarrassment to donor and U.S. Government.
White House Staff Member Dr. Susan Rice | Cream color wool and silk scarf checkered with blue, red, brown, and golden floral designs. Rec'd—12/11/2014. Est. Value—$395.00. Disposition—Transferred to General Services Administration | His Excellency Paolo Gentiloni, Minister of Foreign Affairs of the Italian Republic | Non-acceptance would cause embarrassment to donor and U.S. Government.
White House Staff Member Dr. Susan Rice | Figurine painted in silver and gold of a soldier on horseback aiming a rifle set on green marble base. Rec'd—12/22/2014. Est. Value—$970.00. Disposition—Transferred to General Services Administration | His Excellency Adel Al-Jubeir, Ambassador of the Kingdom of Saudi Arabia to the United States | Non-acceptance would cause embarrassment to donor and U.S. Government.

AGENCY: The White House—Office of the Vice President
[Report of Tangible Gifts Furnished by the White House—Office of the Vice President]
Name and title of person accepting the gift on behalf of the U.S. Government | Gift, date of acceptance on behalf of the U.S. Government, estimated value, and current disposition or location | Identity of foreign donor and government | Circumstances justifying acceptance
The Honorable Joseph R. Biden, Jr., Vice President of the United States | Bottle of Massandra White Port Crimea 1945 Harvest wine. Rec'd—7/21/2009 Est. Value—$445.00. Disposition—Perishable items handled pursuant to United States Secret Service policy | His Excellency Viktor Yushchenko, President of Ukraine | Non-acceptance would cause embarrassment to donor and U.S. Government.
The Honorable Joseph R. Biden, Jr., Vice President of the United States | Baccarat American eagle crystal statue. Rec'd—2/4/2013. Est. Value—$1,415.00. Disposition—National Archives and Records Administration | His Excellency François Hollande, President of the French Republic | Non-acceptance would cause embarrassment to donor and U.S. Government.
The Honorable Joseph R. Biden, Jr., Vice President of the United States | Silver canister inlaid with tile mosaic of a tree, said to contain holy water from the River Jordan, in custom box. Rec'd—9/19/2013. Est. Value—$1,950.00. Disposition—National Archives and Records Administration | His Majesty Abdullah II ibn Al Hussein, King of the Hashemite Kingdom of Jordan | Non-acceptance would cause embarrassment to donor and U.S. Government.
The Honorable Joseph R. Biden, Jr., Vice President of the United States | Large porcelain vase with painting of birds and grass. Rec'd—12/4/2013. Est. Value—$600.00. Disposition—National Archives and Records Administration | His Excellency Xi Jinping, President of the People's Republic of China | Non-acceptance would cause embarrassment to donor and U.S. Government.
The Honorable Joseph R. Biden, Jr., Vice President of the United States | Icon depicting Jesus Christ the Pantocrator on wood. Rec'd—2/12/2014. Est. Value—$1,800.00. Disposition—National Archives and Records Administration | His Majesty Abdullah II ibn Al Hussein, King of the Hashemite Kingdom of Jordan | Non-acceptance would cause embarrassment to donor and U.S. Government.
The Honorable Joseph R. Biden, Jr., Vice President of the United States | Plaque with United States eagle emblem. Rec'd—2/25/2014. Est. Value—$550.00. Disposition—National Archives and Records Administration | His Excellency Irakli Garibashvili, Prime Minister of Georgia | Non-acceptance would cause embarrassment to donor and U.S. Government.
The Honorable Joseph R. Biden, Jr., Vice President of the United States | Silver idol of the Virgin of Guadalupe. Rec'd—2/26/2014. Est. Value—$450.00. Disposition—National Archives and Records Administration | Mr. Miguel Alemán Velasco, Former Governor of the Free and Sovereign State of Veracruz de Ignacio de la Llave of Mexico and President of the Board of Grupo Alemán | Non-acceptance would cause embarrassment to donor and U.S. Government.
The Honorable Joseph R. Biden, Jr., Vice President of the United States | Sterling silver vase. Rec'd—3/11/2014. Est. Value—$780.00. Disposition—National Archives and Records Administration | His Excellency Ollanta Humala Tasso, President of the Republic of Peru | Non-acceptance would cause embarrassment to donor and U.S. Government.
The Honorable Joseph R. Biden, Jr., Vice President of the United States | Metal platter inset with amber stones. Rec'd—3/18/2014. Est. Value—$390.00. Disposition—National Archives and Records Administration | His Excellency Donald Tusk, Prime Minister of the Republic of Poland | Non-acceptance would cause embarrassment to donor and U.S. Government.
The Honorable Joseph R. Biden, Jr., Vice President of the United States | Traditional Roman Orthodox icon painting. Rec'd—5/21/2014. Est. Value—$650.00. Disposition—National Archives and Records Administration | His Excellency Traian Băsescu and Mrs. Maria Băsescu, President and First Lady of Romania | Non-acceptance would cause embarrassment to donor and U.S. Government.
The Honorable Joseph R. Biden, Jr., Vice President of the United States | Traditional Romanian glaze vase in red box. Rec'd—5/21/2014. Est. Value—$780.00. Disposition—National Archives and Records Administration | His Excellency Victor Ponta, Prime Minister of Romania | Non-acceptance would cause embarrassment to donor and U.S. Government.
The Honorable Joseph R. Biden, Jr., Vice President of the United States | Sterling silver inkstand. Rec'd—5/22/2014. Est. Value—$1,275.00. Disposition—National Archives and Records Administration | The Honorable Derviş Eroğlu, Leader of the Turkish Cypriots | Non-acceptance would cause embarrassment to donor and U.S. Government.
The Honorable Joseph R. Biden, Jr., Vice President of the United States | Hand-painted dishware set. Rec'd—6/16/2014. Est. Value—$390.00. Disposition—National Archives and Records Administration | His Excellency Juan Manuel Santos Calderón, President of the Republic of Colombia | Non-acceptance would cause embarrassment to donor and U.S. Government.
The Honorable Joseph R. Biden, Jr., Vice President of the United States | Painting by Canindé Soares. Rec'd—6/16/2014. Est. Value—$650.00. Disposition—National Archives and Records Administration | Dr. Rosalba Scotia Ciarlini Rosado, Governor of the State of Rio Grande do Norte of the Federal Republic of Brazil | Non-acceptance would cause embarrassment to donor and U.S. Government.
The Honorable Joseph R. Biden, Jr., Vice President of the United States | Silver-plated wooden box with the King's insignia etched on the lid. Rec'd—7/10/2014. Est. Value—$480.00. Disposition—National Archives and Records Administration | His Majesty Abdullah II ibn Al Hussein, King of the Hashemite Kingdom of Jordan | Non-acceptance would cause embarrassment to donor and U.S. Government.
The Honorable Joseph R. Biden, Jr., Vice President of the United States | Oil painting on canvas of exotic bird. Rec'd—7/24/2014. Est. Value—$425.00. Disposition—National Archives and Records Administration | His Excellency Otto Pérez Molina, President of the Republic of Guatemala | Non-acceptance would cause embarrassment to donor and U.S. Government.
The Honorable Joseph R. Biden, Jr., Vice President of the United States | Knife with coral stones in leather box. Rec'd—8/21/2014. Est. Value—$880.00. Disposition—National Archives and Records Administration | His Excellency Abdelmalek Sellal, Prime Minister of the People's Democratic Republic of Algeria | Non-acceptance would cause embarrassment to donor and U.S. Government.
The Honorable Joseph R. Biden, Jr., Vice President of the United States | Sandalwood carved screen with paintings. Rec'd—9/29/2014. Est. Value—$780.00. Disposition—National Archives and Records Administration | His Excellency Narendra Modi, Prime Minister of the Republic of India | Non-acceptance would cause embarrassment to donor and U.S. Government.
The Honorable Joseph R. Biden, Jr., Vice President of the United States | Mounier & Bouvard blue and white vase with gold trim decorated with gem stones. Rec'd—11/19/2014. Est. Value—$1,200.00. Disposition—National Archives and Records Administration | His Majesty Mohammed VI, King of the Kingdom of Morocco | Non-acceptance would cause embarrassment to donor and U.S. Government.
The Honorable Joseph R. Biden, Jr., Vice President of the United States | Woven tapestry. Leather embossed book, title: The Haydamarks by Taras Shevchenko with gold detailing and an etching of the author. Rec'd—11/21/2014. Est. Value—$840.00. Disposition—National Archives and Records Administration | His Excellency Petro Poroshenko, President of Ukraine | Non-acceptance would cause embarrassment to donor and U.S. Government.
The Honorable Joseph R. Biden, Jr., Vice President of the United States | Wooden religious wall hanging. Hand-embroidered scarf. Two copies of book, title: Ukraine Incognita. Rec'd—11/21/2014. Est. Value—$555.00. Disposition—National Archives and Records Administration | Ms. Hanna Hopko, Member of Parliament of Ukraine | Non-acceptance would cause embarrassment to donor and U.S. Government.
The Honorable Joseph R. Biden, Jr., Vice President of the United States | Hand-painted porcelain vase. Dark green glass carafe with gold painted design around spout. Rec'd—11/22/2014. Est. Value—$2,160.00. Disposition—National Archives and Records Administration | His Excellency Recep Tayyip Erdoğan, President of the Republic of Turkey | Non-acceptance would cause embarrassment to donor and U.S. Government.
The Honorable Joseph R. Biden, Jr., Vice President of the United States | Signed photo of His Royal Highness The Duke of Cambridge in Ettinger leather frame. Rec'd—12/8/2014. Est. Value—$888.00. Disposition—National Archives and Records Administration | His Royal Highness Prince William, Duke of Cambridge | Non-acceptance would cause embarrassment to donor and U.S. Government.
Dr. Jill Biden, Second Lady of the United States | Painting of Zambian street scene in wooden frame. Rec'd—7/2/2014. Est. Value—$450.00. Disposition—On display for official use | Dr. Charlotte Scott, Second Lady of the Republic of Zambia | Non-acceptance would cause embarrassment to donor and U.S. Government.
Dr. Jill Biden, Second Lady of the United States | Carved ebony female bust. Rec'd—7/4/2014. Est. Value—$560.00. Disposition—On display for official use | Her Excellency Jaynet Kabila, Member of Parliament of the Democratic Republic of the Congo | Non-acceptance would cause embarrassment to donor and U.S. Government.
Dr. Jill Biden, Second Lady of the United States | Brass statue of human figure. Rec'd—7/4/2014. Est. Value—$490.00. Disposition—On display for official use | Her Excellency Geneviève Inagosi Bulo Imbambi Kassongo, Minister of Gender, Family, and Children of the Democratic Republic of the Congo | Non-acceptance would cause embarrassment to donor and U.S. Government.
Dr. Jill Biden, Second Lady of the United States | Book, title: Visions of Africa. Hermes scarf. Rec'd—8/4/2014. Est. Value—$375.00. Disposition—National Archives and Records Administration | Mrs. Sylvia Bongo Ondimba, First Lady of the Gabonese Republic | Non-acceptance would cause embarrassment to donor and U.S. Government.
Dr. Jill Biden, Second Lady of the United States | Hand-painted porcelain tea set. Rec'd—11/22/2014. Est. Value—$760.00. Disposition—National Archives and Records Administration | Mrs. Emine Erdoğan, First Lady of the Republic of Turkey | Non-acceptance would cause embarrassment to donor and U.S. Government.
Family of The Honorable Joseph R. Biden, Jr., Vice President of the United States | White porcelain vase with panda motif. Rec'd—12/4/2013. Est. Value—$485.00. Disposition—National Archives and Records Administration | His Excellency Xi Jinping, President of the People's Republic of China | Non-acceptance would cause embarrassment to donor and U.S. Government.
The Honorable Jacob Sullivan, Deputy Assistant to the President and National Security Advisor to the Vice President of the United States | Wooden backgammon and hess board with inlays of abalone, mother of pearl, and brass. Two bottles of Amouage cologne. Silver sword with silver and gold trim. Rec'd—2/28/2013. Est. Value—$1,705.00. Disposition—National Archives and Records Administration | Mr. Salem al-Ismaily, Special Envoy of the Sultanate of Oman | Non-acceptance would cause embarrassment to donor and U.S. Government.

AGENCY: Department of State
[Report of Tangible Gifts and Travel Furnished by the Department of State]
Name and title of person accepting the gift on behalf of the U.S. Government | Gift, date of acceptance on behalf of the U.S. Government, estimated value, and current disposition or location | Identity of foreign donor and government | Circumstances justifying acceptance
The Honorable John Kerry, Secretary of State of the United States | Palm tree statue encrusted with various gemstones. Rolex men's Yacht Master II watch. Rec'd—1/5/2014. Est. Value—$36,900.00. Disposition—Pending transfer to General Services Administration | Abdullah bin Abdulaziz Al-Saud, Custodian of the Two Holy Mosques, King of the Kingdom of Saudi Arabia | Non-acceptance would cause embarrassment to donor and U.S. Government.
The Honorable John Kerry, Secretary of State of the United States | Blue glass worry beads with diamonds and a gold tassel in a blue presentation box. Rec'd—1/9/2014. Est. Value—$3,200.00. Disposition—Pending transfer to General Services Administration | His Excellency Adel Al-Jubeir, Ambassador of the Kingdom of Saudi Arabia to the United States | Non-acceptance would cause embarrassment to donor and U.S. Government.
The Honorable John Kerry, Secretary of State of the United States | Haddad cutlery set. Rec'd—1/23/2014. Est. Value—$390.00. Disposition—Pending transfer to General Services Administration | His Excellency Najib Mikati, Caretaker Prime Minister of the Lebanese Republic | Non-acceptance would cause embarrassment to donor and U.S. Government.
The Honorable John Kerry, Secretary of State of the United States | Montblanc calligraphy pen with “Minister of Foreign Affairs” inscription. Rec'd—2/1/2014. Est. Value—$620.00. Disposition—Pending transfer to General Services Administration | His Excellency Dr. Frank-Walter Steinmeier, Federal Minister of Foreign Affairs of the Federal Republic of Germany | Non-acceptance would cause embarrassment to donor and U.S. Government.
The Honorable John Kerry, Secretary of State of the United States | Sailor pen with gold inlay and floral design. Rec'd—2/7/2014. Est. Value—$620.00. Disposition—Pending transfer to General Services Administration | His Excellency Fumio Kishida, Minister of Foreign Affairs of Japan | Non-acceptance would cause embarrassment to donor and U.S. Government.
The Honorable John Kerry, Secretary of State of the United States | Baccarat crystal eagle perched on a rock. Rec'd—2/9/2014. Est. Value—$2,000.00. Disposition—Pending transfer to General Services Administration | His Excellency François Hollande, President of the French Republic | Non-acceptance would cause embarrassment to donor and U.S. Government.
The Honorable John Kerry, Secretary of State of the United States | Amber and blue colored glass sculpture of Pegasus. Rec'd—2/19/2014. Est. Value—$570.00. Disposition—Pending transfer to General Services Administration | His Excellency Wang Yi, Minister of Foreign Affairs of the People's Republic of China | Non-acceptance would cause embarrassment to donor and U.S. Government.
The Honorable John Kerry, Secretary of State of the United States | Ziess black binoculars. Rec'd—2/27/2014. Est. Value—$825.00. Disposition—Pending transfer to General Services Administration | His Excellency Dr. Frank-Walter Steinmeir, Federal Minister of Foreign Affairs of the Federal Republic of Germany | Non-acceptance would cause embarrassment to donor and U.S. Government.
The Honorable John Kerry, Secretary of State of the United States | Rolex Oyster Perpetual men's silver watch with black face. Rec'd—3/28/2014. Est. Value—$5,700.00. Disposition—Pending transfer to General Services Administration | Abdullah bin Abdulaziz Al-Saud, Custodian of the Two Holy Mosques, King of the Kingdom of Saudi Arabia | Non-acceptance would cause embarrassment to donor and U.S. Government.
The Honorable John Kerry, Secretary of State of the United States | Historical Treaty of Peace Day of Algier in Arabic. Three framed ceramic tiles. Green leather document folio with gold detailing. Framed graphite portrait of Secretary Kerry by local artist. Book, title: Le Tassili Des Ajjer. Rec'd—4/3/2014. Est. Value—$785.00. Disposition—Pending transfer to General Services Administration | His Excellency Ramtane Lamamra, Minister of Foreign Affairs of the People's Democratic Republic of Algeria | Non-acceptance would cause embarrassment to donor and U.S. Government.
The Honorable John Kerry, Secretary of State of the United States | Limited-edition Piri Reis pen with sterling silver piston filling. Rec'd—4/4/2014. Est. Value—$3,880.00. Disposition—Pending transfer to General Services Administration | His Majesty Mohammed VI, King of Morocco | Non-acceptance would cause embarrassment to donor and U.S. Government.
The Honorable John Kerry, Secretary of State of the United States | Metal double gourd musical instrument on a brass stand in a leather box embossed with the royal seal. Rec'd—4/4/2014. Est. Value—$420.00. Disposition—Pending transfer to General Services Administration | His Excellency Salaheddine Mezouar, Minister of Foreign Affairs and Cooperation of the Kingdom of Morocco | Non-acceptance would cause embarrassment to donor and U.S. Government.
The Honorable John Kerry, Secretary of State of the United States | Gold scallop shell with a Qatari pearl inside a red leather presentation case. Rec'd—4/14/2014. Est. Value—$445.00. Disposition—Pending transfer to General Services Administration | His Excellency Dr. Khalid Bin Mohammed Al-Attiyah, Minister of Foreign Affairs of the State of Qatar | Non-acceptance would cause embarrassment to donor and U.S. Government.
The Honorable John Kerry, Secretary of State of the United States | Small Asfour Crystal gold statue of an ancient Egyptian fishing from a crystal boat. Rec'd—4/23/2014. Est. Value—$425.00. Disposition—Pending transfer to General Services Administration | His Excellency Mohamed El-Tohamy, Director of Egyptian General Intelligence Services | Non-acceptance would cause embarrassment to donor and U.S. Government.
The Honorable John Kerry, Secretary of State of the United States | 24″ traditional carved ebony sculpture of a man carrying fruit over his head. Rec'd—5/5/2014. Est. Value—$450.00. Disposition—Pending transfer to General Services Administration | His Excellency José Eduardo dos Santos, President of the Republic of Angola | Non-acceptance would cause embarrassment to donor and U.S. Government.
The Honorable John Kerry, Secretary of State of the United States | 11″ x 8″ x 2″ large quasi-triangular amethyst geode. Book, title: Torres-Garcia by Mario H. Gradowczyk. Rec'd—5/12/2014. Est. Value—$390.00. Disposition—Pending transfer to General Services Administration | His Excellency José Mujica Cordano, President of the Oriental Republic of Uruguay | Non-acceptance would cause embarrassment to donor and U.S. Government.
The Honorable John Kerry, Secretary of State of the United States | Personalized navy sailing Nautica jacket with the Mexican flag on the back. Sabido and Basteris Mexican flag sterling silver cufflinks. Esperato Selection tequila with two glasses. Rec'd—5/21/2014. Est. Value—$578.00. Disposition—Pending transfer to General Services Administration | His Excellency José Antonio Mead Kuribeña, Secretary of Foreign Relations of Mexico | Non-acceptance would cause embarrassment to donor and U.S. Government.
The Honorable John Kerry, Secretary of State of the United States | Large gold and silver desert scene with palm trees and a camel caravan. Rec'd—6/27/2014. Est. Value—$34,000.00. Disposition—Pending transfer to General Services Administration | Abdullah bin Abdulaziz Al-Saud, Custodian of the Two Holy Mosques, King of the Kingdom of Saudi Arabia | Non-acceptance would cause embarrassment to donor and U.S. Government.
The Honorable John Kerry, Secretary of State of the United States | Gold-plated copper replica of the Horus collar inlaid with semi-precious stones. Rec'd—7/11/2014. Est. Value—$2,300.00. Disposition—Pending transfer to General Services Administration | Professor Dr. Mohammed Ibrahim Ali Sayed, Minister of Antiquities of the Arab Republic of Egypt | Non-acceptance would cause embarrassment to donor and U.S. Government.
The Honorable John Kerry, Secretary of State of the United States | Framed shadowbox of a traditional flywhisk, hat, staff, and stool crafted in leather. Rec'd—8/5/2014. Est. Value—$440.00. Disposition—Pending transfer to General Services Administration | His Excellency Daniel Kablan Duncan, Prime Minister of the Republic of Côte d'Ivoire | Non-acceptance would cause embarrassment to donor and U.S. Government.
The Honorable John Kerry, Secretary of State of the United States | Framed acrylic painting on canvas depicting four children. Rec'd—8/5/2014. Est. Value—$560.00. Disposition—Pending transfer to General Services Administration | His Excellency Robert Dussey, Minister of Foreign Affairs of the Republic of Togo | Non-acceptance would cause embarrassment to donor and U.S. Government.
The Honorable John Kerry, Secretary of State of the United States | 8″ lapis lazuli bowl. Rec'd—8/8/2014. Est. Value—$385.00. Disposition—Pending transfer to General Services Administration | His Excellency Hamid Karzai, President of the Islamic Republic of Afghanistan | Non-acceptance would cause embarrassment to donor and U.S. Government.
The Honorable John Kerry, Secretary of State of the United States | Traditional dagger with ornate silver-tone handle and coral stones and a silver-tone filigree sheath. Rec'd—8/21/2014. Est. Value—$410.00. Disposition—Pending transfer to General Services Administration | His Excellency Abdelmalek Sellal, Prime Minister of the People's Democratic Republic of Algeria | Non-acceptance would cause embarrassment to donor and U.S. Government.
The Honorable John Kerry, Secretary of State of the United States | Gold Cartier men's watch with white face and black Roman numerals. Rec'd—9/11/2014. Est. Value—$17,400.00. Disposition—Pending transfer to General Services Administration | Abdullah bin Abdulaziz Al-Saud, Custodian of the Two Holy Mosque, King of the Kingdom of Saudi Arabia | Non-acceptance would cause embarrassment to donor and U.S. Government.
The Honorable John Kerry, Secretary of State of the United States | Tea set in a wooden box with four boxes of tea. Framed woodcut painting of three elephants with personalized plaque. Rec'd—9/26/2014. Est. Value—$411.00. Disposition—Pending transfer to General Services Administration | His Excellency Mahinda Rajapaksa, President of the Democratic Socialist Republic of Sri Lanka | Non-acceptance would cause embarrassment to donor and U.S. Government.
The Honorable John Kerry, Secretary of State of the United States | 12.5″ white porcelain vase, title: Prosperity Coming with Blooming Flowers. Double-sided embroidery table screen depicting an orchid. Rec'd—10/17/2014. Est. Value—$560.00. Disposition—Pending transfer to General Services Administration | His Excellency Yang Jiechi, State Councilor of the People's Republic of China | Non-acceptance would cause embarrassment to donor and U.S. Government.
The Honorable John Kerry, Secretary of State of the United States | 12.5″ x 12″ hand-made sterling silver Omani ship on a wooden stand. Rec'd—11/16/2014. Est. Value—$450.00. Disposition—Pending transfer to General Services Administration | His Excellency Yousuf bin Alawi bin Abdallah, Minister Responsible for Foreign Affairs of the Sultanate of Oman | Non-acceptance would cause embarrassment to donor and U.S. Government.
The Honorable John Kerry, Secretary of State of the United States | Lacquerware art. Rec'd—11/19/2014. Est. Value—$400.00. Disposition—Pending transfer to General Services Administration | His Excellency U Thein Sein, President of the Republic of the Union of Myanmar | Non-acceptance would cause embarrassment to donor and U.S. Government.
The Honorable John Kerry, Secretary of State of the United States | Personalized honorary storage cubby at Cricova Winery. Rec'd—12/4/2014. Est. Value—$621.55. Disposition—Pending transfer to General Services Administration | Mr. Valentin Bodiul, Director of Cricova Winery of the Republic of Moldova | Non-acceptance would cause embarrassment to donor and U.S. Government.
The Honorable John Kerry, Secretary of State of the United States | Warrior chess set. Rec'd—12/10/2014. Est. Value—$520.00. Disposition—Pending transfer to General Services Administration | His Excellency Kairat Umarov, Ambassador of the Republic of Kazakhstan to the United States | Non-acceptance would cause embarrassment to donor and U.S. Government.
The Honorable John Kerry, Secretary of State of the United States | Silver handicraft with inscription, “Jose Manuel Santos—Presidente de Colombia: 2014-2018”. Rec'd—12/11/2014. Est. Value—$650.00. Disposition—Pending tansfer to General Services Administration | His Excellency Juan Manuel Santos Calderón, President of the Republic of Colombia | Non-acceptance would cause embarrassment to donor and U.S. Government.
The Honorable John Kerry, Secretary of State of the United States | Set of four scarves made of Andean fiber in a wooden box. Rec'd—12/11/2014. Est. Value—$1,100.00. Disposition—Pending transfer to General Services Administration | His Excellency Ollanta Humala Tasso and Mrs. Nadine Heredia Alarcón, President and First Lady of the Republic of Peru | Non-acceptance would cause embarrassment to donor and U.S. Government.
The Honorable John Kerry, Secretary of State of the United States | Yvan Valentin Artisan Chocolatier truffles. Fanciful chocolates. Seabear smoked oysters. Beachers hand-made cheese. John Kelly truffle fudge bites. Royalty cookies. Champagne Bollinger RD 2012. Shafer 2012 Nappa merlot. Grace & I fruit nut press. Harney & Son black tea. Sicilian Village green and black olives. Sempli Cup-A-Lift flight tray. Sempli monti-flute glasses. Sempli nesting bowl. Brown and mother of pearl rectangular tray. Roma Living picture frame. Twelve Days of Christmas votive candle set. Rec'd—12/18/2014. Est. Value—$957.00. Disposition—Pending transfer to General Services Administration. Perishable items handled pursuant to the guidelines set forth by General Services Administration | His Majesty Sultan Haji Hassanal Bolkiah Mu'izzaddin Waddaulah ibni Al-Marhum Sultan Haji Omar Ali Saifuddien Sa'adul Khairi Waddien, Sultan and Yang Di-Pertuan of Brunei Darussalam | Non-acceptance would cause embarrassment to donor and U.S. Government.
The Honorable John Kerry, Secretary of State of the United States | Silver and gold-plated statue depicting a falcon sitting on a gloved hand. Rec'd—12/23/2014. Est. Value—$1,700.00. Disposition—Pending transfer to General Services Administration | His Excellency Adel Al-Jubeir, Ambassador of the Kingdom of Saudi Arabia to the United States | Non-acceptance would cause embarrassment to donor and U.S. Government.
Mrs. Teresa Heinz Kerry, Spouse of the Secretary of State of the United States | Emerald and diamond jewelry set containing a ring, earrings, bracelet, and necklace. Rec'd—1/5/2014. Est. Value—$780,000.00. Disposition—Pending transfer to General Services Administration | Abdullah bin Abdulaziz Al-Saud, Custodian of the Two Holy Mosques, King of the Kingdom of Saudi Arabia | Non-acceptance would cause embarrassment to donor and U.S. Government.
Mrs. Teresa Heinz Kerry, Spouse of the Secretary of State of the United States | Pearl worry beads with diamonds and a tassel in a pink presentation box. Rec'd—1/9/2014. Est. Value—$3,200.00. Disposition—Pending transfer to General Services Administration | His Excellency Abel Al-Jubeir, Ambassador of the Kingdom of Saudi Arabia to the United States | Non-acceptance would cause embarrassment to donor and U.S. Government.
Mrs. Teresa Heinz Kerry, Spouse of the Secretary of State of the United States | Baccarat crystal votive lamp. Rec'd—2/11/2014. Est. Value—$925.00. Disposition—Pending transfer to General Services Administration | His Excellency François Hollande, President of the French Republic | Non-acceptance would cause embarrassment to donor and U.S. Government.
Mrs. Teresa Heinz Kerry, Spouse of the Secretary of State of the United States | Sapphire and diamond 18k white gold jewelry set containing earrings and a ring. Rec'd—6/27/2014. Est. Value—$84,000.00. Disposition—Pending transfer to General Services Administration | Abdullah bin Abdulaziz Al-Saud, Custodian of the Two Holy Mosques, King of the Kingdom of Saudi Arabia | Non-acceptance would cause embarrassment to donor and U.S. Government.
Mrs. Teresa Heinz Kerry, Spouse of the Secretary of State of the United States | Bvlgari ladies' watch with a black satin band and a mother of pearl face. Rec'd—9/11/2014. Est. Value—$71,000.00. Disposition—Pending transfer to General Services Administration | Abdullah bin Abdulaziz Al-Saud, Custodian of the Two Holy Mosques, King of the Kingdom of Saudi Arabia | Non-acceptance would cause embarrassment to donor and U.S. Government.
Ms. Alex Kerry, Daughter of the Secretary of State of the United States | Adult orange and blue kaftan. Children's pink and silver kaftan. Rec'd—5/13/2014. Est. Value—$400.00. Disposition—Pending transfer to General Services Administration | His Highness Sheikh Abdullah bin Zayed Al Nahyan and Sheikha Alyazia bint Saif Al Nahyan, Minister of Foreign Affairs and Spouse of the United Arab Emirates | Non-acceptance would cause embarrassment to donor and U.S. Government.
Ms. Maureen Reagan, Head of Delegation of the United States to the Republic of Kenya | Elephant tusk gong. Rec'd—7/1/1985 Est. Value—$9,700.00. Disposition—Transferred to the Department of Interior, Fish and Wildlife Service for proper handling | His Excellency Daniel Arap Moi, President of the Republic of Kenya | Non-acceptance would cause embarrassment to donor and U.S. Government.
The Honorable David Dunford, Ambassador of the United States to the Sultanate of Oman | Framed 18k gold military-style medals. Rec'd—6/21/1995 Est. Value—$8,500.00. Disposition—Pending transfer to General Services Administration | His Majesty Qaboos bin Said bin al Said, Sultan of Oman | Non-acceptance would cause embarrassment to donor and U.S. Government.
The Honorable Frances D. Cook, Ambassador of the United States to the Sultanate of Oman | Gold and silver Sultanah commemorative coins. Rec'd—1/1/1997 Est. Value—$1,500.00. Disposition—Pending transfer to General Services Administration | His Majesty Qaboos bin Said bin al Said, Sultan of Oman | Non-acceptance would cause embarrassment to donor and U.S. Government.
The Honorable John B. Craig, Ambassador of the United States to the Sultanate of Oman | Framed military-style medals on a yellow background. Rec'd—9/26/2001 Est. Value—$8,500.00. Disposition—Pending transfer to General Services Administration | His Majesty Qaboos bin Said bin al Said, Sultan of Oman | Non-acceptance would cause embarrassment to donor and U.S. Government.
Mr. Farid Abbas Mohamed, Political Officer | Olive green fur coat. Rec'd—2/18/2012 Est. Value—$440.00. Disposition—Pending transfer to General Services Administration | Mr. Hamden bin Mohamed al-Motery, Deputy President of the Administrative Council of the Arab Chamber of Commerce and Industry of the Kingdom of Saudi Arabia | Non-acceptance would cause embarrassment to donor and U.S. Government.
The Honorable James B. Smith, Ambassador of the United States to the Kingdom of Saudi Arabia | Crystal Saudi Arabian door with gold filigree and a verse from the Qur'an. Rec'd—2012 Est. Value—$430.00. Disposition—Pending transfer to General Services Administration | Ministry of Foreign Affairs of the Kingdom of Saudi Arabia | Non-acceptance would cause embarrassment to donor and U.S. Government.
The Honorable James B. Smith, Ambassador of the United States to the Kingdom of Saudi Arabia | Two traditional Saudi Arabian winter robes. Rec'd—2012 Est. Value—$740.00. Disposition—Pending transfer to General Services Administration | Government of the Kingdom of Saudi Arabia | Non-acceptance would cause embarrassment to donor and U.S. Government.
Ms. Stephanie T. Williams, Deputy Chief of Mission | Pearl earrings. Rec'd—1/16/2013. Est. Value—$1,000.00. Disposition—Purchased by the recipient from General Services Administration | His Excellency Sheikh Rashid bin Abdullah Al Khalifa, Minister of Interior of the Kingdom of Bahrain | Non-acceptance would cause embarrassment to donor and U.S. Government.
Mr. James Plasman, Political Officer | Montblanc Timewalker GMT desk clock. Rec'd—6/20/2013. Est. Value—$930.00. Disposition—Pending transfer to General Services Administration | Mr. Krishna Mohan, Member of the Congress Party of the Republic of India | Non-acceptance would cause embarrassment to donor and U.S. Government.
The Honorable Richard Morningstar, Ambassador of the United States to the Republic of Azerbaijan | Carpet. Rec'd—10/4/2013. Est. Value—$500.00. Disposition—Purchased by recipient from General Services Administration | His Excellency Ziya Mammadov, Minister of Transportation of the Republic of Azerbaijan | Non-acceptance would cause embarrassment to donor and U.S. Government.
Mr. Timothy A. Lenderking, Charge d'Affaires | Bvlgari Diagono professional watch. Rec'd—1/5/2014. Est. Value—$3,800.00. Disposition—Pending transfer to General Services Administration | Abdullah bin Abdulaziz Al-Saud, Custodian of the Two Holy Mosques, King of the Kingdom of Saudi Arabia | Non-acceptance would cause embarrassment to donor and U.S. Government.
Mr. Michael Spring, Deputy Political Counselor | Bvlgari men's watch. Rec'd—1/5/2014. Est. Value—$4,450.00. Disposition—Pending transfer to General Services Administration | Abdullah bin Abdulaziz Al-Saud, Custodian of the Two Holy Mosques, King of the Kingdom of Saudi Arabia | Non-acceptance would cause embarrassment to donor and U.S. Government.
Ms. Reem Nuseibeh, Interpreter | Bvlgari ladies' automatic watch. Rec'd—1/5/2014. Est. Value—$1,995.00. Disposition—Pending transfer to General Services Administration | Abdullah bin Abdulaziz Al-Saud, Custodian of the Two Holy Mosques, King of the Kingdom of Saudi Arabia | Non-acceptance would cause embarrassment to donor and U.S. Government.
Mr. Jonathan Finer, Deputy Chief of Staff to the Secretary of State | Bvlgari men's watch. Rec'd—1/5/2014. Est. Value—$19,440.00. Disposition—Pending transfer to General Services Administration | Abdullah bin Abdulaziz Al-Saud, Custodian of the Two Holy Mosques, King of the Kingdom of Saudi Arabia | Non-acceptance would cause embarrassment to donor and U.S. Government.
United States Embassy | Six bottles of 2009 Château Haut Brion wine. Rec'd—1/7/2014. Est. Value—$3,600.00. Disposition—Perishable items handled pursuant to the guidelines set forth by General Services Administration | His Royal Highness Prince Robert Louis François Marie of the Grand Duchy of Luxembourg | Non-acceptance would cause embarrassment to donor and U.S. Government.
The Honorable William J. Burns, Deputy Secretary of State | 33″ x 12″ wooden filigree wall shelf with inlay. Rec'd—1/29/2014. Est. Value—$740.00. Disposition—Pending transfer to General Services Administration | Foreign Government Official | Non-acceptance would cause embarrassment to donor and U.S. Government.
The Honorable David Hale, Ambassador of the United States to the Republic of Lebanon | Two Hermès ties. Rec'd—2/11/2014. Est. Value—$535.00. Disposition—Pending transfer to General Services Administration | His Excellency Najib Mikati, Caretaker Prime Minister of the Republic of Lebanon | Non-acceptance would cause embarrassment to donor and U.S. Government.
Mr. Mark Walsh, Deputy Chief of Protocol | Black Traser men's watch with compass on band. Rec'd—2/14/2014. Est. Value—$510.00. Disposition—Purchased by recipient from General Services Administration | His Majesty Abdullah II ibn Al Hussein, King of the Hashemite Kingdom of Jordan | Non-acceptance would cause embarrassment to donor and U.S. Government.
Ms. Samantha Tubman, Assistant Chief of Protocol | Longines ladies' silver-tone watch. Rec'd—2/18/2014. Est. Value—$1,200.00. Disposition—Pending transfer to General Services Administration | His Majesty Abdullah II ibn Al Hussein, King of the Hashemite Kingdom of Jordan | Non-acceptance would cause embarrassment to donor and U.S. Government.
The Honorable Wendy Sherman, Under Secretary of State | Paperweight etched with St. Basil's Cathedral. Two large G-8 Summit notebooks. Two small G-8 Summit notebooks. Keychain. Two pens. Red planner. Brown leather briefcase. Rec'd—2/19/2014. Est. Value—$435.00. Disposition—Pending transfer to General Services Administration | His Excellency Sergey Ryabkov, Deputy Foreign Minister of the Russian Federation | Non-acceptance would cause embarrassment to donor and U.S. Government.
Ms. Trina Seha, Department of State Employee | Glass paperweight. Three G-8 Summit notebooks. Lanyard. Red leather planner. Black leather briefcase. Rec'd—2/19/2014. Est. Value—$735.00. Disposition—Pending transfer to General Services Administration | His Excellency Sergey Ryabkov, Deputy Foreign Minister of the Russian Federation | Non-acceptance would cause embarrassment to donor and U.S. Government.
Ms. Penny Price, Senior Protocol Officer | Purse. Rec'd—2/24/2014. Est. Value—$1,125.00. Disposition—Pending transfer to General Services Administration | Mr. Zhang Kunsheng, Director General of the Protocol Department of the Ministry of Foreign Affairs of the People's Republic of China | Non-acceptance would cause embarrassment to donor and U.S. Government.
The Honorable Deborah K. Jones, Ambassador of the United States to the State of Libya | Gold necklace and earring set with white stones. Rec'd—3/11/2014. Est. Value—$3,200.00. Disposition—Pending transfer to General Services Administration | His Highness Sheikh Khalifa bin Zayed Al Nahyan, President of the United Arab Emirates | Non-acceptance would cause embarrassment to donor and U.S. Government.
The Honorable Russell D. Feingold, Special Envoy for the Great Lakes and the Democratic Republic of the Congo | Green stone elephant sculpture. Collector's box containing various stones. Rec'd—3/21/2014. Est. Value—$910.00. Disposition—Pending transfer to General Services Administration | The Honorable Moise Katumbi, Governor of the Province of Katanga of the Democratic Republic of the Congo | Non-acceptance would cause embarrassment to donor and U.S. Government.
Ms. Nina Behrens, Interpreter | Rolex Oyster Perpetual ladies' silver watch with silver face. Rec'd—3/28/2014. Est. Value—$5,700.00. Disposition—Pending transfer to General Services Administration | Abdullah bin Abdulaziz Al-Saud, Custodian of the Two Holy Mosques, King of the Kingdom of Saudi Arabia | Non-acceptance would cause embarrassment to donor and U.S. Government.
Ms. Natalie Jones, Deputy Chief of Protocol | Rolex Oyster Perpetual ladies' silver watch with black face. Rec'd—3/28/2014. Est. Value—$6,900.00. Disposition—Pending transfer to General Services Administration | Abdullah bin Abdulaziz Al-Saud, Custodian of the Two Holy Mosques, King of the Kingdom of Saudi Arabia | Non-acceptance would cause embarrassment to donor and U.S. Government.
Mr. John Rath, Political Counselor | Hamilton men's rose gold watch with brown leather band and silver face. Rec'd—3/28/2014. Est. Value—$645.00. Disposition—Pending transfer to General Services Administration | Abdullah bin Abdulaziz Al-Saud, Custodian of the Two Holy Mosques, King of the Kingdom of Saudi Arabia | Non-acceptance would cause embarrassment to donor and U.S. Government.
The Honorable Joseph Westphal, Ambassador of the United States to the Kingdom of Saudi Arabia | Rolex men's steel watch with white gold fluted bezel. Rec'd—3/28/2014. Est. Value—$9,050.00. Disposition—Pending transfer to General Services Administration | Abdullah bin Abdulaziz Al-Saud, Custodian of the Two Holy Mosques, King of the Kingdom of Saudi Arabia | Non-acceptance would cause embarrassment to donor and U.S. Government.
Mr. Timothy Lederking, Deputy Chief of Mission | Rolex men's steel watch with white gold fluted bezel. Rec'd—3/28/2014. Est. Value—$9,050.00. Disposition—Pending transfer to General Services Administration | Abdullah bin Abdulaziz Al-Saud, Custodian of the Two Holy Mosques, King of the Kingdom of Saudi Arabia | Non-acceptance would cause embarrassment to donor and U.S. Government.
Mr. David Solomon, Protocol Officer | Hamilton men's watch with a silver face, bronze accents, and a black leather band. Rec'd—3/28/2014. Est. Value—$1,495.00. Disposition—Pending transfer to General Services Administration | Abdullah bin Abdulaziz Al-Saud, Custodian of the Two Holy Mosques, King of the Kingdom of Saudi Arabia | Non-acceptance would cause embarrassment to donor and U.S. Government.
The Honorable Thomas Kelly, Acting Assistant Secretary of State | Traditional sword with belt. Rec'd—3/31/2014. Est. Value—$580.00. Disposition—Purchased by recipient from General Services Administration | His Excellency Mohammed Nasser Ahmed, Minister of Defense of the Republic of Yemen | Non-acceptance would cause embarrassment to donor and U.S. Government.
Ms. Chantal Schmonsees, Protocol Assistant | White Samsung Galaxy Note 3. Rec'd—4/1/2014. Est. Value—$490.00. Disposition—Pending transfer to General Services Administration | His Royal Highness Prince Sattam Al-Saud of the Kingdom of Saudi Arabia | Non-acceptance would cause embarrassment to donor and U.S. Government.
The Honorable William J. Burns, Deputy Secretary of State | Traditions monogrammed leather briefcase. Rec'd—4/9/2014. Est. Value—$535.00. Disposition—Pending transfer to General Services Administration | His Excellency Mohammad Ishaq Dar, Minister of Finance of the Islamic Republic of Pakistan | Non-acceptance would cause embarrassment to donor and U.S. Government.
Mr. David Gilmour, Deputy Asssistant Secretary of State | Gold coin. Rec'd—4/21/2014. Est. Value—$4,800.00. Disposition—Pending transfer to General Services Administration | His Excellency Paul Biya, President of the Republic of Cameroon | Non-acceptance would cause embarrassment to donor and U.S. Government.
Mr. Carl Gray, Protocol Officer | Victorinox men's silver watch with a black face and a black leather band. Rec'd—5/1/2014. Est. Value—$816.00. Disposition—Pending transfer to General Services Administration | His Majesty Abdullah II ibn Al Hussein, Kng of the Hashemite Kingdom of Jordan | Non-acceptance would cause embarrassment to donor and U.S. Government.
Ms. Rachel Smith-Levy, Desk Officer | Chanel gold brooch. Rec'd—5/12/2014. Est. Value—$500.00. Disposition—Pending Transfer to General Services Administration | His Excellency Mohammed Kuwari, Ambassador of the State of Qatar to the United States | Non-acceptance would cause embarrassment to donor and U.S. Government.
The Honorable James H. Thessin, Ambassador of the United States to the Republic of Paraguay | Acoustic guitar. Rec'd—5/25/2014. Est. Value—$1,000.00. Disposition—Retained for official use | The Honorable Blas Lanzoni, Governor of the Central Department of the Republic of Paraguay | Non-acceptance would cause embarrassment to donor and U.S. Government.
The Honorable Richard B. Norland, Ambassador of the United States to Georgia | Sarajishvili 20th century brandy. Two boxes of regular brandy. Rec'd—5/30/2014. Est. Value—$1,512.00. Disposition—Perishable items handled pursuant to the guidelines set forth by General Services Administration | Mr. Giorgi Atashvili, Deputy Chairman of the Mtskheta Municipal Council of Georgia | Non-acceptance would cause embarrassment to donor and U.S. Government.
Mr. Tony Franco, Protocol Officer | Victorinox men's watch with leather band. Rec'd—6/5/2014. Est. Value—$383.00. Disposition—Pending transfer to General Services Administration | Embassy of the Hashemite Kingdom of Jordan | Non-acceptance would cause embarrassment to donor and U.S. Government.
Mr. Tony Franco, Protocol Officer | Light blue Hermès tie. Rec'd—6/5/2014. Est. Value—$455.00. Disposition—Pending transfer to General Services Administration | Mr. Ziad Soubra, Protocol Director at the Embassy of the State of Qatar | Non-acceptance would cause embarrassment to donor and U.S. Government.
The Honorable Greta C. Holtz, Ambassador of the United States to the Sultanate of Oman | 100ml bottle of Amouage Dea ladies' eau de parfum spray. 100ml bottle of Amouage Ciel ladies' eau de parfum spray. Rec'd—6/18/2014. Est. Value—$528.99. Disposition—Pending transfer to General Services Administration | Mr. Juma Darwish Al Bulushi, Honorary Counsel at the Consulate of the Republic of Croatia to the Sultanate of Oman | Non-acceptance would cause embarrassment to donor and U.S. Government.
The Honorable Greta C. Holtz, Ambassador of the United States to the Sultanate of Oman | 100ml bottle of Amouage Gold Pour Homme. Pair of Khanjar silver cufflinks. Khanjar brooch made of yellow gold, diamonds, rubies, and emeralds. Rec'd—6/24/2014. Est. Value—$1,939.02. Disposition—Pending transfer to General Services Administration | His Excellency General Sultan al-Numani, Minister of the Royal Office of the Sultanate of Oman | Non-acceptance would cause embarrassment to donor and U.S. Government.
Ms. Laurel Rapp, Desk Officer | Mors et Gourmettes Hermès scarf. Rec'd—6/27/2014. Est. Value—$435.00. Disposition—Pending transfer to General Services Administration | His Excellency Sheikh Abdullah bin Mohammed bin Rashid Al Khalifa, Ambassador of the Kingdom of Bahrain to the United States | Non-acceptance would cause embarrassment to donor and U.S. Government.
Ms. Bridget Brink, Deputy Chief of Mission | Photo art. Rec'd—7/2/2014. Est. Value—$428.77. Disposition—Retained for official use | Her Excellency Tea Tsulukiani, Minister of Justice of Georgia | Non-acceptance would cause embarrassment to donor and U.S. Government.
Ms. Erin Kotheimer, Senior Economic Officer | Belle gold bracelet. Rec'd—7/6/2014. Est. Value—$3,900.00. Disposition—Pending transfer to General Services Administration | Mr. Mustafa R. Ahmed Zengene, Kirkuk Branch Manager of the Oil Product and Distribution Company of the Republic of Iraq | Non-acceptance would cause embarrassment to donor and U.S. Government.
Mr. Tony Franco, Protocol Officer | $1,500 United States dollars. Rec'd—8/12/2014. Est. Value—$1,500.00. Disposition—Delivered to the Department of State Cashier's Office to be deposited to the Department of Treasury | Embassy of the United Arab Emirates | Non-acceptance would cause embarrassment to donor and U.S. Government.
Mrs. Christine Ferdinand, Wife of The Honorable Russell Feingold, Special Envoy for the Great Lakes and the Democratic Republic of the Congo | Dark gold beaded necklace. Gold beaded necklace. Black and gold beaded necklace. Yellow beaded necklace. Purple glass beaded necklace. Multi-colored woven necklace wih four ring pendants. Purple glass beaded bracelet. Black and gold fabric-woven bracelet. Blue, turquoise lime, and dark green woven bracelet. Two multicolored weave bracelets. Red and gold fabric-woven earrings. Blue multicolored fabric woven earrings. Two linen tablecloths with matching napkins. Rec'd—8/16/2014. Est. Value—$1,160.00. Disposition—Earring sets purchased by recipient. All other items pending transfer to General Services Administration | Ms. Ange Kagame, Daugther of President Paul Kagame of the Republic of Rwanda | Non-acceptance would cause embarrassment to donor and U.S. Government.
Mr. Joseph Semrad, Protocol Assistant | Montblanc Meisterstuck pen. Rec'd—8/21/2014. Est. Value—$480.00. Disposition—Pending transfer to General Services Administration | Mr. Mohammed Al-Attiyah, Embassy of the State of Qatar | Non-acceptance would cause embarrassment to donor and U.S. Government.
Mr. Chad Kreikemeier, Deputy Assistant Secretary of State | Gift set that includes a men's watch, ladies' watch, JBR pen, Pierre Cardin pen, set of cufflinks, and a Pierre Cardin keychain. Rec'd—9/10/2014. Est. Value—$610.00. Disposition—Pending transfer to General Services Administration | His Excellency Hamad bin Ali Al-Attiyah, Minister of State for Defense Affairs of the State of Qatar | Non-acceptance would cause embarrassment to donor and U.S. Government.
The Honorable J. Rufus Gifford, Ambassador of the United States of the Kingdom of Denmark | PP Moisler chair. Rec'd—8/25/2014. Est. Value—$450.00. Disposition—Retained for official use | Municipality of Tønder of the Kingdom of Denmark | Non-acceptance would cause embarrassment to donor and U.S. Government.
The Honorable Linda Thomas-Greenfield, Assistant Secretary of the State | 3″ commemorative gold coin. Framed bronze art depicting a mother and child. Rec'd—9/6/2014. Est. Value—$15,245.00. Disposition—Coin pending transfer to General Services Administration. Artwork retained for official use | His Excellency Paul Biya, President of the Republic of Cameroon | Non-acceptance would cause embarrassment to donor and U.S. Government.
The Honorable Charles Rivkin, Assistant Secretary of State | White box containing perfume and incense wood chips. Red box containing perfume and incense wood chips. Rec'd—9/2014. Est. Value—$900.00. Disposition—Pending transfer to General Services Administration | Mr. Khaled Al Sayed, CEO of Qatari Diar | Non-acceptance would cause embarrassment to donor and U.S. Government.
The Honorable Anne Patterson, Assistant Secretary of State | Two bottles of Amouage Journey eau de parfum for ladies and men. Rec'd—10/1/2014. Est. Value—$665.00. Disposition—Pending transfer to General Services Administration | His Excellency Dr. al-Ismaili, Chairman of the Public Authority for Investment, Promotion, and Export Development of the Sultanate of Oman | Non-acceptance would cause embarrassment to donor and U.S. Government.
Mrs. Sangeeta Shields, Wife of The Honorable Daniel L. Shields III, Ambassador of the United States to Brunei Darussalam | Prada handbag. Rec'd—10/7/2014. Est. Value—$2,500.00. Disposition—Pending transfer to General Services Administration | Her Majesty Raja Isteri Pengiran Anak Hajah Saleha of Brunei Darussalam | Non-acceptance would cause embarrassment to donor and U.S. Government.
The Honorable Linda Thomas-Greenfield, Assistant Secretary of State | Wooden carving of a fertility goddess. Tie-dye tablecloth and twelve napkins. Two sets of shirts and pants and a wrap dress made of blue embroidered fabrics. Rec'd—10/10/2014. Est. Value—$600.00. Disposition—Pending tranfer to General Services Administration | His Excellency Alpha Condé, President of the Republic of Guinea | Non-acceptance would cause embarrassment to donor and U.S. Government.
The Honorable Deborah K. Jones, Ambassador of the United States to Libya | Concord men's and ladies' silver watches with white faces and gold roman numerals. Rec'd—11/14/2014. Est. Value—$4,930.00. Disposition—Pending transfer to General Services Administration | His Excellency Hamad bin Ali Al-Attiyah, Minister of State for Defense Affairs of the State of Qatar | Non-acceptance would cause embarrassment to donor and U.S. Government.
Ms. Elizabeth Litchfield, Staff Assistant | Box set including black and gold cufflinks, a JBR pen, a Pierre Cardin keychain, a Pierre Cardin pen, a JBR men's black and gold watch, and JBR ladies' black, gold, and silver watch. Rec'd—11/14/2014. Est. Value—$1,755.00. Disposition—Pending transfer to General Services Administration | His Excellency Hamad bin Ali Al-Attiyah, Minister of State for Defense Affairs of the State of Qatar | Non-acceptance would cause embarrassment to donor and U.S. Government.
The Honorable Daniel Shields III, Ambassador of the United States to Brunei Darussalam | Chopard watch. Framed photo of the Sultan of Brunei Darussalam. Rec'd—12/2/2014. Est. Value—$6,670.00. Disposition—Pending transfer to General Services Administration | His Majesty Sultan Haji Hassanal Bolkiah Mu'izzaddin Waddaulah ibni Al-Marhum Sultan Haj Omar Ali Saifuddien Sa'adul Khairi Waddien, Sultan and Yang Di-Pertuan of Brunei Darussalam | Non-acceptance would cause embarrassment to donor and U.S. Government.
Mrs. Sangeeta Shields, Wife of The Honorable Daniel L. Shields III, Ambassador of the United States to Brunei Darussalam | Dior ladies' jeweled watch. Ornament with rose quartz. Rec'd—12/2/2014. Est. Value—$8,500.00. Disposition—Pending transfer to General Services Administration | Her Majesty Raja Isteri Pengiran Anak Hajah Saleha of Brunei Darussalam | Non-acceptance would cause embarrassment to donor and U.S. Government.
Mrs. Sangeeta Shields, Wife of The Honorable Daniel L. Shields III, Ambassador of the United States to Brunei Darussalam | Sari purple and gold material. Heart shaped pendant. Floral brooch. Rec'd—12/4/2014. Est. Value—$13,225.00. Disposition—Pending transfer to General Services Administration | Her Majesty Raja Isteri Pengiran Anak Hajah Saleha of Brunei Darussalam | Non-acceptance would cause embarrassment to donor and U.S. Government.
The Honorable Nisha Biswal, Assistant Secretary of State | Robe. Gold-plated serving set. Rec'd—12/9/2014. Est. Value—$1,150.00. Disposition—Pending transfer to General Services Administration | His Excellency Islam Karimov, President of the Republic of Uzbekistan | Non-acceptance would cause embarrassment to donor and U.S. Government.
The Honorable Daniel L. Shields III, Ambassador of the United States to Brunei Darussalam | Mahkota Crystal hand-blown glass vase. Rec'd—12/16/2014. Est. Value—$1,125.00. Disposition—Pending transfer to General Services Administration | Her Royal Highness Princess Masna, Ambassador-at-Large of the Ministry of Foreign Affairs and Trade of Brunei Darussalam | Non-acceptance would cause embarrassment to donor and U.S. Government.
The Honorable Wendy Sherman, Under Secretary of State | Purple Gucci scarf with horse bridle bit pattern. Rec'd—12/22/2014. Est. Value—$425.00. Disposition—Pending transfer to General Services Administration | Embassy of the State of Qatar | Non-acceptance would cause embarrassment to donor and U.S. Government.
The Honorable Greta C. Holtz, Ambassador of the United States to the Sultanate of Oman | Tag Heuer ladies' watch. Aigner ladies' watch. Rec'd—12/29/2014. Est. Value—$2,524.00. Disposition—Pending transfer to General Services Administration | His Excellency Sayyid Badr bin Saud bin Harib Al Busaidi, Minister Responsible for Defense Affairs of the Sultanate of Oman | Non-acceptance would cause embarrassment to donor and U.S. Government.
The Honorable Julissa Reynoso, Ambassador of the United States to the Oriental Republic of Uruguay | Framed painting in greens and blues depicting boats on a shoreline. Rec'd—12/2014. Est. Value—$430.00. Disposition—Pending purchase from General Services Administration | His Excellency Luis Almagro, Minister of Foreign Affairs of the Oriental Republic of Uruguay | Non-acceptance would cause embarrassment to donor and U.S. Government.
The Honorable Robert O. Blake, Jr., Assistant Secretary of State | Rado Swiss men's watch. Rec'd—Unknown Est. Value—$1,700.00. Disposition—Pending transfer to General Services Administration | Foreign Government Official | Non-acceptance would cause embarrassment to donor and U.S. Government.
Mr. Duane C. Butcher, Chargé d'Affaires | TRAVEL: Paid expenses to travel with the Minister of Defense to the Islamic Republic of Afghanistan. Rec'd—6/28/2014. Est. Value—$1,780.00 | His Excellency Mircea Duşa, Minister of Defense of Romania | Non-acceptance would cause embarrassment to donor and U.S. Government.

AGENCY: Administrative Office of the United States Courts
[Report of Travel Furnished by the Administrative Office of the United States Courts]
Name and title of person accepting the gift on behalf of the U.S. Government | Gift, date of acceptance on behalf of the U.S. Government, estimated value, and current disposition or location | Identity of foreign donor and government | Circumstances justifying acceptance
The Honorable Peter J. Messitte, U.S. District Court Judge, District of Maryland | TRAVEL: Airfare, ground transportation, and hotel expenses for two days. Rec'd—4/2014. Est. Value—$1,000.00 | Consulate General of the Federative Republic of Brazil | Non-acceptance would cause embarrassment to donor and U.S. Government.
The Honorable Richard Linn, Judge for the United State Circuit Courts | TRAVEL: Two airfare tickets, hotel accomodations at the Grand Hotel in St. Petersburg, Russia for five nights, two waived registration fees for the St. Petersburg International Legal Forum. Rec'd—6/18-20/2014. Est. Value—$19,004.58 | Ministry of Justice of the Russian Federation | Non-acceptance would cause embarrassment to donor and U.S. Government.
The Honorable Peter J. Messitte, U.S. District Court Judge, District of Maryland | TRAVEL: Airfare, ground transportation, hotel, and miscellaneous expenses. Rec'd—9/2014. Est. Value—$3.540.00 | Federal Judiciary of the Federative Republic of Brazil | Non-acceptance would cause embarrassment to donor and U.S. Government.
The Honorable Bruce McGiverin, U.S. Magistrate Judge, District of Puerto Rico | TRAVEL: English-language teaching assistant stipend for 22-year old son of recipient. Rec'd—10-11/2014. Est. Value—$2,510.00 | Ministry of Education, Higher Education and Research of the French Republic | Non-acceptance would cause embarrassment to donor and U.S. Government.
Mr. Ernie Dubester, Spouse of Ms. Karen Kreme, Office of Legislative Affairs | TRAVEL: Airfare, transportation, meals, hotels, and other fees. Rec'd—11/7-16/2014. Est. Value—$10,500.00 | Ministry of Labor of Taiwan and Ministry of Foreign Affairs of Taiwan | Non-acceptance would cause embarrassment to donor and U.S. Government.

AGENCY: Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable John O. Brennan, Director of the Central Intelligence Agency | Small decorative sword. Rec'd—11/10/2013. Est. Value—$800.00. Disposition—Retained for official use in the Director's office | 5 U.S.C. 7342(f)(4) | Non-acceptance would cause embarrassment to donor and U.S. Government.
The Honorable John O. Brennan, Director of the Central Intelligence Agency | Small crystal and gold chariot statue. Rec'd—12/18/2013. Est. Value—$500.00. Disposition—Retained for official use in the Director's office | 5 U.S.C. 7342(f)(4) | Non-acceptance would cause embarrassment to donor and U.S. Government.
The Honorable John O. Brennan, Director of the Central Intelligence Agency | Silver jewelry set. Rec'd—12/19/2013. Est. Value—$1,500.00. Disposition—Retained in Director's office for official use | 5 U.S.C. 7342(f)(4) | Non-acceptance would cause embarrassment to donor and U.S. Government.
The Honorable John O. Brennan, Director of the Central Intelligence Agency | Omega men's watch. Rec'd—12/19/2013. Est. Value—$10,000.00. Disposition—Pending transfer to General Services Administration | 5 U.S.C. 7342(f)(4) | Non-acceptance would cause embarrassment to donor and U.S. Government.
The Honorable John O. Brennan, Director of the Central Intelligence Agency | Crystal tea pot. Pyramid. Statue. Rec'd—12/23/2013. Est. Value—$700.00. Disposition—Retained for official use in the Director's office | 5 U.S.C. 7342(f)(4) | Non-acceptance would cause embarrassment to donor and U.S. Government.
The Honorable John O. Brennan, Director of the Central Intelligence Agency | Wooden tea table and bar. Rec'd—1/24/2014. Est. Value—$700.00. Disposition—Retained for official use in the Director's office | 5 U.S.C. 7342(f)(4) | Non-acceptance would cause embarrassment to donor and U.S. Government.
The Honorable John O. Brennan, Director of the Central Intelligence Agency | Bronze animal statue. Rec'd—2/22/2014. Est. Value—$650.00. Disposition—Retained for official use in the Director's office | 5 U.S.C. 7342(f)(4) | Non-acceptance would cause embarrassment to donor and U.S. Government.
The Honorable John O. Brennan, Director of the Central Intelligence Agency | Framed map. Rec'd—4/13/2014. Est. Value—$500.00. Disposition—Retained for official use in the Director's office | 5 U.S.C. 7342(f)(4) | Non-acceptance would cause embarrassment to donor and U.S. Government.
The Honorable John O. Brennan, Director of the Central Intelligence Agency | Small glass boat sculpture. Rec'd—4/23/2014. Est. Value—$500.00. Disposition—Retained for official use in the Director's office | 5 U.S.C. 7342(f)(4) | Non-acceptance would cause embarrassment to donor and U.S. Government.
The Honorable John O. Brennan, Director of the Central Intelligence Agency | Decorative Rug. Rec'd—5/31/2014. Est. Value—$7,500.00. Disposition—Retained for official use in the Director's office | 5 U.S.C. 7342(f)(4) | Non-acceptance would cause embarrassment to donor and U.S. Government.
The Honorable John O. Brennan, Director of the Central Intelligence Agency | Leather briefcase. Rec'd—6/1/2014. Est. Value—$500.00. Disposition—Pending transfer to General Services Administration | 5 U.S.C. 7342(f)(4) | Non-acceptance would cause embarrassment to donor and U.S. Government.
The Honorable John O. Brennan, Director of the Central Intelligence Agency | Painting of Divan Fort. Rec'd—6/1/2014. Est. Value—$500.00. Disposition—Retained for official use in the Director's office | 5 U.S.C. 7342(f)(4) | Non-acceptance would cause embarrassment to donor and U.S. Government.
The Honorable John O. Brennan, Director of the Central Intelligence Agency | Wooden table. Rec'd—6/10/2014. Est. Value—$500.00. Disposition—Retained for official use in the Director's office | 5 U.S.C. 7342(f)(4) | Non-acceptance would cause embarrassment to donor and U.S. Government.
The Honorable John O. Brennan, Director of the Central Intelligence Agency | Sterling silver decorative box. Rec'd—10/1/2014. Est. Value—$500.00. Disposition—Retained for official use in the Director's office | 5 U.S.C. 7342(f)(4) | Non-acceptance would cause embarrassment to donor and U.S. Government.
The Honorable John O. Brennan, Director of the Central Intelligence Agency | Decorative vase. Rec'd—10/1/2014. Est. Value—$1,500.00. Disposition—Retained for official use in the Director's office | 5 U.S.C. 7342(f)(4) | Non-acceptance would cause embarrassment to donor and U.S. Government.
The Honorable John O. Brennan, Director of the Central Intelligence Agency | Decorative silver bowl. Rec'd—10/28/2014. Est. Value—$2,500.00. Disposition—Retained for official use in the Director's office | 5 U.S.C. 7342(f)(4) | Non-acceptance would cause embarrassment to donor and U.S. Government.
The Honorable John O. Brennan, Director of the Central Intelligence Agency | Small decorative silver sword. Rec'd—12/1/2014. Est. Value—$2,500.00. Disposition—Retained for official use in the Director's office | 5 U.S.C. 7342(f)(4) | Non-acceptance would cause embarrassment to donor and U.S. Government.
The Honorable John O. Brennan, Director of the Central Intelligence Agency | Framed wood carving. Rec'd—12/21/2014. Est. Value—$750.00. Disposition—Retained for official use in the Director's office | 5 U.S.C. 7342(f)(4) | Non-acceptance would cause embarrassment to donor and U.S. Government.
The Honorable John O. Brennan, Director of the Central Intelligence Agency | Silver eagle statue. Rec'd—12/24/2014. Est. Value—$750.00. Disposition—Retained for official use in the Director's office | 5 U.S.C. 7342(f)(4) | Non-acceptance would cause embarrassment to donor and U.S. Government.
An Agency Employee | Victorinox Swiss men's watch. Rec'd—11/20/2011 Est. Value—$1,700.00. Disposition—Pending transfer to General Services Administration | 5 U.S.C. 7342(f)(4) | Non-acceptance would cause embarrassment to donor and U.S. Government.
An Agency Employee | Watch. Decorative clock. Rec'd—5/10/2013. Est. Value—$625.00. Disposition—Pending transfer to General Services Administration | 5 U.S.C. 7342(f)(4) | Non-acceptance would cause embarrassment to donor and U.S. Government.
An Agency Employee | Men's watch. Rec'd—7/27/2013. Est. Value—$554.00. Disposition—Pending transfer to General Services Administration | 5 U.S.C. 7342(f)(4) | Non-acceptance would cause embarrassment to donor and U.S. Government.
An Agency Employee | Men's watch. Rec'd—7/27/2013. Est. Value—$554.00. Disposition—Pending transfer to General Services Administration | 5 U.S.C. 7342(f)(4) | Non-acceptance would cause embarrassment to donor and U.S. Government.
An Agency Employee | Ladies' watch. Rec'd—7/27/2013. Est. Value—$400.00. Disposition—Pending transfer to General Services Administration | 5 U.S.C. 7342(f)(4) | Non-acceptance would cause embarrassment to donor and U.S. Government.
An Agency Employee | 3′ x 5′ carpet. Rec'd—9/30/2013. Est. Value—$3,500.00. Disposition—Pending transfer to General Services Administration | 5 U.S.C. 7342(f)(4) | Non-acceptance would cause embarrassment to donor and U.S. Government.
An Agency Employee | Delma watch. Rec'd—12/19/2013. Est. Value—$750.00. Disposition—Pending transfer to General Services Administration | 5 U.S.C. 7342(f)(4) | Non-acceptance would cause embarrassment to donor and U.S. Government.
An Agency Employee | Maurice Lacriox ladies' watch. Rec'd—5/1/2014. Est. Value—$1,410.00. Disposition—Pending transfer to General Services Administration | 5 U.S.C. 7342(f)(4) | Non-acceptance would cause embarrassment to donor and U.S. Government.
An Agency Employee | Omega men's watch. Rec'd—6/1/2014. Est. Value—$8,000.00. Disposition—Pending transfer to General Services Administration | 5 U.S.C. 7342(f)(4) | Non-acceptance would cause embarrassment to donor and U.S. Government.
An Agency Employee | Victorinox Swiss men's watch. Rec'd—6/22/2014. Est. Value—$1,700.00. Disposition—Pending transfer to General Services Administration | 5 U.S.C. 7342(f)(4) | Non-acceptance would cause embarrassment to donor and U.S. Government.
An Agency Employee | Healey men's watch. Rec'd—6/23/2014. Est. Value—$3,150.00. Disposition—Pending transfer to General Services Administration | 5 U.S.C. 7342(f)(4) | Non-acceptance would cause embarrassment to donor and U.S. Government.
An Agency Employee | Longines Prima Luna ladies' watch. Rec'd—6/24/2014. Est. Value—$1,500.00. Disposition—Pending transfer to General Services Administration | 5 U.S.C. 7342(f)(4) | Non-acceptance would cause embarrassment to donor and U.S. Government.
An Agency Employee | Swarovski ladies' watch. Rec'd—6/26/2014. Est. Value—$650.00. Disposition—Pending transfer to General Services Administration | 5 U.S.C. 7342(f)(4) | Non-acceptance would cause embarrassment to donor and U.S. Government.
An Agency Employee | Four watches. Rec'd—7/5/2014. Est. Value—$3,000.00. Disposition—Pending transfer to General Services Administration | 5 U.S.C. 7342(f)(4) | Non-acceptance would cause embarrassment to donor and U.S. Government.
An Agency Employee | Watch. iPad Air. Rec'd—7/7/2014. Est. Value—$2,000.00. Disposition—Pending purchase from General Services Administration | 5 U.S.C. 7342(f)(4) | Non-acceptance would cause embarrassment to donor and U.S. Government.
An Agency Employee | Chopard ladies' watch. Rec'd—7/12/2014. Est. Value—$3,000.00. Disposition—Pending transfer to General Services Administration | 5 U.S.C. 7342(f)(4) | Non-acceptance would cause embarrassment to donor and U.S. Government.
An Agency Employee | Chopard Mille Miglia men's watch. Rec'd—7/12/2014. Est. Value—$5,600.00. Disposition—Retained for official use | 5 U.S.C. 7342(f)(4) | Non-acceptance would cause embarrassment to donor and U.S. Government.
An Agency Employee | 6′ x 9′ carpet. Rec'd—7/14/2014. Est. Value—$500.00. Disposition—Retained for official use | 5 U.S.C. 7342(f)(4) | Non-acceptance would cause embarrassment to donor and U.S. Government.
An Agency Employee | Ladies' makeup mirror. Cologne. Watches. Pens. Neckties. Wallet. Rec'd—7/15/2014. Est. Value—$5,444.30. Disposition—Pending transfer to General Services Administration | 5 U.S.C. 7342(f)(4) | Non-acceptance would cause embarrassment to donor and U.S. Government.
An Agency Employee | Men's watch. Ladies' watch. Rec'd—7/17/2014. Est. Value—$14,500.00. Disposition—Pending transfer to General Services Administration | 5 U.S.C. 7342(f)(4) | Non-acceptance would cause embarrassment to donor and U.S. Government.
An Agency Employee | Leather overnight bag. Rec'd—7/29/2014. Est. Value—$600.00. Disposition—Pending transfer to General Services Administration | 5 U.S.C. 7342(f)(4) | Non-acceptance would cause embarrassment to donor and U.S. Government.
An Agency Employee | Gucci men's watch. Rec'd—8/18/2014. Est. Value—$594.50. Disposition—Pending transfer to General Services Administration | 5 U.S.C. 7342(f)(4) | Non-acceptance would cause embarrassment to donor and U.S. Government.
An Agency Employee | Raymond Weil ladies' watch. Rec'd—8/19/2014. Est. Value—$2,800.00. Disposition—Pending transfer to General Services Administration | 5 U.S.C. 7342(f)(4) | Non-acceptance would cause embarrassment to donor and U.S. Government.
An Agency Employee | Baume and Mercie ladies' watch. Rec'd—8/25/2014. Est. Value—$800.00. Disposition—Pending transfer to General Services Administration | 5 U.S.C. 7342(f)(4) | Non-acceptance would cause embarrassment to donor and U.S. Government.
An Agency Employee | Case of wine. Rec'd—8/26/2014. Est. Value—$1,200.00. Disposition—Perishable items handled pursuant to General Service Administration policy | 5 U.S.C. 7342(f)(4) | Non-acceptance would cause embarrassment to donor and U.S. Government.
An Agency Employee | Samsung cellphone. Rec'd—8/31/2014. Est. Value—$576.00. Disposition—Retained for official use | 5 U.S.C. 7342(f)(4) | Non-acceptance would cause embarrassment to donor and U.S. Government.
An Agency Employee | Ladies' necklace. Scarf. Rec'd—9/1/2014. Est. Value—$1,625.00. Disposition—Pending transfer to General Services Administration | 5 U.S.C. 7342(f)(4) | Non-acceptance would cause embarrassment to donor and U.S. Government.
An Agency Employee | Decorative pen. Watches. Rec'd—9/9/2014. Est. Value—$2,350.00. Disposition—Pending transfer to General Services Administration | 5 U.S.C. 7342(f)(4) | Non-acceptance would cause embarrassment to donor and U.S. Government.
An Agency Employee | Ladies' gold bracelet. Rec'd—9/9/2014. Est. Value—$1,035.00. Disposition—Pending transfer to General Services Administration | 5 U.S.C. 7342(f)(4) | Non-acceptance would cause embarrassment to donor and U.S. Government.
An Agency Employee | Children's book series. Rec'd—10/20/2014. Est. Value—$832.13. Disposition—Retained for official use | 5 U.S.C. 7342(f)(4) | Non-acceptance would cause embarrassment to donor and U.S. Government.
An Agency Employee | Maurice Lacroix men's watch. Rec'd—11/13/2014. Est. Value—$1,200.00. Disposition—Retained for official use | 5 U.S.C. 7342(f)(4) | Non-acceptance would cause embarrassment to donor and U.S. Government.
An Agency Employee | iPhone. Rec'd—11/19/2014. Est. Value—$649.00. Disposition—Retained for official use | 5 U.S.C. 7342(f)(4) | Non-acceptance would cause embarrassment to donor and U.S. Government.

AGENCY: Department of Agriculture
[Report of Tangible Gift Furnished by the Department of Agriculture]
Name and title of person accepting the gift on behalf of the U.S. Government | Gift, date of acceptance on behalf of the U.S. Government, estimated value, and current disposition or location | Identity of foreign donor and government | Circumstances justifying acceptance
The Honorable Thomas Vilsack, Secretary of Agriculture of the United States | Watercolor painting, title: Indigena with gold rustic frame. Rec'd—11/16/2014. Est. Value—$570.00. Disposition—Retained for official use in the Secretary's office. Pending purchase from General Services Administration | His Excellency Enrique Martínez y Martínez, Secretary of Agriculture, Livestock, Rural Development, Fisheries, and Food of Mexico | Non-acceptance would cause embarrassment to donor and U.S. Government.

AGENCY: Department of Commerce
[Report of Tangible Gifts Furnished by the Department of Commerce]
Name and title of person accepting the gift on behalf of the U.S. Government | Gift, date of acceptance on behalf of the U.S. Government, estimated value, and current disposition or location | Identity of foreign donor and government | Circumstances justifying acceptance
The Honorable Penny Pritzker, Secretary of Commerce of the United States | Red and orange Hermes silk scarf. Rec'd—2/10/2014. Est. Value—$435.00. Disposition—Pending transfer to General Services Administration | Mr. Pierre Muscovici, Former Minister of Finance of the French Republic | Non-acceptance would cause embarrassment to donor and U.S. Government.
The Honorable Penny Pritzker, Secretary of Commerce of the United States | Hand-painted decorative box with snowscape design. Rec'd—2/27/2014. Est. Value—$495.00. Disposition—Pending transfer to General Services Administration | His Excellency Aleksey Ulyukayev, Minister of Economic Development of the Russian Federation | Non-acceptance would cause embarrassment to donor and U.S. Government.

AGENCY: Department of Defense
[Report of Tangible Gifts Furnished by the Department of Defense]
Name and title of person accepting the gift on behalf of the U.S. Government | Gift, date of acceptance on behalf of the U.S. Government, estimated value, and current disposition or location | Identity of foreign donor and government | Circumstances justifying acceptance
The Honorable Chuck Hagel, Secretary of Defense of the United States | Oil painting of the Church of the Assumption of the Blessed Virgin Mary in Dabrowka Koscielna, Poland. Rec'd—1/31/2014. Est. Value—$450.00. Disposition—Pending transfer to General Services Administration | His Excellency Tomasz Siemoniak, Deputy Prime Minister and Minister of National Defense of the Republic of Poland | Non-acceptance would cause embarrassment to donor and U.S. Government.
The Honorable Chuck Hagel, Secretary of Defense of the United States | 34.5″ steel Yemeni curved sword with curved scabbard. Rec'd—3/31/2014. Est. Value—- $540.00. Disposition—Pending transfer to General Services Administration | His Excellency Mohammed Nasser Ahmed, Minister of Defense of the Republic of Yemen | Non-acceptance would cause embarrassment to donor and U.S. Government.
The Honorable Chuck Hagel, Secretary of Defense of the United States | Wall hanging tapestry (kalagas) made of black velveteen-like fabric with trapunto scene of two kneeling people. Rec'd—4/2/2014. Est. Value—$425.00. Disposition—Pending transfer to General Services Administration | Lieutenant General Wai Lwin, Minister of Defense of the Republic of the Union of Myanmar, and Daw Swe Swe Oo | Non-acceptance would cause embarrassment to donor and U.S. Government.
The Honorable Chuck Hagel, Secretary of Defense of the United States | 3.25″ diameter Minh Long ceramic pink, gold, and green vase with raised outlines and dots forming water lilies and leaves. Rec'd—4/2/2014. Est. Value—$425.00. Disposition—Pending transfer to General Services Administration | His Excellency Phung Quang Thanh, Minister of National Defense of the Socialist Republic of Vietnam, and Mrs. Nguyen Thi Loc | Non-acceptance would cause embarrassment to donor and U.S. Government.
The Honorable Chuck Hagel, Secretary of Defense of the United States | Sculpted flowers carved from porcelain. Rec'd—4/14/2014. Est. Value—$1.400.00. Disposition—Pending transfer to General Services Administration | General Chang Wanquan, State Councilor and Minister of National Defense of the People's Republic of China | Non-acceptance would cause embarrassment to donor and U.S. Government.
The Honorable Chuck Hagel, Secretary of Defense of the United States | Basel wristwatch with Mexican national emblem engraved in wooden box. Rec'd—5/1/2014. Est. Value—$650.00. Disposition—Pending transfer to General Services Administration | General Salvador Cienfuegos Zepeda, Secretary of National Defense Mexico | Non-acceptance would cause embarrassment to donor and U.S. Government.
The Honorable Chuck Hagel, Secretary of Defense of the United States | Sword encased in glass display. Rec'd—6/25/2014. Est. Value—$425.00. Disposition—Pending transfer to General Services Administration | Admiral Vidal Francisco Soberón Sanz, Secretary of the Navy of Mexico | Non-acceptance would cause embarrassment to donor and U.S. Government.
The Honorable Chuck Hagel, Secretary of Defense of the United States | Perfume set including four bottles with two atomizer balls, two sprayer caps, and two caps without sprayers. Rec'd—11/21/2014. Est. Value—$1,450.00. Disposition—Pending transfer to General Services Administration | His Royal Highness Prince Mitib bin Abdullah bin Abdulaziz Al-Saud, Minister of the National Guard of the Kingdom of Saudi Arabia | Non-acceptance would cause embarrassment to donor and U.S. Government.
The Honorable Chuck Hagel, Secretary of Defense of the United States | Bottle of Oudh oil (agar wood perfume oil). Bottle of Oudh cologne. Decorative marble plate with three silver Arabian Oryxes. Incense holder with aged agar wood pieces in alligator skin case. Blue wool robe. Yellow silk robe with pink rosettes. Rec'd—12/1/2014. Est. Value—$5,420.00. Disposition—Pending transfer to General Services Administration | His Royal Highness Prince Mitib bin Abdullah bin Abdulaziz Al-Saud, Minister of the National Guard of the Kingdom of Saudi Arabia | Non-acceptance would cause embarrassment to donor and U.S. Government.
The Honorable Chuck Hagel, Secretary of Defense of the United States | Large wool rug with maroon floral pattern. Rec'd—12/6/2014. Est. Value—$3,880.00. Disposition—Pending transfer to General Services Administration | His Royal Highness Prince Mitib bin Abdullah bin Abdulaziz Al-Saud, Minister of the National Guard of the Kingdom of Saudi Arabia | Non-acceptance would cause embarrassment to donor and U.S. Government.
Mrs. Lillibet Hagel, Spouse of the Secretary of Defense of the United States | Necklace consisting of 40 13-13.5 mm gray beads with lavender and green tones strung on a white cord. Rec'd—4/2/2014. Est. Value—$450.00. Disposition—Pending transfer to General Services Administration | Lieutenant General Wai Lwin, Minister of Defense of the Republic of the Union of Myanmar, and Daw Swe Swe Oo | Non-acceptance would cause embarrassment to donor and U.S. Government.
General Martin E. Dempsey, Chairman of the Joint Chiefs of Staff of the United States | Silver sword on a wooden and plastic display case. Rec'd—12/8/2013. Est. Value—$425.00. Disposition—Pending transfer to General Services Administration | General Michalis Kostarakos, Chief of Defense of the Hellenic Republic | Non-acceptance would cause embarrassment to donor and U.S. Government.
General Martin E. Dempsey, Chairman of the Joint Chiefs of Staff of the United States | Coin set. Book, title: Malaysian Armed Forces—The Nation's Shield 80th Anniversary. Rec'd—1/9/2014. Est. Value—$735.00. Disposition—Pending transfer to General Services Administration | General Tan Sri Dato Zulkfeli, Chief Defense of Malaysia | Non-acceptance would cause embarrassment to donor and U.S. Government.
General Martin E. Dempsey, Chairman of the Joint Chiefs of Staff of the United States | Knife in wooden box. Rec'd—1/21/2014. Est. Value—$440.00. Disposition—Pending transfer to General Services Administration | General Colonel Valeriy Gerasimov, Chief of General Staff and First Deputy Defense Minister of the Russian Federation | Non-acceptance would cause embarrassment to donor and U.S. Government.
General Martin E. Dempsey, Chairman of the Joint Chiefs of Staff of the United States | Marble keepsake box. Rec'd—1/22/2014. Est. Value—$550.00. Disposition—Pending transfer to General Services Administration | General Colonel Valeriy Gerasimov, Chief of General Staff and First Deputy Defense Minister of the Russian Federation | Non-acceptance would cause embarrassment to donor and U.S. Government.
General Martin E. Dempsey, Chairman of the Joint Chiefs of Staff of the United States | Silver model boat of an Omani Dhow in a cardboard display case. Rec'd—5/14/2014. Est. Value—$420.00. Disposition—Pending transfer to General Services Administration | General Sultan bin Muhammed Al-Namani, Minister of the Royal Office of the Sultanate of Oman | Non-acceptance would cause embarrassment to donor and U.S. Government.
General Martin E. Dempsey, Chairman of the Joint Chiefs of Staff of the United States | Red floral vase. Two book set, title: The Analects of Confucius. Paperback book, title: Deciphering Sun Tzu's The Art of War. Hanging scroll. Drum. Model wood toy structure of the Great Wall of China. Stuffed panda bear. Stuffed horse. Rec'd—5/15/2014. Est. Value—$490.00. Disposition—Pending transfer to General Services Administration | General Fang Fenghui, Chief of Defense of the People's Liberation Army of the People's Republic of China | Non-acceptance would cause embarrassment to donor and U.S. Government.
General Martin E. Dempsey, Chairman of the Joint Chiefs of Staff of the United States | Silver sword in wooden case. Rec'd—5/28/2014. Est. Value—$1.650.00. Disposition—Pending transfer to General Services Administration | Lieutenant General Hamad Mohammed Thani Al Ruamithi, Chief of Staff of the United Arab Emirates Armed Forces | Non-acceptance would cause embarrassment to donor and U.S. Government.
General Martin E. Dempsey, Chairman of the Joint Chiefs of Staff of the United States | Miniature crystal fortress. Rec'd—6/2/2014. Est. Value—$900.00. Disposition—Pending transfer to General Services Administration | General Abdulrahman Al-Baniyan, Chief of Staff of the Ministry of Defense of the Kingdom of Saudi Arabia | Non-acceptance would cause embarrassment to donor and U.S. Government.
General Martin E. Dempsey, Chairman of the Joint Chiefs of Staff of the United States | Silver keepsake box. Coat. Shawl. Rec'd—6/19/2014. Est. Value—$690.00. Disposition—Pending transfer to General Services Administration | General Rashad Mahmood, Chairman of the Joint Chiefs of Staff Committee of the Islamic Republic of Pakistan | Non-acceptance would cause embarrassment to donor and U.S. Government.
General Martin E. Dempsey, Chairman of the Joint Chiefs of Staff of the United States | Drinking glass set. Framed lithograph. Rec'd—6/24/2014. Est. Value—$815.00. Disposition—Pending transfer to General Services Administration | Admiral Luigi Binelli Mantelli, Chief of Defense of the Italian Republic | Non-acceptance would cause embarrassment to donor and U.S. Government.
General Martin E. Dempsey, Chairman of the Joint Chiefs of Staff of the United States | White vase with blue floral design. Framed photograph. Jewelry box. Rec'd—8/14/2014. Est. Value—$750.00. Disposition—Retained for official use in the Chairman's office | His Excellency Lieutenant General Do Ba Ty, Chief of the General Staff of the Socialist Republic of Vietnam | Non-acceptance would cause embarrassment to donor and U.S. Government.
General Martin E. Dempsey, Chairman of the Joint Chiefs of Staff of the United States | Black suitcase. Black Helveco wallet. Charriol pen. Samsung Galaxy S5 cellphone. 2.7 oz. of Guerlain Homme perfume. 3.0 oz. Lacoste perfume. 3.4 oz. Ralph Lauren perfume. Movado men's wristwatch. Movado ladies' wristwatch. Rec'd—10/22/2014. Est. Value—$2,460.00. Disposition—Pending transfer to General Services Administration | General Ghanim Bin Shaheen Al-Ghanim, Chief of Staff of the Armed Forces of the State of Qatar | Non-acceptance would cause embarrassment to donor and U.S. Government.
General Martin E. Dempsey, Chairman of the Joint Chiefs of Staff of the United States | Knife in a cedar box. Red trunk. Silver samovar. Rose water set. Rec'd—12/14/2014. Est. Value—$1,105.00. Disposition—Pending transfer to General Services Administration | General Bouchaib Arroub, Chief of Defense and Inspector General of the Royal Armed Forces of the Kingdom of Morocco | Non-acceptance would cause embarrassment to donor and U.S. Government.
Mrs. Deanie Dempsey, Spouse of the Chairman of the Joint Chiefs of Staff | Serving dish and spoon. Rec'd—9/25/2014. Est. Value—$455.00. Disposition—Pending transfer to General Services Administration | Ms. Patricia Calderón de Rodríguez, Spouse of the Chief of Defense of the Republic of Colombia | Non-acceptance would cause embarrassment to donor and U.S. Government.
Mr. James Hursch, Director of Defense Technology Security Administration | Romanson Men's wristwatch. Romanson Ladies' wristwatch. Rec'd—7/30/2013. Est. Value—$715.00. Disposition—Pending transfer to General Services Administration | Colonel Choi Sunyup of the Republic of Korea | Non-acceptance would cause embarrassment to donor and U.S. Government.
Mr. Eric Rosenbach, Deputy Assistant Secretary of Defense for Cyber Policy | Eagle clock statue. Rec'd—11/22/2013. Est. Value—$540.00. Disposition—Pending transfer to General Services Administration | Major Colonel Vladimir Zarundnitskiy, Commander of the Central Military District of the Russian Federation | Non-acceptance would cause embarrassment to donor and U.S. Government.
Mr. David Helvey, Deputy Assistant Secretary of Defense for East Asia | Large white vase with multi-colored designs. Rec'd—12/26/2013. Est. Value—$390.00. Disposition—Pending transfer to General Services Administration | Rear Admiral Li Ji, Deputy Chief of the Foreign Affairs, Office of the Ministry of National Defense of the People's Republic of China | Non-acceptance would cause embarrassment to donor and U.S. Government.
Ms. Caryn Hollis, Deputy Assistant Secretary of Defense for Counternarcotics and Global Threats | Floral urn with gold trimming. Rec'd—3/18/2014. Est. Value—$385.00. Disposition—Retained for official use in the OSD Policy Office | Government of the Kingdom of Thailand | Non-acceptance would cause embarrassment to donor and U.S. Government.
Ms. Jennifer Thaxton, Action Officer for the Office of the Secretary of Defense for Policy | Pierre Cardin pen. Black Pierre Cardin wallet. Silver and gold wristwatch. 4GB USB flash drive. Rec'd—3/31/2014. Est. Value—$621.00. Disposition—Pending transfer to General Services Administration | His Excellency Hamad bin Ali Al-Attiyah, Minister of State for Defense Affairs of the State of Qatar | Non-acceptance would cause embarrassment to donor and U.S. Government.
Mr. Michael Lumpkin, Assistant Secretary of Defense for Special Operations and Low-Intensity Conflict | Jambiya knife. Wood plaque on a gold metallic background. Rec'd—3/31/2014. Est. Value—$540.00. Disposition—Pending transfer to General Services Administration | His Excellency Mohammed Nasser Ahmed, Minister of Defense of the Republic of Yemen | Non-acceptance would cause embarrassment to donor and U.S. Government.
Mr. Stephen W. Preston, General Counsel of the Department of Defense | 14″ x 10″ x 6″ white leather Gentili humidor. Rec'd—4/10/2014. Est. Value—$1,500.00. Disposition—Retained for official use in the General Counsel's office | His Excellency Dr. Ali Bin Fetais Al-Marri, Attorney General of the State of Qatar | Non-acceptance would cause embarrassment to donor and U.S. Government.
Mr. David Helvey, Deputy Assistant Secretary of Defense for East Asia | Porcelain dish. Rec'd—5/9/2014. Est. Value—$385.00. Disposition—Pending transfer to General Services Administration | His Excellency Ting Shih, Deputy Minister of Foreign Affairs of Taiwan | Non-acceptance would cause embarrassment to donor and U.S. Government.
Mr. Stephen W. Preston, General Counsel of the Department of Defense | 4′ x 6′ Persian multi-colored rug. Two boxes of Habanos and Cohiba cigars. Rec'd—5/12/2014. Est. Value—$7,360.00. Disposition—Pending transfer to General Services Administration | His Excellency Dr. Ali Bin Fetais Al-Marri, Attorney General of the State of Qatar | Non-acceptance would cause embarrassment to donor and U.S. Government.
Mr. Andrew C. Weber, Assistant Secretary of Defense for Nuclear, Chemical, and Biological Defense Programs | Award certificate in brown leather case. Blue and gold medal in red leather case. Rec'd—6/2/2014. Est. Value—$970.00. Disposition—Pending transfer to General Services Administration | His Excellency Giorgi Margvelashvili, President of Georgia | Non-acceptance would cause embarrassment to donor and U.S. Government.
Mr. Andrew C. Weber, Assistant Secretary of Defense for Nuclear, Chemical and Biological Defense Programs and Colonel Clark, Military Assistant to the Secretary of Defense for Nuclear, Chemical, and Biological Defense Programs | Cloth artwork scroll with a wooden stick. Gold colored horse sculpture in a wooden box. Small gold colored horse sculpture in black box. Rec'd—6/3/2014. Est. Value—$520.00. Disposition—Pending transfer to General Services Administration | Her Excellency Maia Panjikidze, Minister of Foreign Affairs of Georgia | Non-acceptance would cause embarrassment to donor and U.S. Government.
The Honorable Michael G. Vickers, Under Secretary of Defense for Intelligence | 33″ silver blade sword engraved “Stephen the Great” in a gold decorative handle in black box. Rec'd—7/30/2014. Est. Value—$420.00. Disposition—Retained for official use in the office of the Under Secretary of Defense for Intelligence | His Excellency Mircea Duşa, Minister of National Defense of Romania | Non-acceptance would cause embarrassment to donor and U.S. Government.
The Honorable Michael G. Vickers, Under Secretary of Defense for Intelligence | Metallic world globe. Decorative plate in blue pox. White print. Mini statue of soldier. Rec'd—7/31/2014. Est. Value—$1,645.00. Disposition—Retained for official use in the office of the Under Secretary of Defense for Intelligence | Lieutenant General Marian Hăpău, Director General of Defense Intelligence General Directorate of Romania | Non-acceptance would cause embarrassment to donor and U.S. Government.
The Honorable Michael G. Vickers, Under Secretary of Defense for Intelligence | Tittot glass ornament. Rec'd—8/5/2014. Est. Value—$465.00. Disposition—Pending transfer to General Services Administration | His Excellency Hsiao-Jung Lu, Deputy Secretary General of the National Security Council of Taiwan | Non-acceptance would cause embarrassment to donor and U.S. Government.
The Honorable Michael G. Vickers, Under Secretary of Defense for Intelligence | Censer with crown trophy on forest green marble in green box. Rec'd—9/27/2014. Est. Value—$440.00. Disposition—Pending transfer to General Services Administration | General Youssef al-Idrissi, Deputy GIP Director of the Kingdom of Saudi Arabia | Non-acceptance would cause embarrassment to donor and U.S. Government.
The Honorable Michael G. Vickers, Under Secretary of Defense for Intelligence | 10″ x 6″ x 6″ bronze statue. Rec'd—9/27/2014. Est. Value—$500.00. Disposition—Pending transfer to General Services Administration | Admiral Sun Jianguo, Deputy Chief of the General Staff, Department of the People's Liberation Army of the People's Republic of China | Non-acceptance would cause embarrassment to donor and U.S. Government.
The Honorable Michael G. Vickers, Under Secretary of Defense for Intelligence | Mother of pearl document box. Rec'd—11/5/2014. Est. Value—$680.00. Disposition—Pending transfer to General Services Administration | Government of the Republic of Korea | Non-acceptance would cause embarrassment to donor and U.S. Government.

AGENCY: Department of the Air Force
[Report of Tangible Gifts Furnished by the Department of the Air Force]
Name and title of person accepting the gift on behalf of the U.S. Government | Gift, date of acceptance on behalf of the U.S. Government, estimated value, and current disposition or location | Identity of foreign donor and government | Circumstances justifying acceptance
The Honorable Deborah James, Secretary of the Air Force of the United States | Korloff men's watch. 32GB iPhone 5s. Rec'd—2/19/2014. Est. Value—$7,600.00. Disposition—Pending transfer to General Services Administration | General Ghanim Bin Shaheen Al-Ghanim, Chief of Staff of the Armed Forces of the State of Qatar | Non-acceptance would cause embarrassment to donor and U.S. Government.
Lieutenant General David Goldfein, USAFCENT Commander | United Arab Emirates Special Operations Command ceremonial knife in wood box. Rec'd—6/11/2013. Est. Value—$700.00. Disposition—Pending transfer to General Services Administration | Lieutenant Colonel Azzen Al Numimi, Squadron Commander, Shaheen 1 Squadron, Al Dhafra Air Base of the United Arab Emirates | Non-acceptance would cause embarrassment to donor and U.S. Government.
General Gilmary Hostage, ACC Commander | Mercury Switzerland set containing men's and ladies' watches, pens, cufflinks, and a key chain in a wooden box. Rec'd—11/4/2013. Est. Value—$2,000.00. Disposition—Pending transfer to General Services Administration | His Excellency Hamad bin Ali Al-Attiyah, Minister of State for Defense Affairs of the State of Qatar | Non-acceptance would cause embarrassment to donor and U.S. Government.
Captain Lisa Resch, USAFCENT Protocol | Frederique Constant set containing a ladies' watch, wallet, pen, and charm bracelet. Rec'd—11/10/2013. Est. Value—$2,000.00. Disposition—Pending transfer to General Services Administration | His Excellency Hamad bin Ali Al-Attiyah, Minister of State for Defense Affairs of the State of Qatar | Non-acceptance would cause embarrassment to donor and U.S. Government.
Senior Master Sergeant Shae Alamo, USAFCENT Protocol | JBR set containing a ladies' watch, wallet, pen, and charm bracelet set. Rec'd—11/10/2013. Est. Value—$1,500.00. Disposition—Pending transfer to General Services Administration | His Excellency Hamad bin Ali Al-Attiyah, Minister of State for Defense Affairs of the State of Qatar | Non-acceptance would cause embarrassment to donor and U.S. Government.
Special Agent Nicole MacGregor, Office of Special Investigation | Glamrock set containing a ladies' watch, wallet, pen, and charm bracelet set. Rec'd—11/10/2013. Est. Value—$2,000.00. Disposition—Pending transfer to General Services Administration | His Excellency Hamad bin Ali Al-Attiyah, Minister of State for Defense Affairs of the State of Qatar | Non-acceptance would cause embarrassment to donor and U.S. Government.
Colonel James Brandenburg, 738 AEAG Commander | 4″ x 6″ Afghan style rug. Rec'd—12/23/2013. Est. Value—$600.00. Disposition—Pending transfer to General Services Administration | Major Geneneral Abdul Raziq Sherzai, Wing Commander of the Islamic Republic of Afghanistan | Non-acceptance would cause embarrassment to donor and U.S. Government.
General John Hesterman III, USAFCENT Commander | JBR men's watch in wood box. Rec'd—1/1/2014. Est. Value—$500.00. Disposition—Pending transfer to General Services Administration | General Ghanim Bin Shaheen Al-Ghanim, Chief of Staff of the Armed Forces of the State of Qatar | Non-acceptance would cause embarrassment to donor and U.S. Government.
Ms. Heidi Grant, SAF/IA | 32GB iPhone 5. Dior men's and ladies' watch set with a Dior pen in a wooden box. Rec'd—1/15/2014. Est. Value—$8,025.00. Disposition—Pending transfer to General Services Administration | General Ghanim Bin Shaheen Al-Ghanim, Chief of Staff of the Armed Forces of the State of Qatar | Non-acceptance would cause embarrassment to donor and U.S. Government.
Lieutenant General David Goldfein, USAFCENT Commander | Afghan style rug. Rec'd—2/4/2014. Est. Value—$509.00. Disposition—Transferred to General Services Administration | Major Geneneral Abdul Raziq Sherzai, Wing Commander of the Islamic Republic of Afghanistan | Non-acceptance would cause embarrassment to donor and U.S. Government.
General John Hesterman III, USAFCENT Commander | Hellveco men's and ladies' watch set. Rec'd—2/19/2014. Est. Value—$979.00. Disposition—Pending transfer to General Services Administration | General Ghanim Bin Shaheen Al-Ghanim, Chief of Staff of the Armed Forces of the State of Qatar | Non-acceptance would cause embarrassment to donor and U.S. Government.
General John Hesterman III, USAFCENT Commander | Lamborghini set containing men's and ladies' watches and two pens in a wooden box. Rec'd—3/19/2014. Est. Value—$3,000.00. Disposition—Transferred to General Services Administration | General Ghanim Bin Shaheen Al-Ghanim, Chief of Staff of the Armed Forces of the State of Qatar | Non-acceptance would cause embarrassment to donor and U.S. Government.
United States Air Force Employee | 3′ x 4′ “Magic Knots” hand-knotted Azerbaijani rug. Rec'd—4/23/2014. Est. Value—$1,250.00. Disposition—Retained for official use only | His Excellency Elin Suleymanov, Ambassador of the Republic of Azerbaijan to the United States | Non-acceptance would cause embarrassment to donor and U.S. Government.
Colonel David Hornyak, Commander of the 377th Air Base Wing | Gold bracelet. Rec'd—6/1/2014. Est. Value—$973.00. Disposition—Purchased from the General Services Administration | His Excellency Dr. Saadon Al Dlimi, Minister of Defense of the Republic of Iraq | Non-acceptance would cause embarrassment to donor and U.S. Government.
General Randy Kee, US European Command | Polish calvary sabre. Rec'd—7/1/2014. Est. Value—$450.00. Disposition—Purchased from the General Services Administration | His Excellency Robert Kupiecki, Undersecretary of State, Ministry of Defense of the Republic of Poland | Non-acceptance would cause embarrassment to donor and U.S. Government.
United States Air Force Employee | 37″ Shashka sword and sheath. Rec'd—7/9/2014. Est. Value—$1,250.00. Disposition—Retained for official use only | His Excellency Irakli Alasania, Minister of Defense of Georgia | Non-acceptance would cause embarrassment to donor and U.S. Government.
Colonel Joseph Messer, Liaison Officer | Samsung Galaxy S4 phone. Rec'd—8/5/2014. Est. Value—$500.00. Disposition—Pending transfer to General Services Administration | Colonel Alnaqbi, Deputy Commander for the United Arab Emirates | Non-acceptance would cause embarrassment to donor and U.S. Government.
Colonel Joseph Messer, Liaison Officer | iPhone 5s. Samsung Galaxy S5 phone. Rec'd—9/14/2014. Est. Value—$600.00. Disposition—Pending transfer to General Services Administration | Colonel Khamis Alamazrouei, Commander for the United Arab Emirates | Non-acceptance would cause embarrassment to donor and U.S. Government.
Captain David Wright, US Air Force | Certina men's watch. Rec'd—10/1/2014. Est. Value—$840.00. Disposition—Pending transfer to General Services Administration | General Air Vice Marshall Abdullah bin Mohammed Al-Qarni Ali, Commander of King Faisal Air College of the Kingdom of Saudi Arabia | Non-acceptance would cause embarrassment to donor and U.S. Government.
Colonel John Barlett, US Air Force | Certina men's watch. Rec'd—10/1/2014. Est. Value—$780.00. Disposition—Pending transfer to General Services Administration | General Air Vice Marshall Abdullah bin Mohammed Al-Qarni Ali, Commander of King Faisal Air College of the Kingdom of Saudi Arabia | Non-acceptance would cause embarrassment to donor and U.S. Government.
General John Hesterman III, USAFCENT Commander | Techno Marine men's and ladies' watch set. Rec'd—10/29/2014. Est. Value—$1,200.00. Disposition—Pending transfer to General Services Administration | His Excellency Hamad bin Ali al-Attiyah, Minister of State for Defense Affairs of the State of Qatar | Non-acceptance would cause embarrassment to donor and U.S. Government.
General John Hesterman III, USAFCENT Commander | Armand Nicolet men's watch. JBR ladies' watch. Rec'd—12/2/2014. Est. Value—$8,700.00. Disposition—Pending transfer to General Services Administration | His Excellency Hamad bin Ali al-Attiyah, Minister of State for Defense Affairs of the State of Qatar | Non-acceptance would cause embarrassment to donor and U.S. Government.

AGENCY: Department of the Army
[Report of Tangible Gifts Furnished by the Department of the Army]
Name and title of person accepting the gift on behalf of the U.S. Government | Gift, date of acceptance on behalf of the U.S. Government, estimated value, and current disposition or location | Identity of foreign donor and government | Circumstances justifying acceptance
Major General Patrick J. Donahue II, Commanding General of the U.S. Army Africa/Southern European Task Force | Portfolio size hand-stitched crocodile skin leather attaché briefcase with single clasp metal enclosure. Rec'd—10/11/2012. Est. Value—$549.00. Disposition—Retained for official use at Headquarters, U.S. Army Africa/Southern European Task Force | Admiral Os Ibrahim, Commander of Defense Forces of the Federal Republic of Nigeria | Non-acceptance would cause embarrassment to donor and U.S. Government.
Lieutenant Colonel Scott C. Greenblatt, Director of the Host Nation Affairs Area Support Group in the State of Kuwait | 16GB Apple iPad2 with Wi-Fi capability. Rec'd—9/23/2013. Est. Value—$389.00. Disposition—Retained in the Army Gift Program Office pending transfer to General Services Administration | Major General Abdulrazaq Al Awadhi, Assistant Chief of Staff for Operations and Plans for the Ministry of Defense of the State of Kuwait | Non-acceptance would cause embarrassment to donor and U.S. Government.
Major General Patrick J. Donahue II, Commanding General of the U.S. Army Africa/Southern European Task Force | Portfolio size hand-stitched, crocodile skin leather attaché briefcase with double leather strap enclosure. Rec'd—12/4/2013. Est. Value—$549.00. Disposition—Retained for official use at Headquarters, U.S. Army Africa/Southern European Task Force | Admiral Os Ibrahim, Commander of Defense Forces of the Federal Republic of Nigeria | Non-acceptance would cause embarrassment to donor and U.S. Government.
Lieutenant General Charles T. Cleveland, Commanding General of the U.S. Army Special Operations Command | Sterling silver rose. Extreme Ratio Pugio S.E. fixed blade knife. Wooden plaque. Rec'd—1/22/2014. Est. Value—$599.00. Disposition—Retained for official use at Headquarters, U.S. Army Special Operations Command | Lieutenant General Claudio Graziano, Chief of Staff of the Army of the Italian Republic | Non-acceptance would cause embarrassment to donor and U.S. Government.
General Dennis L. Via, Commanding General of the U.S. Army Materiel Command | State of Qatar gold statue with red box. Charmex of Switzerland watch, wallet, cufflinks and pen set in box. GlamRock watch, wallet and pen set in box. Two sets of Murex watches, pens, pairs of cufflinks and key chain in box. Delsey rollerboard suitcase. Murex watch, wallet, pen and USB set in box. Joseph H. Clissold wool throw blanket. Aigner men's necktie. Rec'd—3/20/2014. Est. Value—$12,432.80. Disposition—State of Qatar gold statue retained for official use at Headquarters, U.S. Army Materiel Command. Remaining items retained in the Army Gift Program Office pending transfer to General Services Administration | Major General Hamad bin Ali Al-Atiyah, Minister of State for Defense Affairs of the State of Qatar | Non-acceptance would cause embarrassment to donor and U.S. Government.
Brigadier General John C. Thomson III, Commandant of Cadets of the U.S. Military Academy | 22k yellow gold jewelry set containing a necklace and matching pair of earrings. Rec'd—8/1/2014. Est. Value—$3,895.00. Disposition—Retained in the Army Gift Program Office pending transfer to General Services Administration | Major General Ahmad Malgarai, Defense Official of the Islamic Republic of Afghanistan | Non-acceptance would cause embarrassment to donor and U.S. Government.
Major General Scott D. Berrier, Director of Intelligence for the U.S. Forces in the Islamic Republic of Afghanistan | 3 square meter Khuwaja Eushna hand-made wool rug. Rec'd—10/2/2014. Est. Value—$750.00. Disposition—Retained for official use only at Headquarters, International Security Assistance Force/U.S. Forces-Afghanistan CJ2 (Intelligence) | Major General Asadullah Sherzad, General Commander of the Police Special Units, Afghan National Police of the Islamic Republic of Afghanistan | Non-acceptance would cause embarrassment to donor and U.S. Government.

AGENCY: Department of the Navy
[Report of Tangible Gifts and Travel Furnished by the Department of the Navy]
Name and title of person accepting the gift on behalf of the U.S. Government | Gift, date of acceptance on behalf of the U.S. Government, estimated value, and current disposition or location | Identity of foreign donor and government | Circumstances justifying acceptance
Vice Admiral John Bird, Commander of the U.S. Seventh Fleet | Two 16.5″ elephant statues. Rec'd—2/16/2009. Est. Value—$300.00. Disposition—Pending transfer to General Services Administration | Admiral Somded Tongpiam, Former Deputy Commander-in-Chief of the Royal Navy of the Kingdom of Thailand and President of the Amateur Fencing Association | Non-acceptance would cause embarrassment to donor and U.S. Government.
General James Mattis, Commander of the U.S. Central Command for the U.S. Marine Corps | 1″ diameter gold coin. Rec'd—11/15/2010. Est. Value—$1,067.13. Disposition—Pending transfer to General Services Administration | Colonel General Sherali Khairullavich Khayrulloev, Minister of Defense of the Republic of Tajikistan | Non-acceptance would cause embarrassment to donor and U.S. Government.
General James Mattis, Commander of the U.S. Central Command for the U.S. Marine Corps | Invicta watch. Rec'd—1/17/2011. Est. Value—$495.00. Disposition—Pending transfer to General Services Administration | Major General Hamad bin Ali Al-Attiyah, Minister of State for Defense of the State of Qatar | Non-acceptance would cause embarrassment to donor and U.S. Government.
Lieutenant General John Allen, Aide to the Commander of the U.S. Central Command for the U.S. Marine Corps | Gift set containing JBR watch, pen, cufflinks, and cologne. Rec'd—1/17/2011. Est. Value—$795.00. Disposition—Pending transfer to General Services Administration | Major General Hamad bin Ali Al-Attiyah, Minister of State for Defense of the State of Qatar | Non-acceptance would cause embarrassment to donor and U.S. Government.
Major Todd Manyx, Aide to the Commander of the U.S. Central Command for the U.S. Marine Corps | Gift set containing JBR pen, cufflinks, wallet, and Cyma watch. Rec'd—1/17/2011. Est. Value—$559.00. Disposition—Pending transfer to General Services Administration | Major General Hamad bin Ali Al-Attiyah, Minister of State for Defense of the State of Qatar | Non-acceptance would cause embarrassment to donor and U.S. Government.
Lieutenant General John Allen, Aide to the Commander of the U.S. Central Command for the U.S. Marine Corps | Longines ladies' watch. Longines men's watch. Rec'd—1/17/2011. Est. Value—$4,975.00. Disposition—Pending transfer to General Services Administration | Major General Hamad bin Ali Al-Attiyah, Minister of State for Defense of the State of Qatar | Non-acceptance would cause embarrassment to donor and U.S. Government.
Lieutenant Colonel Stephen Shore, Personal Staff to the Commander of the U.S. Central Command for the U.S. Marine Corps | Gift set containing a Giovanni men's watch, JBR Cologne, pen, and cuffliks. Rec'd—1/17/2011. Est. Value—$997.00. Disposition—Pending transfer to General Services Administration | Major General Hamad bin Ali Al-Attiyah, Minister of State for Defense of the State of Qatar | Non-acceptance would cause embarrassment to donor and U.S. Government.
General James Mattis, Commander of the U.S. Central Command for the U.S. Marine Corps | Louis Vuitton lingot men's belt. Red Louis Vuitton necktie. Blue Louis Vuitton necktie. Louis Vuitton silver motif cufflinks. Rec'd—4/24/2012. Est. Value—$724.54. Disposition—Pending transfer to General Services Administration | General Rashid Mohsin Abdullah Fetais, Senior National Representative to Central Command of the State of Qatar | Non-acceptance would cause embarrassment to donor and U.S. Government.
General James Mattis, Commander of the U.S. Central Command for the U.S. Marine Corps | Men's cashmere coat. Rec'd—2/2/2013. Est. Value—$400.00. Disposition—Pending transfer to General Services Administration | Sheikh Sami Abdul-Amir al-Jamaili, City Council Chairman of the Republic of Iraq | Non-acceptance would cause embarrassment to donor and U.S. Government.
Admiral Cecil Haney, Commander of the U.S. Pacific Fleet | Riyta men's watch. Rec'd—8/20/2013. Est. Value—$500.00. Disposition—Pending transfer to General Services Administration | Rear Admiral Han Xiaohu, Assistant Chief of Navy Staff of the People's Liberation Army of the People's Republic of China | Non-acceptance would cause embarrassment to donor and U.S. Government.
Admiral Jonathan Grennert, Chief of Naval Operations | Blue crystal chalice. Rec'd—11/26/2013. Est. Value—$880.00. Disposition—Pending transfer to General Services Administration | Rear Admiral Abdullah Al-Raisi, Commander of the Royal Navy of the Sultanate of Oman | Non-acceptance would cause embarrassment to donor and U.S. Government.
Vice Admiral John Miller, Commander of the U.S. Naval Forces Central Command, Fifth Fleet and Commander of the Combined Maritime Forces | Concord men's watch. Rec'd—1/12/2014. Est. Value—$3,000.00. Disposition—Pending transfer to General Services Administration | Major General Hamad bin Ali Al-Attiyah, Minister of State for Defense of the State of Qatar | Non-acceptance would cause embarrassment to donor and U.S. Government.
Special Agent Troy Willism, Personal Security Advisor to the Commander of the U.S. Naval Forces Central Command | Alpina men's watch. Rec'd—1/12/2014. Est. Value—$1,495.00. Disposition—Pending transfer to General Services Administration | Major General Hamad bin Ali Al-Attiyah, Minister of State for Defense of the State of Qatar | Non-acceptance would cause embarrassment to donor and U.S. Government.
Commander Kelly Holmes, U.S. Naval Central Engagement Officer for the State of Qatar | Techno Marine men's watch. Rec'd—1/12/2014. Est. Value—$575.00. Disposition—Pending transfer to General Services Administration | Major General Hamad bin Ali Al-Attiyah, Minister of State for Defense of the State of Qatar | Non-acceptance would cause embarrassment to donor and U.S. Government.
Lieutenant Kale Streeter, Flag Aide to the Commander of the U.S. Naval Forces Central Command | Alpina men's watch. Rec'd—1/12/2014. Est. Value—$1,695.00. Disposition—Pending transfer to General Services Administration | Major General Hamad bin Ali Al-Attiyah, Minister of State for Defense of the State of Qatar | Non-acceptance would cause embarrassment to donor and U.S. Government.
Rear Admiral Russell Allen, Commander of the U.S. Seventh Fleet | Greenstone mere. Rec'd—3/7/2014. Est. Value—$599.00. Disposition—Retained for official use | Rear Admiral Jack Steer, Chief of the Royal New Zealand Navy | Non-acceptance would cause embarrassment to donor and U.S. Government.
Admiral Bruce Clingan, Commander of the U.S. Naval Forces Europe/U.S. Naval Forces Africa | TRAVEL: Expended for lodgings in Den Helder, Kingdom of the Netherlands. Rec'd—6/18-20/2013. Est. Value—$614.24 | Vice Admiral Mattieu J. M. Borsboom, Commander of the Royal Netherlands Navy | Non-acceptance would cause embarrassment to donor and U.S. Government.
Lieutenant Commander Glenn Todd, Aide-de-Camp to the Commander of the U.S. Naval Forces Europe/U.S. Naval Forces Africa | TRAVEL: Expended for lodgings in Den Helder, Kingdom of the Netherlands. Rec'd—6/18-20/2013. Est. Value—$346.60 | Vice Admiral Mattieu J. M. Borsboom, Commander of the Royal Netherlands Navy | Non-acceptance would cause embarrassment to donor and U.S. Government.
Mr. Jack Hurley, Personal Security to the Commander of the U.S. Naval Forces Europe/U.S. Naval Forces Africa | TRAVEL: Expended for lodgings in Den Helder, Kingdom of the Netherlands. Rec'd—6/18-20/2013. Est. Value—$346.60 | Vice Admiral Mattieu J. M. Borsboom, Commander of the Royal Netherlands Navy | Non-acceptance would cause embarrassment to donor and U.S. Government.
Admiral Bruce Clingan, Commander of the U.S. Naval Forces Europe/U.S. Naval Forces Africa and Spouse | TRAVEL: Expended for lodgings in Pretoria, Republic of South Africa. Rec'd—10/29-11/1/2013. Est. Value—$1,552.02 | Vice Admiral Refiloe Johannes Mudimu, Chief of the Navy of the Republic of South Africa | Non-acceptance would cause embarrassment to donor and U.S. Government.
Lieutenant Commander Glenn Todd, Aide-de-Camp to the Commander of the U.S. Naval Forces Europe/U.S. Naval Forces Africa | TRAVEL: Expended for lodgings in Pretoria, Republic of South Africa. Rec'd—10/29-11/1/2013. Est. Value—$606.74 | Vice Admiral Refiloe Johannes Mudimu, Chief of the Navy of the Republic of South Africa | Non-acceptance would cause embarrassment to donor and U.S. Government.
Mr. James Smith, Foreign Policy Advisor to the Commander of the U.S. Naval Forces Europe/U.S. Naval Forces Africa | TRAVEL: Expended for lodgings in Pretoria, Republic of South Africa. Rec'd—10/29-11/1/2013. Est. Value—$606.74 | Vice Admiral Refiloe Johannes Mudimu, Chief of the Navy of the Republic of South Africa | Non-acceptance would cause embarrassment to donor and U.S. Government.
Rear Admiral James J. Shannon, Deputy Assistant Secretary of the Navy and Director of the Navy International Programs Office | TRAVEL: Expended for lodgings and travel in the Republic of Singapore. Rec'd—2/9-13/2014. Est. Value—$1,689.00 | Brigadier General Tan Meng Dui, Deputy Secretary of Technology and Industries of the Ministry of Defence of the Republic of Singapore | Non-acceptance would cause embarrassment to donor and U.S. Government.
Mr. Dennis Gossett, Director of Command, Control, Communications, and Computers/Expeditionary Warfare of the Navy International Programs Office | TRAVEL: Expended for lodgings and travel in the Republic of Singapore. Rec'd—2/9-13/2014. Est. Value—$1,689.00 | Brigadier General Tan Meng Dui, Deputy Secretary of Technology and Industries of the Ministry of Defence of the Republic of Singapore | Non-acceptance would cause embarrassment to donor and U.S. Government.
Captain Jim Kim, Director of the Pacific Division of the Navy International Programs Office | TRAVEL: Expended for lodgings and travel in the Republic of Singapore. Rec'd—2/9-13/2014. Est. Value—$1,689.00 | Brigadier General Tan Meng Dui, Deputy Secretary of Technology and Industries of the Ministry of Defence of the Republic of Singapore | Non-acceptance would cause embarrassment to donor and U.S. Government.
Lieutenant Brandr W. Beekman-Ellner, Aide to the Director of the Navy International Programs Office | TRAVEL: Expended for lodgings and travel in the Republic of Singapore. Rec'd—2/9-13/2014. Est. Value—$1,689.00 | Brigadier General Tan Meng Dui, Deputy Secretary of Technology and Industries of the Ministry of Defence of the Republic of Singapore | Non-acceptance would cause embarrassment to donor and U.S. Government.
Commander Paul Gomes, Assigned to the 513th Reserve Detachment of the Maritime Partnership Program of the U.S. Sixth Fleet of the U.S. Naval Forces Europe | TRAVEL: Expended for lodgings in the Republic of Latvia. Rec'd—2/23-3/1/2014. Est. Value—$390.00 | Lieutenant Commander Igors Korolovs, Senior Officer for the Naval Intermediate Command Staff Course at the National Defense Academy of the Republic of Latvia | Non-acceptance would cause embarrassment to donor and U.S. Government.
Commander James Wainwright, Assigned to the 513th Reserve Detachment of the Maritime Partnership Program of the U.S. Sixth Fleet of the U.S. Naval Forces Europe | TRAVEL: Expended for lodgings in the Republic of Latvia. Rec'd—2/23-3/1/2014. Est. Value—$390.00 | Lieutenant Commander Igors Korolovs, Senior Officer for the Naval Intermediate Command Staff Course at the National Defense Academy of the Republic of Latvia | Non-acceptance would cause embarrassment to donor and U.S. Government.
Master Chief Legalman Julie Tessmer, Assigned to the 513th Reserve Detachment of the Maritime Partnership Program of the U.S. Sixth Fleet of the U.S. Naval Forces Europe | TRAVEL: Expended for lodgings in the Republic of Latvia. Rec'd—2/23-3/1/2014. Est. Value—$390.00 | Lieutenant Commander Igors Korolovs, Senior Officer for the Naval Intermediate Command Staff Course at the National Defense Academy of the Republic of Latvia | Non-acceptance would cause embarrassment to donor and U.S. Government.
Captain Richard O'Connell, Director of the Northern Command/Southern Command Division of the Security Cooperation Directorate of the Navy International Programs Office | TRAVEL: Expended for lodgings in the Republic of Chile. Rec'd—12/1-4/2014. Est. Value—$570.00 | Almirante Enrique Larranaga Martin, Commander in Chief of the Navy of the Republic of Chile | Non-acceptance would cause embarrassment to donor and U.S. Government.

AGENCY: United States Marine Corps
[Report of Tangible Gift Furnished by the United States Marine Corps]
Name and title of person accepting the gift on behalf of the U.S. Government | Gift, date of acceptance on behalf of the U.S. Government, estimated value, and current disposition or location | Identity of foreign donor and government | Circumstances justifying acceptance
Lieutenant General John A. Toolan, COMMARFORPAC | 13.5 mm cultured white south sea pearl necklace and bracelet set. Rec'd—9/2/2014. Est. Value—$1,150.00. Disposition—Forwarded to CMC(JA) and pending transfer to General Services Administration | Lieutenant General Datuk Mohd Zaki Bin HJ Mokhtar, Eastern Region Commander of the Armed Forces of Malaysia | Non-acceptance would cause embarrassment to donor and U.S. Government.

AGENCY: Department of Homeland Security
[Report of Tangible Gifts and Travel Furnished by the Department of Homeland Security]
Name and title of person accepting the gift on behalf of the U.S. Government | Gift, date of acceptance on behalf of the U.S. Government, estimated value, and current disposition or location | Identity of foreign donor and government | Circumstances justifying acceptance
The Honorable Jeh Charles Johnson, Secretary of Homeland Security of the United States | 49″ x 76″ nylon & wool carpet with a gold center, rectangular floral design, maroon rectangular border, and continued floral designs. Rec'd—1/24/2014. Est. Value—$500.00. Disposition—Currently stored in NAC05-01-111-F suite | His Excellency Dr. Ali Bin Fetais Al-Marri, Attorney General of the State of Qatar | Non-acceptance would cause embarrassment to donor and U.S. Government.
The Honorable Jeh Charles Johnson, Secretary of Homeland Security of the United States | Cartier platinum bracelet engraved with “Jeh Charles Johnson” on the interior and an exterior engraved decoration in circles with a line through each circle center. Rec'd—5/14/2014. Est. Value—$15,700.00. Disposition—Currently stored in NAC05-01-111-F suite | His Excellency Dr. Ali Bin Fetais Al-Marri, Attorney General of the State of Qatar | Non-acceptance would cause embarrassment to donor and U.S. Government.
The Honorable Jeh Charles Johnson, Secretary of Homeland Security of the United States | Rolex Oyster Perpetual watch with superlative chronometer and sterling silver band (client #535, ref #116300, series #1R179201, model: Oyster Perpetual). Rec'd—6/2/2014. Est. Value—$6,595.00. Disposition—Currently stored in NAC05-01-111-F suite | His Excellency Dr. Ali Bin Fetais Al-Marri, Attorney General of the State of Qatar | Non-acceptance would cause embarrassment to donor and U.S. Government.
The Honorable Jeh Charles Johnson, Secretary of Homeland Security of the United States | Model of a steam train class 375 “Hrbata” with 2 passenger cars and a service wagon with different inventory numbers. Hardcover book, title: Lord Dun's Friendly and Familiar Advices, Adapted to the Various Stations and Conditions of Life, and the Mutual Relations to be Observed Amongst Them by Lord David Erskine Dun, first print of the manuscript printed in Edinburgh in 1754. Rec'd—6/16/2014. Est. Value—$993.11. Disposition—Currently stored in NAC05-01-111-F suite | His Excellency Robert Kalinak, Deputy Prime Minister and Minister of Interior of the Slovak Republic | Non-acceptance would cause embarrassment to donor and U.S. Government.
The Honorable Jeh Charles Johnson, Secretary of Homeland Security of the United States | Black leather large gloves with grey cashmere lining by Portolano. Light grey cashmere scarf with dark grey trim by Amicale. Light grey cashmere hat by Loro Piana. Style FAA1752. By Berretto M.. Rec'd—12/18/2014. Est. Value—$611.00. Disposition—Currently stored in NAC05-01-111-F suite | His Excellency Abdullah Bin Nasser Bin Khalifa Al Thani, Prime Minister and Minister of Interior of the State of Qatar | Non-acceptance would cause embarrassment to donor and U.S. Government.
Dr. Susan DiMarco, Spouse of the Secretary of Homeland Security | Gold Cartier necklace with pendant containing initials “S.D.” and the word “LOVE” engraved on the back of the open circle pendant and engraved circles with a line through each circle's center on the front. Rec'd—5/14/2014. Est. Value—$3,200.00. Disposition—Currently stored in NAC05-01-111-F suite | His Excellency Dr. Ali Bin Fetais Al-Marri, Attorney General of the State of Qatar | Non-acceptance would cause embarrassment to donor and U.S. Government.
Dr. Susan DiMarco, Spouse of the Secretary of Homeland Security | Rolex Oyster Perpetual women's watch with superlative chronometer, sterling silver band, and interior silver base with alternating pink flowers (client #535, ref #116234, series #222DP187, model: Oyster Perpetual). Rec'd—6/2/2014. Est. Value—$6,917.00. Disposition—Currently stored in NAC05-01-111-F suite | His Excellency Dr. Ali Bin Fetais Al-Marri, Attorney General of the State of Qatar | Non-acceptance would cause embarrassment to donor and U.S. Government.
Dr. Susan DiMarco, Spouse of the Secretary of Homeland Security | Purple cashmere Loro Piana scarf/muffler. Rec'd—12/18/2014. Est. Value—$425.00. Disposition—Currently stored in NAC05-01-111-F suite | His Excellency Abdullah Bin Nasser Bin Khalifa Al Thani, Prime Minister and Minister of Interior of the State of Qatar | Non-acceptance would cause embarrassment to donor and U.S. Government.
Mr. Jeh Johnson, Jr., Son of the Secretary of Homeland Security | Cartier gold bracelet engraved with “Jeh Charles Johnson, Jr.” on the interior and an exterior engraving of circles with a line through each circle's center. Rec'd—5/14/2014. Est. Value—$6,600.00. Disposition—Currently stored in NAC05-01-111-F suite | His Excellency Dr. Ali Bin Fetais Al-Marri, Attorney General of the State of Qatar | Non-acceptance would cause embarrassment to donor and U.S. Government.
Miss Natalie Johnson, Daughter of the Secretary of Homeland Security | Gold Cartier necklace with pendant containing initials “N.J.” and the word “LOVE” engraved on the back of the open circle pendant and engraved circles with a line through each circle's center on the front. Rec'd—5/14/2014. Est. Value—$3,200.00. Disposition—Currently stored in NAC05-01-111-F suite | His Excellency Dr. Ali Bin Fetais Al-Marri, Attorney General of the State of Qatar | Non-acceptance would cause embarrassment to donor and U.S. Government.
Mr. Dan von Geijer, Office of Global Strategies, International Analyst Capacity Development Delivery International Aviation Development Integrated Plans and Support of the Transportation Security Administration | Baume and Mercier watch. Rec'd—9/11/2014. Est. Value—$1,150.00. Disposition—Pending transfer to General Services Administration | Major General Al-Sugaeebi, Assistant Under Secretary of the Ministry of Interior for Port Security Affairs and Brigadier General Al-Haddad of the State of Kuwait | Non-acceptance would cause embarrassment to donor and U.S. Government.
The Honorable Alan Bersin, Acting Assistant Secretary for Policy and Chief Diplomatic Officer of the Office of Policy | Claudia Patrick men's linked watch with stones. Louis Erard ladies' Heritage automatic mother of pearl dial steel and rose gold watch. Rec'd—9/21/2014. Est. Value—$4,200.00. Disposition—Retained for official use in the Assistant Secretary's office | His Excellency Abdullah Bin Nasser Bin Khalifa Al Thani, Prime Minister and Minister of Interior, State of Qatar | Non-acceptance would cause embarrassment to donor and U.S. Government.
The Honorable Alan Bersin, Acting Assistant Secretary for Policy and Chief Diplomatic Officer, Office of Policy | Rose colored Sciarpa Grande cashmere ladies' scarf with fringe by Loro Piana. Heather gray cashmere men's hat by Sophia Cashmere. Dark brown leather gloves with feathered beige cashmere lining by Loro Piana. Men's grey Grande Unita cashmere scarf by Loro Piana. Rec'd—12/12/2014. Est. Value—$1,645.00. Disposition—Pending transfer to General Services Administration | His Excellency Abdullah Bin Nasser Bin Khalifa Al Thani, Prime Minister and Minister of Interior of the State of Qatar | Non-acceptance would cause embarrassment to donor and U.S. Government.
The Honorable Jeh Johnson, Secretary of Homeland Security of the United States, and Traveling Delegation: Patrick Barry, Alan Bersin, Lyndsey Toeppen, Tanya Bradsher, Jim Estramonte, and Marcus Richardson | TRAVEL: Hotel room accommodation to members of the delegation which includes one suite and six standard rooms at the Intercontinental Jeddah. Rec'd—6/1/2014. Est. Value—$2,077.31 | His Royal Highness Muhammed bin Nayef bin Abdulaziz Al-Saud, Minister of the Interior of the Kingdom of Saudi Arabia | Non-acceptance would cause embarrassment to donor and U.S. Government.
Mr. Domingo Gonzalez, Special Agent, ICE HQ | TRAVEL: Collaboration with the Abu Dhabi Police Training Department. Rec'd—1/26/2014. Est. Value—$6872.11 | Lieutenant Colonel Saleh Saeed Al Amoodi, Manager of the International Training Department of the Abu Dhabi Police of the United Arab Emirates | Non-acceptance would cause embarrassment to donor and U.S. Government.
Mr. Domiciano Rodriguez, ICE HQ | TRAVEL: Collaboration with the Abu Dhabi Police Training Department. Rec'd—1/26/2014. Est. Value—$6872.11 | Lieutenant Colonel Saleh Saeed Al Amoodi, Manager of the International Training Department of the Abu Dhabi Police of the United Arab Emirates | Non-acceptance would cause embarrassment to donor and U.S. Government.
Mr. Roger Osborn, Special Agent, ICE HQ | TRAVEL: Collaboration with the Abu Dhabi Police Training Department. Rec'd—1/26/2014. Est. Value—$6872.11 | Lieutenant Colonel Saleh Saeed Al Amoodi, Manager of the International Training Department of the Abu Dhabi Police of the United Arab Emirates | Non-acceptance would cause embarrassment to donor and U.S. Government.
Mr. Brian Ramsey, Special Agent, ICE SAC Atlanta | TRAVEL: Collaboration with the Abu Dhabi Police Training Department. Rec'd—1/26/2014. Est. Value—$6872.11 | Lieutenant Colonel Saleh Saeed Al Amoodi, Manager of the International Training Department of the Abu Dhabi Police of the United Arab Emirates | Non-acceptance would cause embarrassment to donor and U.S. Government.
Mr. Gregory Mandoli, Assistant Attaché, ICE Attaché London | TRAVEL: HSI speaker at the Government of Ireland Financial Seminar. Rec'd—2/12/2014. Est. Value—$549.00 | Northern Ireland Environment Agency | Non-acceptance would cause embarrassment to donor and U.S. Government.
Mr. Timothy Bradley, ICE Representative, ICE Attaché Caribbean | TRAVEL: Airfare and hotels to Australia for cruise ship investigative and targeting training to include enforcement operations. Rec'd—2/22/2014. Est. Value—$5691.01 | Mr. Boyd Doherty, Australian Customs and Border Protection | Non-acceptance would cause embarrassment to donor and U.S. Government.
Mr. Erik Barnett, ICE Attaché to the European Union | TRAVEL: HSI representative for a presentation at IPR conference for judges and law enforcement, sponsored by the Office for Harmonization in the Internal Market. Rec'd—3/4/2014. Est. Value—$872.00 | Mr. Eric Gastinel, Head of IP Education Programs of the European Union Office for Harmonization in the Internal Market | Non-acceptance would cause embarrassment to donor and U.S. Government.
Mr. Kim Wong, Special Agent, ICE Stockton | TRAVEL: Instructor for VIP protection and firearms training to the Abu Dhabi Police. Rec'd—3/5/2014. Est. Value—$7,078.91 | Lieutenant Colonel Saleh Saeed Al Amoodi, Manager of the International Training Department of the Abu Dhabi Police of the United Arab Emirates | Non-acceptance would cause embarrassment to donor and U.S. Government.
Mr. Tom Wynn, Special Agent, ICE OFTP Fort Benning | TRAVEL: Instructor for VIP protection and firearms training to the Abu Dhabi Police. Rec'd—3/5/2014. Est. Value—$6,727.89 | Lieutenant Colonel Saleh Saeed Al Amoodi, Manager of the International Training Department of the Abu Dhabi Police of the United Arab Emirates | Non-acceptance would cause embarrassment to donor and U.S. Government.
Mr. Matthew Shook, Special Agent, ICE SAC NY | TRAVEL: Instructor for VIP protection and firearms training to the Abu Dhabi Police. Rec'd—3/6/2014. Est. Value—$6,093.88 | Lieutenant Colonel Saleh Saeed Al Amoodi, Manager of the International Training Department of the Abu Dhabi Police of the United Arab Emirates | Non-acceptance would cause embarrassment to donor and U.S. Government.
Mr. Michael Paquin, Special Agent, ICE SAC Tampa | TRAVEL: Instructor for VIP protection and firearms training to the Abu Dhabi Police. Rec'd—3/6/2014. Est. Value—$6,360.54 | Lieutenant Colonel Saleh Saeed Al Amoodi, Manager of the International Training Department of the Abu Dhabi Police of the United Arab Emirates | Non-acceptance would cause embarrassment to donor and U.S. Government.
Mr. Garth Werner, Special Agent, ICE OFTP Fort Benning | TRAVEL: Instructor for VIP protection and firearms training to the Abu Dhabi Police. Rec'd—3/6/2014. Est. Value—$6,357.82 | Lieutenant Colonel Saleh Saeed Al Amoodi, Manager of the International Training Department of the Abu Dhabi Police of the United Arab Emirates | Non-acceptance would cause embarrassment to donor and U.S. Government.
Mr. Willlie Womack, Special Agent, ICE OFTP Ft. Benning | TRAVEL: Instructor for VIP protection and firearms training to the Abu Dhabi Police. Rec'd—3/6/2014. Est. Value—$6,357.82 | Lieutenant Colonel Saleh Saeed Al Amoodi, Manager of the International Training Department of the Abu Dhabi Police of the United Arab Emirates | Non-acceptance would cause embarrassment to donor and U.S. Government.
Mr. Luis Rodriguez, ICE UC OPS | TRAVEL: Collaboration with the Abu Dhabi Police Training Department. Rec'd—3/27/2014. Est. Value—$6,365.99 | Lieutenant Colonel Saleh Saeed Al Amoodi, Manager of the International Training Department of the Abu Dhabi Police of the United Arab Emirates | Non-acceptance would cause embarrassment to donor and U.S. Government.
Mr. Roger Osborn, Special Agent, ICE HQ | TRAVEL: Collaboration with the Abu Dhabi Police Training Department. Rec'd—3/27/2014. Est. Value—$5,955.10 | Lieutenant Colonel Saleh Saeed Al Amoodi, Manager of the International Training Department of the Abu Dhabi Police of the United Arab Emirates | Non-acceptance would cause embarrassment to donor and U.S. Government.
Mr. Christopher Malone, ICE UC OPS | TRAVEL: Collaboration with the Abu Dhabi Police Training Department. Rec'd—3/27/2014. Est. Value—$5955.00 | Lieutenant Colonel Saleh Saeed Al Amoodi, Manager of the International Training Department of the Abu Dhabi Police of the United Arab Emirates | Non-acceptance would cause embarrassment to donor and U.S. Government.
Mr. Domiciano Martinez, ICE UC OPS | TRAVEL: Collaboration with the Abu Dhabi Police Training Department. Rec'd—3/27/2014. Est. Value—$5955.10 | Lieutenant Colonel Saleh Saeed Al Amoodi, Manager of the International Training Department of the Abu Dhabi Police of the United Arab Emirates | Non-acceptance would cause embarrassment to donor and U.S. Government.
Ms. Maria Manzo, ICE UC OPS | TRAVEL: Collaboration with the Abu Dhabi Police Training Department. Rec'd—3/27/2014. Est. Value—$6,744.21 | Lieutenant Colonel Saleh Saeed Al Amoodi, Manager of the International Training Department of the Abu Dhabi Police of the United Arab Emirates | Non-acceptance would cause embarrassment to donor and U.S. Government.
Mr. Domingo Gonzalez, ICE UC OPS | TRAVEL: Collaboration with the Abu Dhabi Police Training Department. Rec'd—3/27/2014. Est. Value—$6,872.11 | Lieutenant Colonel Saleh Saeed Al Amoodi, Manager of the International Training Department of the Abu Dhabi Police of the United Arab Emirates | Non-acceptance would cause embarrassment to donor and U.S. Government.
Mr. Jay Ingersoll, ICE UC OPS | TRAVEL: Collaboration with the Abu Dhabi Police Training Department. Rec'd—3/27/2014. Est. Value—$5,955.10 | Lieutenant Colonel Saleh Saeed Al Amoodi, Manager of the International Training Department of the Abu Dhabi Police of the United Arab Emirates | Non-acceptance would cause embarrassment to donor and U.S. Government.
Mr. Luis Garcia, ICE UC OPS | TRAVEL: Collaboration with the Abu Dhabi Police Training Department. Rec'd—3/27/2014. Est. Value—$7,136.05 | Lieutenant Colonel Saleh Saeed Al Amoodi, Manager of the International Training Department of the Abu Dhabi Police of the United Arab Emirates | Non-acceptance would cause embarrassment to donor and U.S. Government.
Mr. Tino Gonzalez, ICE UC OPS | TRAVEL: Collaboration with the Abu Dhabi Police Training Department. Rec'd—3/27/2014. Est. Value—$6,659.86 | Lieutenant Colonel Saleh Saeed Al Amoodi, Manager of the International Training Department of the Abu Dhabi Police of the United Arab Emirates | Non-acceptance would cause embarrassment to donor and U.S. Government.
Mr. Timothy Bradley, ICE Representative ICE Attaché for the Caribbean | TRAVEL: Airfare and hotels for cruise ship investigative and targeting training to include enforcement operations. Rec'd—4/28/2014. Est. Value—$4,262.67 | Mr. Glen Pounder, National Crime Agency of the United Kingdom of Great Britain and Northern Ireland | Non-acceptance would cause embarrassment to donor and U.S. Government.
Mr. Neveine Habeeb, Special Agent, ICE Attaché for Dubai | TRAVEL: Escort Dubai police delegation for training related to mass transit and counterterrorism programs. Rec'd—5/5/2014. Est. Value—$12,000.00 | Colonel Mohammad Al-Bastaki of the United Arab Emirates | Non-acceptance would cause embarrassment to donor and U.S. Government.
Mr. Majdi Haddad, FSN-I, ICE Attaché for Dubai | TRAVEL: Escort delegation of Abu Dhabi Police to SAC/NY for training. Rec'd—5/9/2014. Est. Value—$5,662.59 | Lieutenant Colonel Saleh Saeed Al Amoodi, Manager of the International Training Department of the Abu Dhabi Police of the United Arab Emirates | Non-acceptance would cause embarrassment to donor and U.S. Government.
Mr. Charles Baxter, Assistant Attaché, ICE Attaché for Dubai | TRAVEL: Escort delegation of Abu Dhabi Police to SAC/NY for training. Rec'd—5/10/2014. Est. Value—$5,662.59 | Lieutenant Colonel Saleh Saeed Al Amoodi, Manager of the International Training Department of the Abu Dhabi Police of the United Arab Emirates | Non-acceptance would cause embarrassment to donor and U.S. Government.
The Honorable Alan Bersin, Acting Assistant Secretary for International Affairs and Chief Diplomatic Officer of the Office of International Affairs | TRAVEL: Presented keynote remarks at the Inaugural International Network of Customs Universities Global Conference. Attended meetings with His Excellency Kamaladdin Heydarov, Minister for Emergency Situations of the Republic of Azerbaijan, Deputy Border Service Chief Farhad Taghizada, and Deputy Minister of Interior Oruj Zalov to discuss DHS-Azeri cooperation on traveler screening, border security, law enforcement, and nonproliferation. Rec'd—5/19-24/2014. Est. Value—$6,766.00 | Mr. Aydin Aliyev, Chairman of the State Customs Committee of the Republic of Azerbaijan | Non-acceptance would cause embarrassment to donor and U.S. Government.
Mr. Nathan Peeters, Confidential Assistant of the Office of International Affairs | TRAVEL: Staffed Acting Assistant Secretary Alan D. Bersin who presented keynote remarks at the Inaugural International Network of Customs Universities Global Conference. Attended meetings with His Excellency Kamaladdin Heydarov, Minister for Emergency Situations of the Republic of Azerbaijan, Deputy Border Service Chief Farhad Taghizada, and Deputy Minister of Interior Oruj Zalov to discuss DHS-Azeri cooperation on traveler screening, border security, law enforcement, and nonproliferation. Rec'd—5/19-24/2014. Est. Value—$6,766.00 | Mr. Aydin Aliyev, Chairman of the State Customs Committee of the Republic of Azerbaijan | Non-acceptance would cause embarrassment to donor and U.S. Government.
Mr. Man F. Tse, Program Manager of the ICE National Intellectual Property Rights Coordination Center | TRAVEL: Participation in a meeting to discuss ways to collaborate with EUROPOL and industry to combat illicit cyber commerce. Rec'd—8/26/2014. Est. Value—$2,550.33 | Mr. Chris Vansteenkiste, Europol Intellectual Property Crime Team Project Manager for the European Union | Non-acceptance would cause embarrassment to donor and U.S. Government.
Mr. Majdi Haddad, FSN-I, ICE Attaché for Abu Dhabi | TRAVEL: Escort delegation of the United Arab Emirates law enforcement officials to view DHS facilities and operations. Rec'd—9/19/2014. Est. Value—$5,662.59 | Lieutenant Colonel Saleh Saeed Al Amoodi, Manager of the International Training Department of the Abu Dhabi Police of the United Arab Emirates | Non-acceptance would cause embarrassment to donor and U.S. Government.
Mr. Charles Baxter, Assistant Attaché, ICE Attaché for Abu Dhabi | TRAVEL: Escort delegation of the United Arab Emirates law enforcement officials to view DHS facilities and operations. Rec'd—9/19/2014. Est. Value—$5,662.59 | Lieutenant Colonel Saleh Saeed Al Amoodi, Manager of the International Training Department of the Abu Dhabi Police of the United Arab Emirates | Non-acceptance would cause embarrassment to donor and U.S. Government.
Mr. Stephen Carruth, Civil Emergency Planning Officer of the U.S. Mission to the North Atlantic Treaty Organization | TRAVEL: Attend an international meeting in Kiev, Ukraine as FEMA's representative at the U.S. Mission to NATO and Vice Chair of the NATO Civil Protection Group, to review the Ukraine State Emergency Services contribution to their 2015 NATO Partnership Plan. Rec'd—10/13-15/2014. Est. Value—$737.00 | North Atlantic Treaty Organization | Non-acceptance would cause embarrassment to donor and U.S. Government.
Mr. Erik Barnett, ICE Attaché to the European Union | TRAVEL: HSI representative conducted cyber threats workshop sponsored by the United Nations Interregional Crime and Justice Research Institute. Rec'd—10/21/2014. Est. Value—$1,586.50 | Ms. Marina Mazzini, Public Information Officer of the United Nations Interregional Crime and Justice Research Institute | Non-acceptance would cause embarrassment to donor and U.S. Government.
Mr. Leo Lin, ADAD, ICE International Operations | TRAVEL: Delivered key note remarks/speech to KNPA CT conference. Rec'd—10/26/2014. Est. Value—$7,977.00 | National Police Agency of the Republic of Korea | Non-acceptance would cause embarrassment to donor and U.S. Government.
Ms. Lucy Escamilla, Program Manager, ICE Cultural Property Art Antiquities Program | TRAVEL: Seminar to combat the illicit trafficking of cultural property. Rec'd—12/1/2014. Est. Value—$2,000.00 | Guardia Civil Foundation of the Kingdom of Spain | Non-acceptance would cause embarrassment to donor and U.S. Government.
Mr. Mike Hatfield, Operations Manager, ICE International Operations | TRAVEL: ICE HSI representative to speak on interagency cooperation at a training session entitled “Program Chemical Explosives Counter-Smuggling Investigations Training”. Rec'd—12/6/2014. Est. Value—$2,318.00 | INTERPOL | Non-acceptance would cause embarrassment to donor and U.S. Government.
Mr. Timothy Bradley and Mr. Eric Stowers, ICE Representatives, ICE Attaché to the Caribbean | TRAVEL: Airfare and hotels. Provide training/presentations to various units within the Martinique French Customs/Navy. Rec'd—12/16/2014. Est. Value—$2,869.28 | Mr. Rodolphe Gautreau, Deputy Customs Attaché of the French Republic to the United States | Non-acceptance would cause embarrassment to donor and U.S. Government.

AGENCY: Department of Housing and Urban Development
[Report of Tangible Gift Furnished by the Department of Housing and Urban Development]
Name and title of person accepting the gift on behalf of the U.S. Government | Gift, date of acceptance on behalf of the U.S. Government, estimated value, and current disposition or location | Identity of foreign donor and government | Circumstances justifying acceptance
The Honorable Julián Castro, Secretary of Housing and Urban Development of the United States | Kutani Yaki vase with cranes. Rec'd—10/27/2014. Est. Value—$450.00. Disposition—Retained for official use in the Secretary's office | His Excellency Kenichiro Sasae, Ambassador of Japan to the United States | Non-acceptance would cause embarrassment to donor and U.S. Government.

AGENCY: Department of Justice
[Report of Tangible Gifts Furnished by the Department of Justice]
Name and title of person accepting the gift on behalf of the U.S. Government | Gift, date of acceptance on behalf of the U.S. Government, estimated value, and current disposition or location | Identity of foreign donor and government | Circumstances justifying acceptance
The Honorable Eric Holder, Attorney General of the United States | Rug with case. Gold and silver ship depicting United States and the State of Qatar flags in case. Cartier bracelet with engraving. Rec'd—5/12/2014. Est. Value—$24,150.00. Disposition—Accepted on behalf of the Department of Justice and forwarded to JMD/Property | The Honorable Dr. Ali Bin Fetais Al-Marri, Attorney General of the State of Qatar | Non-acceptance would cause embarrassment to donor and U.S. Government.
The Honorable Eric Holder, Attorney General of the United States | Men's hat. Men's gloves. Men's scarf. Rec'd—12/15/2014. Est. Value—$1,265.00. Disposition—Accepted on behalf of the Department of Justice and forwarded to JMD/Property | His Excellency Abdullah Bin Nasser Khalifa Al Thani, Prime Minister and Minister of Interior of the State of Qatar | Non-acceptance would cause embarrassment to donor and U.S. Government.

AGENCY: Department of Transportation
[Report of Travel Furnished by the Department of Transportation]
Name and title of person accepting the gift on behalf of the U.S. Government | Gift, date of acceptance on behalf of the U.S. Government, estimated value, and current disposition or location | Identity of foreign donor and government | Circumstances justifying acceptance
Dr. John Tunna, Director of FRA's Research and Development Division | TRAVEL: 2014 Rail safety conference in Australia. Rec'd—3/24-27/2014. Est. Value—$4,970.50 | Rail Industry Safety and Standards Board of Australia | Non-acceptance would cause embarrassment to donor and U.S. Government.
Dr. Patricia S. Hu, Director of the Bureau of Transportation Research | TRAVEL: Invited speaker at the 11th meeting of the Organization for Economic Cooperation and Development Committee on Statistics and Statistical Policy. Rec'd—4/2014. Est. Value—$832.50 | Organization for Economic Cooperation and Development | Non-acceptance would cause embarrassment to donor and U.S. Government.
Mr. Thomas Littleton, Associate Administrator of Transit Safety and Oversight | TRAVEL: Invitation payment of airfare and lodging. Rec'd—9/23/2014. Est. Value—$1,700.00 | Ministry of Land, Infrastructure, and Transport of the Republic of Korea | Non-acceptance would cause embarrassment to donor and U.S. Government.
Mr. Mathew Lesh, Transportation Program Specialist | TRAVEL: Invitation payment of airfare and lodging. Rec'd—10/14/2014. Est. Value—$1,840.00 | CIVITAS | Non-acceptance would cause embarrassment to donor and U.S. Government.

AGENCY: Department of Treasury
[Report of Tangible Gifts and Travel Furnished by the Department of Treasury]
Name and title of person accepting the gift on behalf of the U.S. Government | Gift, date of acceptance on behalf of the U.S. Government, estimated value, and current disposition or location | Identity of foreign donor and government | Circumstances justifying acceptance
The Honorable Jacob Lew, Secretary of the Treasury of the United States | Encased sterling silver John Barry silver Riyal commemorative coin with book and DVD. Rec'd—6/17/2014. Est. Value—$700.00. Disposition—Retained for official use in the Secretary's office | His Excellency Dr. Ibrahim Al-Assaf, Minister of Finance of the Kingdom of Saudi Arabia | Non-acceptance would cause embarrassment to donor and U.S. Government.
Ms. Marisa Lago, Assistant Secretary of Internal Affairs | Hand-crafted buisness card holder. Rec'd—9/17/2013. Est. Value—$385.00. Disposition—Pending transfer to General Services Administration | His Excellency Cesar V. Purisima, Secretary of the Philippine Department of Finance | Non-acceptance would cause embarrassment to donor and U.S. Government.
Ms. Marisa Lago, Assistant Secretary of Internal Affairs | Three piece Taihwa rich porcelain set. Rec'd—11/21/2013. Est. Value—$1,800.00. Disposition—Pending transfer to General Services Administration | Mr. Vincent Siew, Leader's Representative to APEC of Chinese Taipei (Taiwan) | Non-acceptance would cause embarrassment to donor and U.S. Government.
Mr. Phillip Morris, Advisor of the Office of Technical Assistance and Banking Advisor | TRAVEL: Lodging cost. Rec'd—7/13-18/2014. Est. Value—$1,880.00 | Nigeria Deposit Insurance Corportation | Non-acceptance would cause embarrassment to donor and U.S. Government.
Mr. Adam Szubin, Director of TFI, OFAC | TRAVEL: Lodging cost. Rec'd—11/6-11/2014. Est. Value—$2,641.08 | Government of the Sultanante of Oman | Non-acceptance would cause embarrassment to donor and U.S. Government.

AGENCY: Federal Communications Commission
[Report of Travel Furnished by the Federal Communications Commission]
Name and title of person accepting the gift on behalf of the U.S. Government | Gift, date of acceptance on behalf of the U.S. Government, estimated value, and current disposition or location | Identity of foreign donor and government | Circumstances justifying acceptance
The Honorable Ajit V. Pai, Commissioner of the Federal Communications Commission | TRAVEL: Hotel expenses in Cartagena, Colombia to speak at the IX International Regulatory Workshop. Rec'd—8/29-9/2/2014. Est. Value—$1,083.00 | Ms. Mariana Sarmiento Argüello, International Relations and Communications Coordinator of the Commission for Communications Regulations of the Republic of Colombia | Non-acceptance would cause embarrassment to donor and U.S. Government.

AGENCY: Federal Reserve Board
[Report of Tangible Gift Furnished by the Federal Reserve Board]
Name and title of person accepting the gift on behalf of the U.S. Government | Gift, date of acceptance on behalf of the U.S. Government, estimated value, and current disposition or location | Identity of foreign donor and government | Circumstances justifying acceptance
The Honorable Janet Yellen, Chair of the Board of Governors of the Federal Reserve System | Boxed set of seven coins commemorating the 15th anniversary of the Central Bank of Luxembourg, one from each year starting with 2009 and ending with 2013 including an additional coin from 2012 and a gold anniversary coin for 2013. Rec'd—3/11/2014. Est. Value—$480.55. Disposition—Pending transfer to General Services Administration | Mr. Gaston Reinesch, Governor of the Central Bank of Luxembourg | Non-acceptance would cause embarrassment to donor and U.S. Government.

AGENCY: U.S. House of Representatives
[Report of Travel Furnished by the U.S. House of Representatives]
Name and title of person accepting the gift on behalf of the U.S. Government | Gift, date of acceptance on behalf of the U.S. Government, estimated value, and current disposition or location | Identity of foreign donor and government | Circumstances justifying acceptance
The Honorable Ander Crenshaw, Member of Congress of the United States | TRAVEL: Expenses to visit Volcanoes National Park and mountain gorillas. Rec'd—1/24/2014. Est. Value—$750.00 | His Excellency Paul Kagame, President of the Republic of Rwanda | Non-acceptance would cause embarrassment to donor and U.S. Government.
The Honorable Ann Kirkpatrick, Member of Congress of the United States | TRAVEL: Expenses to visit Volcanoes National Park and mountain gorillas. Rec'd—1/24/2014. Est. Value—$750.00 | His Excellency Paul Kagame, President of the Republic of Rwanda | Non-acceptance would cause embarrassment to donor and U.S. Government.
The Honorable Erik Paulsen, Member of Congress of the United States | TRAVEL: Expenses to visit Volcanoes National Park and mountain gorillas. Rec'd—1/24/2014. Est. Value—$750.00 | His Excellency Paul Kagame, President of the Republic of Rwanda | Non-acceptance would cause embarrassment to donor and U.S. Government.
The Honorable Loretta Sanchez, Member of Congress of the United States | TRAVEL: Airfare, lodging, and meals. Rec'd—2/18-20/2014. Est. Value—$1,823.00 | Ms. Angela Tumini, Associate Professor of the Diplomatic Academy University of the Republic of Azerbaijan | Non-acceptance would cause embarrassment to donor and U.S. Government.
The Honorable Mike Rogers, Member of Congress of the United States | TRAVEL: Dinner and lodging were provided following a national security discussion. Rec'd—10/23/2014. Est. Value—Unknown | Dr. Roderick Munday, Director of Studies in Law of the Peterhouse College of Cambridge University, United Kingdom of Great Britain and Northern Ireland | Non-acceptance would cause embarrassment to donor and U.S. Government.
The Honorable Mike Rogers, Member of Congress of the United States | TRAVEL: Dinner and lodging were provided following a national security discussion. Rec'd—10/24/2014. Est. Value—Unknown | Professor Keith Gull, Principal of St. Edmund Hall of Oxford University, United Kingdom of Great Britain and Northern Ireland | Non-acceptance would cause embarrassment to donor and U.S. Government.

AGENCY: United States Senate
[Report of Tangible Gifts and Travel Furnished by the United States Senate]
Name and title of person accepting the gift on behalf of the U.S. Government | Gift, date of acceptance on behalf of the U.S. Government estimated value, and current disposition or location | Identity of foreign donor and government | Circumstances justifying acceptance
The Honorable Tim Kaine, Senator of the United States | Painting, title: The Divian Fort as seen in the 1930s in a blue leather box. Rec'd—1/28/2014. Est. Value—$530.00. Disposition—Deposited with the Secretary of the Senate | His Excellency Sheikh Rashid bin Abdullah Al Khalifa, Minister of the Interior of the Kingdom of Bahrain | Non-acceptance would cause embarrassment to donor and U.S. Government.
The Honorable John McCain, Senator of the United States | 4′ x 6′ rug. Rec'd—1/2014. Est. Value—$4,000.00. Disposition—Deposited with the Secretary of the Senate | His Excellency Dr. Ali Bin Fetais Al-Marri, Attorney General of the State of Qatar | Non-acceptance would cause embarrassment to donor and U.S. Government.
The Honorable Lindsey Graham, Senator of the United States | 4′ x 6′ rug. Rec'd—1/2014. Est. Value—$4,000.00. Disposition—Deposited with the Secretary of the Senate | His Excellency Dr. Ali Bin Fetais Al-Marri, Attorney General of the State of Qatar | Non-acceptance would cause embarrassment to donor and U.S. Government.
The Honorable Angus S. King Jr., Senator of the United States | 98 million-year-old fish fossil. Rec'd—2/19/2014. Est. Value—$400.00. Disposition—Deposited with the Secretary of the Senate | The Honorable Ziad Hawat, Mayor of Byblos of the Lebanese Republic | Non-acceptance would cause embarrassment to donor and U.S. Government.
The Honorable Tim Kaine, Senator of the United States | 98 million-year-old fish fossil. Rec'd—2/19/2014. Est. Value—$400.00. Disposition—Deposited with the Secretary of the Senate | The Honorable Ziad Hawat, Mayor of Byblos of the Lebanese Republic | Non-acceptance would cause embarrassment to donor and U.S. Government.
Mr. James A. Wolfe, Security Director of the Select Committee on Intelligence | Swiss Army watch. Rec'd—4/25/2014. Est. Value—$450.00. Disposition—Deposited with the Secretary of the Senate | His Majesty Abdullah II ibn Al Hussein, King of the Hashemite Kingdom of Jordan | Non-acceptance would cause embarrassment to donor and U.S. Government.
The Honorable John McCain, Senator of the United States | 4′ x 6′ rug. Rec'd—5/13/2014. Est. Value—$4,000.00. Disposition—Deposited with the Secretary of the Senate | His Excellency Dr. Ali Bin Fetais Al-Marri, Attorney General of the State of Qatar | Non-acceptance would cause embarrassment to donor and U.S. Government.
The Honorable Lindsey Graham, Senator of the United States | Silk rug. Rec'd—5/13/2014. Est. Value—$4,000.00. Disposition—Deposited with the Secretary of the Senate | His Excellency Dr. Ali Bin Fetais Al-Marri, Attorney General of the State of Qatar | Non-acceptance would cause embarrassment to donor and U.S. Government.
The Honorable Robert Menendez, Senator of the United States | Portrait of Bernardo de Galvez. Rec'd—6/5/2014. Est. Value—$2,720.00. Disposition—Deposited with the Secretary of the Senate | Mr. Elias Bendodo Benasayag, President of the Provincial Deputation of Málaga of the Kingdom of Spain | Non-acceptance would cause embarrassment to donor and U.S. Government.
The Honorable Mitch McConnell, Senator of the United States | Blue and white procelain vase. Rec'd—6/19/2014. Est. Value—$399.94. Disposition—Deposited with the Secretary of the Senate | His Excellency Hsiao-Jung Lu, Deputy Secretary General of the National Security Council of Taiwan | Non-acceptance would cause embarrassment to donor and U.S. Government.
The Honorable John McCain, Senator of the United States | Rotisserie grill. Prime rib beef. Rec'd—12/30/2014. Est. Value—$650.00. Disposition—Deposited with the Secretary of the Senate. Perishable items handled pursuant to guidelines set forth by General Services Administration | His Majesty Abdullah II ibn Al Hussein, King of the Hashemite Kingdom of Jordan | Non-acceptance would cause embarrassment to donor and U.S. Government.
The Honorable John McCain, Senator of the United States | 6′ x 4′ Afghan rug. Rec'd—12/2014. Est. Value—$700.00. Disposition—Deposited with the Secretary of the Senate | General Sher Mohammad Karimi, Chief of Army Staff of the Islamic Republic of Afghanistan | Non-acceptance would cause embarrassment to donor and U.S. Government.
The Honorable James Inhofe, Senator of the United States | TRAVEL: Permit to visit Volcanoes National Park and mountain gorillas. Rec'd—1/24/2014. Est. Value—Unknown | His Excellency Paul Kagame, President of the Republic of Rwanda | Non-acceptance would cause embarrassment to donor and U.S. Government.
The Honorable John Boozman, Senator of the United States | TRAVEL: Permit to visit Volcanoes National Park and mountain gorillas. Rec'd—1/24/2014. Est. Value—Unknown | His Excellency Paul Kagame, President of the Republic of Rwanda | Non-acceptance would cause embarrassment to donor and U.S. Government.
Mr. Anthony Lazarski, Professional Staff Member of the Committee on Armed Services | TRAVEL: Permit to visit Volcanoes National Park and mountain gorillas. Rec'd—1/24/2014. Est. Value—Unknown | His Excellency Paul Kagame, President of the Republic of Rwanda | Non-acceptance would cause embarrassment to donor and U.S. Government.
Mr. Mark Powers, Professional Staff Member of the Office of Senator James Inhofe | TRAVEL: Permit to visit Volcanoes National Park and mountain gorillas. Rec'd—1/24/2014. Est. Value—Unknown | His Excellency Paul Kagame, President of the Republic of Rwanda | Non-acceptance would cause embarrassment to donor and U.S. Government.
Mr. Luke Holland, Professional Staff Member of the Office of Senator James Inhofe | TRAVEL: Permit to visit Volcanoes National Park and mountain gorillas. Rec'd—1/24/2014. Est. Value—Unknown | His Excellency Paul Kagame, President of the Republic of Rwanda | Non-acceptance would cause embarrassment to donor and U.S. Government.
Mr. Joel Starr, Professional Staff Member of the Office of Senator James Inhofe | TRAVEL: Permit to visit Volcanoes National Park and mountain gorillas. Rec'd—1/24/2014. Est. Value—Unknown | His Excellency Paul Kagame, President of the Republic of Rwanda | Non-acceptance would cause embarrassment to donor and U.S. Government.
The Honorable Robert Menendez, Senator of the United States | TRAVEL: Transportation within the Republic of Colombia via government-provided military aircraft and government-provided automobile and boat. Rec'd—2/20/2014. Est. Value—Unknown | Government of the Republic of Colombia | Non-acceptance would cause embarrassment to donor and U.S. Government.
Mr. Brandon Yoder, Senior Professional Staff Member of the Committee on Foreign Relations | TRAVEL: Transportation within the Republic of Colombia via government-provided military aircraft and government-provided automobile and boat. Rec'd—2/20/2014. Est. Value—Unknown | Government of the Republic of Colombia | Non-acceptance would cause embarrassment to donor and U.S. Government.
Mr. Daniel O'Brien, Staff Director of the Committee on Foreign Relations | TRAVEL: Transportation within the Republic of Colombia via government-provided military aircraft and government-provided automobile and boat. Rec'd—2/20/2014. Est. Value—Unknown | Government of the Republic of Colombia | Non-acceptance would cause embarrassment to donor and U.S. Government.
The Honorable Rand Paul, Senator of the United States | TRAVEL: Government provided lodging and transportation via patrolled SUV. Rec'd—8/16-21/2014. Est. Value—Unknown | Government of the Republic of Guatemala | Non-acceptance would cause embarrassment to donor and U.S. Government.
Mr. Duncan Paul, Son of Senator Rand Paul | TRAVEL: Government provided lodging and transportation via patrolled SUV. Rec'd—8/16-21/2014. Est. Value—Unknown | Government of the Republic of Guatemala | Non-acceptance would cause embarrassment to donor and U.S. Government.
Mr. Sergio Gor, Communications Advisor of the Office of Senator Rand Paul | TRAVEL: Government provided lodging and transportation via patrolled SUV. Rec'd—8/16-21/2014. Est. Value—Unknown | Government of the Republic of Guatemala | Non-acceptance would cause embarrassment to donor and U.S. Government.
Ms. Eleanor May, Press Secretary of the Office of Senator Rand Paul | TRAVEL: Government provided lodging and transportation via patrolled SUV. Rec'd—8/16-21/2014. Est. Value—Unknown | Government of the Republic of Guatemala | Non-acceptance would cause embarrassment to donor and U.S. Government.
Mr. Doug Stafford, Senior Advisor of the Office of Senator Rand Paul | TRAVEL: Government provided lodging and transportation via patrolled SUV. Rec'd—8/16-21/2014. Est. Value—Unknown | Government of the Republic of Guatemala | Non-acceptance would cause embarrassment to donor and U.S. Government.
The Honorable Bill Nelson, Senator of the United States | TRAVEL: Transportation within the Kingdom of Norway via government-provided military aircraft. Rec'd—8/25/2014. Est. Value—Unknown | Government of the Kingdom of Norway | Non-acceptance would cause embarrassment to donor and U.S. Government.
The Honorable Debbie Stabenow, Senator of the United States | TRAVEL: Transportation within the United Republic of Tanzania via small charter plane and ground transportation. Rec'd—8/31-9/1/2014. Est. Value—Unknown | Government of the United Republic of Tanzania | Non-acceptance would cause embarrassment to donor and U.S. Government.
Ms. Anne Brewster-Stanski, Scheduler of the Office of Senator Debbie Stabenow | TRAVEL: Transportation within the United Republic of Tanzania via small charter plane and ground transportation. Rec'd—8/31-9/1/2014. Est. Value—Unknown | Government of the United Republic of Tanzania | Non-acceptance would cause embarrassment to donor and U.S. Government.
Mr. Christopher Adamo, Staff Director of the Committee on Agriculture, Nutrition, and Forestry | TRAVEL: Transportation within the United Republic of Tanzania via small charter plane and ground transportation. Rec'd—8/31-9/1/2014. Est. Value—Unknown | Government of the United Republic of Tanzania | Non-acceptance would cause embarrassment to donor and U.S. Government.
Ms. Jacqlyn Schneider, Senior Professional Staff of the Committee on Agriculture, Nutrition, and Forestry | TRAVEL: Transportation within the United Republic of Tanzania via small charter plane and ground transportation. Rec'd—8/31-9/1/2014. Est. Value—Unknown | Government of the United Republic of Tanzania | Non-acceptance would cause embarrassment to donor and U.S. Government.
Mr. Joseph Shultz, Senior Professional Staff of the Committee on Agriculture, Nutrition, and Forestry | TRAVEL: Transportation within the United Republic of Tanzania via small charter plane and ground transportation. Rec'd—8/31-9/1/2014. Est. Value—Unknown | Government of the United Republic of Tanzania | Non-acceptance would cause embarrassment to donor and U.S. Government.
The Honorable Marco Rubio, Senator of the United States | TRAVEL: Transportation within the Republic of Colombia via National Guard helicopter. Rec'd—11/6/2014. Est. Value—Unknown | Government of the Republic of Colombia | Non-acceptance would cause embarrassment to donor and U.S. Government.
Mr. Brian Walsh, Professional Staff Member of the Office of Senator Marco Rubio | TRAVEL: Transportation within the Republic of Colombia via National Guard helicopter. Rec'd—11/6/2014. Est. Value—Unknown | Government of the Republic of Colombia | Non-acceptance would cause embarrassment to donor and U.S. Government.
Ms. Viviana Bovo, Policy Advisor of the Office of Senator Marco Rubio | TRAVEL: Transportation within the Republic of Colombia via National Guard helicopter. Rec'd—11/6/2014. Est. Value—Unknown | Government of the Republic of Colombia | Non-acceptance would cause embarrassment to donor and U.S. Government.
The Honorable Elizabeth Warren, Senator of the United States | TRAVEL: Transportation within the State of Israel via small aircraft. Rec'd—11/28/2014. Est. Value—Unknown | Government of the State of Israel | Non-acceptance would cause embarrassment to donor and U.S. Government.
Mr. Bruce Mann, Husband of Senator Elizabeth Warren | TRAVEL: Transportation within the State of Israel via small aircraft. Rec'd—11/28/2014. Est. Value—Unknown | Government of the State of Israel | Non-acceptance would cause embarrassment to donor and U.S. Government.

[FR Doc. 2015-29897 Filed 11-24-15; 8:45 am]

BILLING CODE 4710-20-P